FEDERAL COMMUNICATIONS COMMISSION

47 CFR Part 1

[MD Docket No. 24-86; MD Docket No. 24-85; FCC 24-93; FR ID 244040]

Review of the Commission's Assessment and Collection of Regulatory Fees for Fiscal Year 2024; Assessment and Collection of Space and Earth Station Regulatory Fees for Fiscal Year 2024, Second Report and Order

AGENCY: Federal Communications Commission.

ACTION: Final rule.

SUMMARY: In this document, the Commission revises its Schedule of Regulatory Fees to recover $390,192,000 that Congress has required the Commission to collect for its fiscal year (FY) 2024. Sections 9 and 9A of the Communications Act of 1934, as amended (Act or Communications Act), provides for the annual assessment and collection of regulatory fees by the Commission.

DATES: Effective September 25, 2024. To avoid penalties and interest, regulatory fees should be paid by the due date of September 26, 2024.

FOR FURTHER INFORMATION CONTACT: Roland Helvajian, Office of Managing Director at (202) 418-0444.

SUPPLEMENTARY INFORMATION: This is a summary of the Commission's Second Report and Order (Report and Order), FCC 24-93, MD Docket No. 24-86 and MD Docket No. 24-85, adopted on September 6, 2024, and released on September 6, 2024. The full text of this document is available for public inspection by downloading the text from the Commission's website at https://transition.fcc.gov/Daily_Releases/Daily_Business/2017/db0906/FCC-17-111A1.pdf.

Administrative Matters

Final Regulatory Flexibility Analysis

The Regulatory Flexibility Act of 1980, as amended (RFA), requires that an agency prepare a regulatory flexibility analysis for notice and comment rulemakings, unless the agency certifies that “the rule will not, if promulgated, have a significant economic impact on a substantial number of small entities.” Accordingly, we have prepared a Final Regulatory Flexibility Analysis (FRFA) concerning the possible impact of the rule changes contained in the Report and Order on small entities. The FRFA is set forth in the back of this document.

Final Paperwork Reduction Act of 1995 Analysis

This document contains a non-substantive change to information requirements that were previously reviewed and approved by the Office of Management and Budget pursuant to the Paperwork Reduction Act of 1995 (PRA), Public Law 104-13. The change will be submitted to the Office of Management and Budget for review as a non-substantive change. Because this change is non-substantive, there is no new or modified information collection burden for small business concerns with fewer than 25 employees, pursuant to the Small Business Paperwork Relief Act of 2002, Public Law 107-198.

Congressional Review Act

The Commission has determined, and the Administrator of the Office of Information and Regulatory Affairs, Office of Management and Budget, concurs that this rule is non-major under the Congressional Review Act, 5 U.S.C. 804(2). The Commission will send a copy of the Report and Order to Congress and the Government Accountability Office pursuant to 5 U.S.C. 801(a)(1)(A).

People With Disabilities

To request materials in accessible formats for people with disabilities (braille, large print, electronic files, audio format), send an email to fcc504@fcc.gov or call the Consumer and Governmental Affairs Bureau at (202) 418-0530 (voice).

Introduction

Each year, the Commission must adopt a schedule of regulatory fees to be collected by the end of September. For fiscal year (FY) 2024, the Commission is required to collect $390,192,000 in regulatory fees, pursuant to section 9 of the Communications Act of 1934, as amended (Act or Communications Act) and the Commission's FY 2024 Further Consolidation Appropriations Act. In the Report and Order, we adopt the regulatory fee schedule to assess and collect $390,192,000 in congressionally required regulatory fees for FY 2024. The regulatory fee schedule we adopt for FY 2024 was proposed in the Commission's annual regulatory fee notice of proposed rulemaking (FY 2024 NPRM) (89 FR 53276, June 25, 2024), as modified herein, and as set forth in tables 3 and 4.

The Report and Order revises the allocation of Space Bureau Full-Time Equivalents (FTE) burdens between Geostationary Orbit (GSO) and Non-Geostationary Orbit (NGSO) space station fee categories using the existing methodology for calculating their proportional share of regulatory fees; and keeps in place the existing allocation of Space Bureau FTE burdens between NGSO “less complex” and NGSO “other” space stations. The Report and Order also adopts the proposals in our FY 2024 NPRM, with some modifications. Similar to the reallocation process conducted in FY 2023, the Commission also reallocates approximately 61 indirect FTEs as direct FTEs to one of the Commission's core licensing bureaus. Such reallocations reflect our conclusion that we can determine, with reasonable accuracy for this fiscal year, that certain FTE work in the Office of General Counsel, the Office of Economics and Analytics, and the Public Safety and Homeland Security Bureau is sufficiently linked to the oversight and regulation of regulatory fee payors in a core bureau such that the FTE burden of that work should be allocated as direct to that core bureau for regulatory fee purposes. The direct FTE allocations used in calculating regulatory fees in the Report and Order also reflect the fact the Commission reallocated all the authorities and functions of the (former) International Bureau to the new Space Bureau and a new Office of International Affairs (OIA). Consistent with our long-standing regulatory fee methodology, the Commission implements these reallocations, for regulatory fee purposes, for FY 2024.

Additionally, in the Report and Order, the Commission adopts the proposal in the FY 2024 NPRM for the calculation of television broadcaster regulatory fees, using our traditional methodology of population-based full-service broadcast television regulatory fees; and adopts the proposal to discontinue the presumption that broadcast stations that are dark or were recently dark or bankrupt are experiencing financial hardship sufficient to justify waiver of their regulatory fees. The end of the dark station presumption will apply for FY 2025 regulatory fees. For FY 2024 regulatory fees, § 1.1910 of the Commission's rules will apply in full. In addition, pursuant to § 1.1166 of the Commission's rules, regulatory fee payors filing requests for waiver, reduction, deferral, and/or installment payment of regulatory fees must provide all financial documentation to support the request at the time of filing the request. Finally, to assist with a significant increase from the FY 2023 fees, particularly for earth station and NGSO space station fee payors, we direct the Office of Managing Director to provide the lowest interest rate permitted by statute and forgo its customary down payment requirement when FY 2024 regulatory fee debt is paid under an installment payment plan.

The Commission will seek further comment on the remaining proposals made in the Space and Earth Station Regulatory Fees NPRM (89 FR 20582, March 25, 2024) that were not adopted in the recent Space Station Regulatory Fees Order (89 FR 60572, July 26, 2024) and the suggestions made by commenters in connection with these proposals. Those proposals include assessing regulatory fees on authorized, but not operational, space and earth stations; using an alternative methodology for assessing space station regulatory fees; establishing tiers within existing NGSO space station fee categories based on the number of space stations in the system; and creating new categories of earth station regulatory fees. The Commission expects to take action on these remaining proposals in time for them to be effective for FY 2025.

Background

Pursuant to sections 9 and 9A of the Act and the Commission's FY 2024 appropriations, we are required to collect $390,192,000 in regulatory fees for FY 2024. Regulatory fees recover all of the Commission's non-auctions costs, including direct costs, such as salaries and expenses; indirect costs, such as overhead functions; statutorily required tasks that do not directly equate with oversight and regulation of a particular regulatory fee payor but instead benefit the Commission and the industry as a whole; and support costs, such as rent, utilities, and equipment. Regulatory fees must recover the total amount of the annual appropriation; i.e., they must also recover the Commission's costs incurred in oversight and regulation of entities that do not pay regulatory fees, including those that are statutorily exempt from paying regulatory fees (governmental and nonprofit entities, amateur radio operators, and noncommercial radio and television stations), entities that are exempt from payment of regulatory fees because their total assessed annual regulatory fees fall below the annual de minimis threshold, and entities whose regulatory fees are waived.

Regulatory Fees Calculation Methodology

Congress prescribed a method of collecting an amount equal to the full S&E appropriation by keying the regulatory fee assessment to our FTE burden. Specifically, the methodology for assessing regulatory fees must “reflect the full-time equivalent number of employees within the bureaus and offices of the Commission, adjusted to take into account factors that are reasonably related to the benefits provided to the payor of the fee by the Commission's activities.” Given the Act's explicit language that fees must reflect FTEs, the Commission has long concluded that FTE counts are the most administrable starting point for regulatory fee allocations. The Commission hews closely to the statutory command to start with FTE counts and then potentially adjust fees to reflect other factors related to the benefit of Commission regulation and oversight. It is also noted that regulatory fees are a zero-sum game, because the Commission must collect the full amount of its appropriation each fiscal year. Thus, any decrease to the fees paid by one category of regulatory fee payors necessitates an increase in fees paid by other categories of regulatory fee payors. Therefore, the amount assigned to be recovered from each regulatory fee category relates to the FTE burden associated with oversight and regulation of those fee payors by the relevant core bureaus. The Commission assigns direct FTEs within a bureau to specific fee categories in a manner that reflects the time spent by FTEs on oversight and regulation of a particular set of fee payors, which is the “benefit” to such payors in each fee category. Thus, the Commission apportions regulatory fees across fee categories based on the number of direct FTEs in each core bureau to take into account factors that are reasonably related to the payor's benefits. We allocate appropriated amounts to be recovered proportionally based on the number of direct FTEs within each core bureau; this is subdivided within each core bureau into fee categories among the regulatees served by the core bureau; and then divided by a unit that allocates the regulatory fee payor's proportionate share based on an objective measure. If work performed by a group is directly related to our oversight and regulation of a regulatory fee category in one of the core licensing bureaus, then such FTEs are direct FTEs.

For the annual regulatory fee calculations, the Commission first determines the number of direct FTEs, i.e., non-auctions FTEs that work in each of the Commission's core bureaus (i.e., the Wireless Telecommunications Bureau, the Media Bureau, the Wireline Competition Bureau, the Office of International Affairs, and the Space Bureau). Regulatory fees are initially apportioned across the regulatory fee categories based on the number of direct FTEs in each core bureau whose time is focused on a particular industry segment and then is adjusted “to take into account factors that are reasonably related to the benefits provided to the payor of the fee by the Commission's activities.” The Commission receives FTE data from its Human Resources Management office and identifies FTEs at the core bureau level (i.e., direct FTEs) to determine the FTE allocations for the core bureaus. The Commission also consults with the bureaus and offices to ascertain if FTEs previously deemed direct for a bureau or office should continue for the next fiscal year and this FTE data is then apportioned to the various fee categories within each core bureau based on FTE time spent on each fee category and is used to calculate the percentage of the total amount of regulatory fees to be collected for a given fiscal year from each core bureau. Those proportions are then subdivided within each core bureau into fee categories among the regulatees served by the core bureau. Finally, within each regulatory fee category the amount to be collected (fee category proportional percentage multiplied by the revenue target goal) is divided by a unit that allocates the regulatory fee payor's share based on an objective measure.

Regulatory fees must cover the Commission's entire appropriation, and this includes Commission work on issues for which we do not have regulatory fee categories. Therefore, we continue to find that, consistent with section 9 of the Act, regulatory fees are not based on a precise allocation of specific employees with certain work assignments each year and instead are based on a higher-level approach. Indirect FTE time covers a wide range of issues that may also include services that are not specifically correlated with one core bureau, let alone one specific category of regulatory fee payors. Indirect FTE work also includes matters that are not specific to any regulatory fee category, and many Commission attorneys, engineers, analysts, and other staff work on a variety of issues during a single fiscal year. For example, indirect FTEs that devote time to broadband internet access services or Universal Service Fund issues may also work on a variety of other issues during the fiscal year. Further, much of the work that could be assigned to a single category of regulatory fee payors is likely to be interspersed with the work that FTEs do on behalf of many entities that do not pay regulatory fees, e.g., those that are statutorily exempt from paying regulatory fees (governmental and nonprofit entities, amateur radio operators, and noncommercial radio and television stations), entities that are exempt from payment of regulatory fees because their total assessed annual regulatory fees fall below the annual de minimis threshold, and entities whose regulatory fees are waived.

There must be a very strong rationale for changing the manner of proportionally allocating indirect FTEs to certain fee categories based on direct FTEs because any such changes will impact the fees of other regulatory fee categories. Any decrease to the fees paid by one category of regulatory fee payors necessitates an increase in fees for others. Thus, we affirm that (other than for the reassignments discussed below) the non-auctions FTE work in certain non-core bureaus and offices within the Commission are properly designated as indirect. Last year the Commission was able to determine with reasonable accuracy for the fiscal year that in some cases the indirect FTE work was directly related to the oversight and regulation of regulatory fee payors in a core bureau such that it should be considered as direct to that core bureau for calculating regulatory fees. After close analysis, the Commission reallocated 63 indirect FTEs from the Office of General Counsel, the Office of Economics and Analytics, and the Public Safety and Homeland Security Bureau as direct FTEs to core bureaus, for FY 2023. In addition, the Commission reallocated two direct FTEs from the Media Bureau as indirect FTEs because the nature of their work was sufficiently linked to work that is similar to work performed in the Enforcement Bureau, a non-core bureau. In analyzing the FTE work, we applied conservative estimates and rounded down to the nearest whole FTE for such reallocations. As we discuss below, we are applying the same analysis this year, with similar reallocations of some indirect FTEs to core bureaus as direct FTEs.

Adjustments and Amendments to the Regulatory Fee Schedule

Each year, in the annual regulatory fee proceeding, the Commission proposes adjustments to the fee schedule under section 9(c) of the Act to “(A) reflect unexpected increases or decreases in the number of units subject to the payment of such fees; and (B) result in the collection of the amount required” by the Commission's annual appropriation. Pursuant to section 9A(b)(1) of the Act, the Commission must notify Congress immediately upon adoption of any adjustment. Annual regulatory fees typically change each fiscal year as a consequence of the changes in the total amount to be collected, the number of Commission direct FTEs, and the unit estimates for each regulatory fee category. In addition, in considering other additions or deletions to the regulatory fee schedule, the Commission's focus is on direct FTE cost burdens related to the regulatory fee category at issue.

The Commission will also propose amendments to the fee schedule under section 9(d) of the Act “if the Commission determines that the schedule requires amendment so that such fees reflect the full-time equivalent number of employees within the bureaus and offices of the Commission, adjusted to take into account factors that are reasonably related to the benefits provided section 9A(b)(2) of the Act, the Commission must notify Congress at least 90 days prior to making effective any amendments to the regulatory fee schedule. The Commission considers a section 9(d) amendment, such as the adoption of a new regulatory fee category or a change in methodology for an existing regulatory fee category only after developing a sufficient basis for making the change, and works to ensure that all changes ensure that our assessment of regulatory fees is fair, administrable, and sustainable.

The Commission has adopted new regulatory fee categories and new methodologies for calculating regulatory fees when there is a sufficient basis for doing so under the relevant statutory provisions and precedent, and based on the record. In 2020, for example, the Commission included non-U.S. licensed space stations with U.S. market access grants in the existing “Space Stations” fee category. The Commission concluded that assessing the same regulatory fees on non-U.S. licensed space stations with U.S. market access as assessed on U.S. licensed space stations would better reflect the benefits received by these operators, i.e., the adjudicatory, enforcement, regulatory, and international coordination activities by the Commission's FTEs in the International Bureau. More recently, the Commission adopted a new methodology for calculating small satellite regulatory fees in the Space Station Regulatory Fees Order, and we are using that methodology for FY 2024.

Report and Order

In the Report and Order, the Commission adopts a schedule of regulatory fees, as set forth in tables 3 and 4, to collect $390,192,000 in congressionally required regulatory fees for FY 2024 by the end of September. The Commission also implements the same methodology we have used historically for allocating FTEs and the new methodology adopted in the Space Station Regulatory Fees Order for determining regulatory fees for small satellites. The Report and Order adopts the proposal from the Space and Earth Station Regulatory Fees NPRM to revise the allocation of the share of Space Bureau regulatory fees among earth and space stations and the GSO/NGSO regulatory fees allocation, as well as to maintain the current allocation between “less complex” and “other” NGSO space stations fee categories. The Report and Order also adopts the proposals, as modified herein, in our FY 2024 NPRM, and reallocates 61 indirect FTEs as direct to certain Commission core licensing bureaus. Additionally, we adopt our proposal for the calculation of television broadcaster regulatory fees for FY 2024 and, effective for FY 2025, we discontinue the presumption that broadcast stations that are dark or were recently dark or bankrupt are experiencing financial hardship sufficient to justify waiver of their regulatory fees. We also provide notice that for FY 2024 we will offer some but not all of the limited remaining temporary relief previously offered in response to the COVID-19 pandemic; that is, the Office of Managing Director will continue assessing the lowest interest rate permitted by statute and forgo the customary down payment for fee payors who are eligible for installment payment relief.

Methodology for Assessing Regulatory Fees and Reallocating FTEs

The three main factors in determining regulatory fees are the amount of the FY appropriation, direct FTE levels in core bureaus, and relevant unit measures for each regulatory fee category. Section 9 of the Act requires us to set regulatory fees to “reflect the full-time equivalent number of employees within the bureaus and offices of the Commission adjusted to take into account factors that are reasonably related to the benefits provided to the payor of the fee by the Commission's activities.” With respect to determining the number of direct FTEs, the Commission takes into consideration any adjustments necessitated by changes in these factors from the prior fiscal year. Second, the Commission looks to the core bureaus within the Commission in order to identify the number of direct non-auction FTEs in each core bureau for purposes of the regulatory fee calculation. After we calculate the number of direct FTEs for each core bureau, we can determine the percentage of the total amount of regulatory fees to be collected from each regulatory fee category within each core bureau. These proportional calculations allocate all Commission non-auction related costs across all regulatory fee categories.

In FY 2023, in addition to looking at the current allocation of direct FTEs within the core bureaus, the Commission analyzed the work of indirect FTEs in non-core bureaus and offices and, where the Commission could determine with reasonable accuracy that such work was spent on the regulation and oversight of a regulatory fee category, the Commission reallocated the burden of that work as direct to a core bureau, for regulatory fee purposes. As a result of such analysis for FY 2023, 63 indirect FTEs from the Office of General Counsel (OGC), the Office of Economics and Analytics (OEA), and the Public Safety and Homeland Security Bureau (PSHSB) were reallocated as direct FTEs to a core bureau, for regulatory fee purposes, based on the Commission's evaluation of the burden of their work. For FY 2024, we are adopting the same analysis of indirect FTEs.

In our FY 2023 Report and Order (88 FR 63694, September 15, 2023), we explained that FY 2024 would be the first year where we incorporate the Space Bureau and the Office of International Affairs into our analysis, even though the organizational changes became effective on April 13, 2013. Below we explain how changes in the FTE allocations impact our analysis. For FY 2024, we analyzed the work of PSHSB, OGC, and OEA FTEs to determine whether any of their indirect FTE work should be allocated as direct FTEs to a core bureau for regulatory fee purposes, as we had done in FY 2023. As described in more detail below, 61 indirect FTEs (after two Media Bureau FTEs are assigned to the Enforcement Bureau because of the tasks that are performed by the two Media Bureau staff) are reallocated as direct FTEs to a core bureau for regulatory fee purposes, based on our evaluation of the burden of their work. We find that these proposed reallocations are consistent with section 9 of the Act, which requires us to base our methodology on the number of FTEs in calculating regulatory fees.

Reallocations, for Regulatory Fee Purposes, of Certain Indirect FTEs as Direct FTEs

For FY 2024, we reallocate 61 indirect FTEs from the Office of Economics and Analytics, the Office of General Counsel, and the Public Safety and Homeland Security Bureau and add those FTEs as direct to the relevant core bureaus, for regulatory fee purposes. Based upon our evaluation of indirect FTE time in the Office of Economics and Analytics, the Office of General Counsel, and the Public Safety and Homeland Security Bureau, we find that 63 indirect FTEs should be reallocated as direct FTEs because they devote their time to the oversight and regulation of regulatory fee payors. We will also continue to reallocate two direct FTEs from the Media Bureau as indirect because the nature of their work is sufficiently linked to work that is similar to that performed in the Enforcement Bureau, which has been categorized as indirect. As we explained in the FY 2023 NPRM (88 FR 36154, June 1, 2023), when we discuss FTEs, we are not referring to any particular employee at the Commission but rather to an amount of work performed annually by a full time employee or employees. In analyzing the work, the Commission applied conservative estimates so as not to imply a false sense of precision in the proposed reallocation. Specifically, where the amount of work under consideration for reallocation of an indirect FTE was half an FTE or less, we rounded down and we only proposed our reallocations in full FTE increments. As we have discussed our analysis for the Office of Economics and Analytics, the Office of General Counsel, and the Public Safety and Homeland Security Bureau reallocations in the FY 2023 Report and Order and the FY 2023 NPRM, we are not repeating the analysis here.

Based on these reallocations, and after adjustments are made to these direct FTE counts to implement Commission precedent, we will collect approximately $6.711 million (1.72%) in fees from the Office of International Affairs regulatory fee payors; $41.204 million (10.56%) in fees from the Space Bureau regulatory fee payors; $100.084 million (25.65%) in fees from Wireless Telecommunications Bureau regulatory fee payors; $127.203 million (32.60%) in fees from Wireline Competition Bureau regulatory fee payors; and $114.990 million (29.47%) in fees from Media Bureau regulatory fee payors. The reallocations for regulatory fee purposes will result in increasing the number of direct FTEs in core bureaus and increasing the percentage of FTEs in some of the bureaus. Our underlying methodology for calculating regulatory fees remains unchanged; our regulatory fee calculation continues to be consistent with section 9 of the Act, which requires us to base our methodology on the number of FTEs in calculating regulatory fees.

Table 1—FY 2024 FTE Reallocations
Core bureau/office | Total FY 2024 direct FTEs without reallocations | FY 2024 reallocations | Total FY 2024 direct FTEs with reallocations | FY 2024 percent of direct FTEs, after reallocation
Office of International Affairs | 8 | 0 | 8 | 1.72
Space Bureau | 48 | +1 (1 from OEA) | 49 | 10.56
Wireless Telecommunications Bureau | 95 | +24 (8 from OEA, 2 from OGC, and 14 from PSHSB) | 119 | 25.65
Wireline Competition Bureau | 128.25 | +23 (13 from OEA, 1 from OGC, and 9 from PSHSB) | 151.25 | 32.60
Media Bureau | 125 | +13 (7 from OEA, 1 from OGC, 7 from PSHSB, and −2 from EB) | 138 | 29.47
Total | 404.25 | 61 | 465.25 | 100

Space Bureau and Office of International Affairs

Among its responsibilities regarding satellite and space-based communications and activities, the Space Bureau leads complex policy analysis and rulemakings; authorizes satellite and earth station systems used for space-based services; streamlines regulatory processes; and fosters the efficient use of spectrum and orbital resources. The Space Bureau also serves as the Commission's focal point for coordination with other U.S. government agencies on matters of space policy and governance and collaborates with the Office of International Affairs for consultations with other countries, international and multi-lateral organizations, and foreign government officials that involve satellite and space policy matters.

The Space Bureau has three divisions that have the functions previously handled by the International Bureau's Satellite Division: the Satellite Licensing Division, the Satellite Programs and Policy Division, and the Earth Station Licensing Division. Pursuant to the procedure discussed in paragraph six, above, our Human Resources Management office has identified 54 FTEs in the Space Bureau for FY 2024; of these, 48 are categorized as direct FTEs and six are devoted to matters that do not provide oversight and regulation of any category of regulatory fee payors, and thus are indirect FTEs.

The indirect Space Bureau FTEs coordinate with the National Aeronautics and Space Administration (NASA), Federal Aviation Administration (FAA), National Oceanic and Atmospheric Administration (NOAA), and the State Department on space sustainability, planetary protections, and on space innovation. They assist the Office of Engineering and Technology in reviewing applications for experimental licenses for space-based activities. The Space Bureau works closely with the Office of International Affairs to help cover certain ITU World Radiocommunications Conference (WRC) agenda items. We conclude that six Space Bureau FTEs are appropriately considered indirect as such work does not focus on the oversight and regulation of a specific category of regulatory fee payors, but instead benefits the Commission, the telecommunications industry, or the public as a whole, or in the case of work done on experimental licenses, is in furtherance of licenses that are not currently subject to a regulatory fee.

The Commission rejects Kinéis' argument that we should consider more of the Space Bureau direct FTEs as indirect for regulatory fee purposes in order to reduce the regulatory fees for space stations. We recognize that previously the International Bureau had only 28 direct FTEs (of which 20 worked on space and earth stations). As explained above, the Commission obtained FTE data from our Human Resources Management office and determined that for FY 2024, there are a total of 54 FTEs within the Space Bureau. After consultation with the Space Bureau and careful analysis, we have determined with reasonable accuracy for this fiscal year that 48 FTEs are direct FTEs and six are indirect FTEs, (and one indirect FTEs is designated as direct), for a total of 49 direct FTEs in the Space Bureau. Of these 49 direct FTEs, nine are devoted to oversight and regulation of earth stations and 40 to space stations. This FTEs work directly relates to the oversight and regulation of regulatory fee payors in a core bureau such that it should be considered as direct. As such, it would not be consistent with our implementation of section 9 to reassign them as indirect in order to reduce the regulatory fees of the space and earth station regulatory fee payors.

Thus, for FY 2024, we have a total of 54 FTEs within the Space Bureau, 48 direct FTEs, six indirect FTEs, and one indirect FTE from OEA designated as direct, for a total of 49 direct FTEs, an increase from the 20 FTEs from FY 2023 working on Space and Earth Stations.

Space Stations and Earth Stations

There are two main categories of Space Bureau regulatory fee payors: earth and space stations. There is a single category of earth station payors—Earth Stations: Transmit/Receive & Transmit only. Space stations consist of those in geostationary satellite orbit (GSO) and those in non-geostationary satellite orbit (NGSO). There are four categories of space station regulatory fee payors: Space Stations (Geostationary Orbit); Space Stations (Non-Geostationary Orbit)—Less Complex; Space Stations (Non-Geostationary Orbit)—Other; and Space Station (Small Satellites). “Less Complex” NGSO systems are defined as NGSO satellite systems planning to communicate with 20 or fewer U.S. authorized earth stations that are primarily used for Earth Exploration Satellite Service (EESS) and/or Automatic Identification System (AIS). “Small Satellites” are space stations licensed pursuant to the streamlined small satellite process contained in § 25.122 of the Commission's rules. Since our fiscal year 2020 proceeding, non-U.S. licensed space stations granted market access to the United States through a Petition for Declaratory Ruling or through earth station licenses are subject to regulatory fees.

The units of assessment for GSO and NGSO space station regulatory fee categories differ in that the fee for GSO space stations is assessed per satellite in geostationary orbit, whereas the fee assessed for NGSO systems, either “less complex” or “other,” is per system of satellites, with no limit on the number of satellites per system. Fees for small satellites are assessed per license/call sign, which can include up to 10 satellites or spacecraft. The unit of regulatory fees for GSO space stations is a single satellite, whereas the unit of regulatory fees for NGSO space stations can include many satellites. Thus, although the single highest regulatory fee for space stations is for Space Stations (Non-Geostationary Orbit)—Other, this fee reflects the regulatory burden associated with the licensing and oversight of numerous space stations in the system, usually subject to processing rounds, complex spectrum sharing arrangements, and providing global coverage. By contrast, the per unit fee for Space Stations (Geostationary Orbit) is lower, but an operator providing global coverage may be paying regulatory fees on multiple GSO space stations, which could result in annual regulatory fee payments by a single fee payor in aggregate far greater than the regulatory fee for Space Stations (Non-Geostationary Orbit)—Other providing similar services and coverage.

Small Satellites and RPO, OOS, and OTV Regulatory Fees

In 2019, the Commission adopted a new, optional licensing process for small satellites and spacecraft and a small satellite regulatory fee category for licensed and operational space stations authorized under the process adopted in that proceeding. This process enabled qualified applicants to choose a streamlined licensing procedure resulting in an easier application process, a lower application fee, and a shorter timeline for review.

In our recent Space Station Regulatory Fees Order, the Commission adopted the proposal to set the regulatory fee for small satellites for FY 2024 at the level set for FY 2023, i.e., $12,215, with future annual adjustments to reflect the percentage change in the Commission's annual appropriation, unit count, and FTE allocation percentage from the previous fiscal year. The Commission stated that changes to the methodology for assessing fees for small satellites would be implemented as part of the order adopting FCC-wide regulatory fees for FY 2024. Accordingly, we are assessing the small satellite fee for FY 2024 at $12,215.

The Space Station Regulatory Fees Order also adopted the proposal to assess regulatory fees, effective for FY 2024, on spacecraft primarily performing Rendezvous and Proximity Operations (RPO) and On-Orbit Servicing (OOS) by including them in the existing regulatory fee category “Space Stations (per license/call sign in non-geostationary orbit) (Small Satellites),” on an interim basis, regardless of the orbit in which they are designed to operate. It also concluded that it is appropriate to assess regulatory fees on Orbital Transfer Vehicles (OTV) on an interim basis in the same manner, and stated that the changes to the methodology for assessing fees for RPO, OOS, and OTV space stations would be implemented as part of the order adopting FCC-wide regulatory fees for FY 2024. Accordingly, we will assess regulatory fees on RPO, OOS, and OTV space stations for FY 2024 using the regulatory fee category for small satellites, if such stations are required to pay regulatory fees for FY 2024.

GSO and NGSO Space Stations Allocation

Under an allocation adopted in 2020, 80% of space station regulatory fees are allocated to GSO space station fee payors and 20% of the space station regulatory fees to NGSO space station fee payors respectively. The Commission now adopts the proposal in the Space and Earth Station Regulatory Fees NPRM to change the allocation of space station regulatory fees from 80% of space station regulatory fees being allocated to GSO space station fee payors and 20% of the space station regulatory fees being allocated to NGSO space station fee payors to 60% of space station regulatory fees being allocated to GSO space station payors and 40% to NGSO space station payors (that is, changing from an “80/20 GSO/NGSO split” to a “60/40 GSO/NGSO split”). The new allocation is supported by many comments, particularly from GSO space station fee payors. We recognize that this will result in increases to fees for NGSO systems; however, we conclude that this is consistent with section 9 of the Act because this change more accurately reflects the apportionment of current FTE work between these two categories of regulatory fee payors since the Commission last assessed the allocation in 2020.

As explained the Space and Earth Station Regulatory Fees NPRM, this change in the FTE allocation between GSO and NGSO fee categories is not based on a new methodology, but rather application of the existing methodology analyzing data from the previous three fiscal years. Specifically, the proposal focused on three factors that the Commission's previously had found to be reflective of licensing and regulatory oversight of GSO and NGSO operators: the number of applications processed, the number of changes made to the Commission's rules, and FTEs devoted to oversight of each category of operators. Analyzing this data, the Space and Earth Station Regulatory Fees NPRM tentatively concluded that a greater allocation of regulatory fees to NGSO space stations than was adopted by the Commission in 2020 more accurately reflects the benefits of the Commission's oversight and regulatory efforts for GSO and NGSO space stations for FY 2024. After reviewing the proposal and the record in response to the proposal, we find no significant error in the input data or the conclusions drawn from the data. Accordingly, we adopt the proposed updated allocation of 60% of space station regulatory fees being assessed to GSO space stations and 40% to NGSO space stations.

We disagree with the NGSO space station operators that dispute the accuracy of the input data or the conclusions drawn from the data. Specifically, SpaceX argues that the increased FTE burdens associated with NGSO space station regulation result from the opposition of GSO space stations to applications for NGSO space stations, and that the methodology does not take into account purportedly smaller amount of FTE resources needed to process amendments to NGSO space station applications or modifications of NGSO space station authorizations that do not increase interference or orbital debris risk. Other commenters argue that the Commission should not base its regulatory fee allocations on historical events, i.e., proceedings during the past three fiscal years, particularly transitory activities that have been completed and that the Commission's methodology focuses too much on licensing and regulation costs but does not sufficiently consider the benefits received as a result of the Commission's activities. We find, however, that these concerns do not undermine an adoption of an updated allocation between GSO and NGSO categories because these commenters fail to consider that the methodology we use here represents our analysis of the FTE time split on these categories and is the same methodology as was used in 2020 to establish the existing 80/20 allocation that they support. Furthermore, as the Commission has repeatedly acknowledged, attributing a value to proceedings is not an exercise in scientific precision, but rather an exercise in reasonable analysis.

We are also unconvinced that amendments to NGSO space station applications or modifications of NGSO space station authorizations do not raise interference or orbital debris risks, and therefore require less FTE burdens to authorize. Moreover, we reject the concept that comments or oppositions filed by GSO space station operators in response to NGSO space station filings support attributing those NGSO space station filings to the GSO share of space station regulatory fees. The underlying application is for an NGSO system. Parsing comments filed, or for that matter, issues raised by Commission staff in the Space Bureau or other core bureaus to determine if they might be attributed to other regulatory fee payors is not practicable or advisable in this context. The filing of comments or oppositions is a direct consequence of the filing and review of NGSO space station applications. Thus it is reasonably attributable to the NGSO share of the space station regulatory fees. We conclude, that all of these factors validates that the GSO/NGSO ratio should be adjusted to reflect that GSO space stations derive roughly 60% of the benefit from the Commission's regulatory efforts and NGSO space stations derive roughly 40%. Finally, we observe that the Commission has repeatedly stated that “Section 9 is clear . . . that regulatory fee assessments are based on the burden imposed on the Commission, not benefits realized by regulatees.” We affirm that it is appropriate under section 9 of the Act for the methodology used to determine the allocation of space station regulatory fees between GSO and NGSO space station fee categories to focus exclusively on the FTE burdens associated with each category.

The Commission therefore adopts this changed allocation of space station regulatory fees between GSO and NGSO space stations to become effective for FY 2024. Because the change in FTE burdens is not the result of new fee categories or a different methodology, it is not an amendment that requires 90-day notice to Congress under section 9A(b)(2) of the Act before becoming effective. Given that the change is a result of our current evaluation of the FTE burdens between the two categories of space stations, we find it is appropriate to adopt the change now rather than to adopt it to be effective in a future fiscal year. Accordingly, this change is effective for FY 2024.

Allocation Between NGSO—Other and NGSO—Less Complex

The Commission adopts the proposal in the Space and Earth Station Regulatory Fees NPRM to maintain the existing allocation of the regulatory fee burden between “Space Stations (Non-Geostationary Orbit)—Less Complex” and “Space Stations (Non-Geostationary Orbit)—Other” for FY 2024. That is, we maintain the existing allocation of allocating 20% of NGSO space station regulatory fees to “Space Stations (Non-Geostationary Orbit)—Less Complex” and 80% to “Space Stations (Non-Geostationary Orbit)—Other” fee payors. The record supports our tentative conclusion in the Space and Earth Station Regulatory Fees NPRM that there have not been any significant changes to the amount of FTE burdens allocated between these two fee categories since the “20/80” split of regulatory fees between NGSO “less complex” and NGSO “other” subcategories was adopted in 2021.

In reaching the tentative conclusion, we utilized the same methodology that was used in 2021 to adopt the existing 20/80 split between Less Complex and Other NGSO space station payors. Specifically, we considered the number of applications processed, the number of changes made to the Commission's rules, and the number of FTEs working on oversight for each category of operators. This methodology is the same as used for determining the allocation of regulatory fees among GSO and NGSO space station fee payors. In evaluating the FTE time devoted to the “less complex” and “other” subcategories, we considered the adjudicatory role of the Commission in connection with different types of NGSO systems, which is typically more intensive for those systems authorized as part of processing rounds. The Commission also considered the number of rulemakings over the last three fiscal years, as well as current rulemakings, and which types of NGSO systems are implicated in those rulemaking activities. Applying this methodology, we tentatively concluded that that more FTE time is spent on the NGSO “other” subcategory than on the NGSO “less complex” subcategory, and that the relative regulatory burden of “less complex” space station remains consistent with the existing 20% allocation.

The only party to comment on the tentative conclusion to preserve the 20/80 split supports its adoption. We see no errors in our tentative conclusion and affirm the findings that support maintaining the existing allocation of allocating 20% of NGSO space station regulatory fees to “less complex” and 80% to “Other” fee payors and, therefore, adopt the allocation for FY 2024. Maintaining the 20/80 allocation utilizes the same methodology that was used to establish it in 2021 and is not an amendment that requires 90-day notice to Congress under section 9A(b)(2) of the Act before becoming effective. Accordingly, our decision to maintain the existing 20/80 split between less complex and other NGSO space station fee payors is effective for FY 2024.

Earth Station Regulatory Fees

Earth station regulatory fees are assessed “per license or registration,” and each license or registration may include a single earth station, or multiple earth stations. The starting point for calculation of regulatory fees for space and earth stations is the number of direct FTEs in the Space Bureau. For FY 2024, we have a total of 54 FTEs within the Space Bureau, 48 direct FTEs, six indirect FTEs, and one indirect FTEs designated as direct, for a total of 49 direct FTEs. Of these 49 direct FTEs, nine are devoted to oversight and regulation of earth stations and 40 are focused on space stations. As a result, the percentage of FTEs working on earth station tasks is nine out of 49, or 18.37% ($7,569,225). We adopt our tentative conclusion to apportion regulatory fees between earth and space station payors based on the percentage of direct FTEs involved in the licensing and regulation of each category. With a projected unit count of 2,900, the FY 2024 earth station fee is calculated to be $2,610 per earth station license or authorization. Although this is a significant increase from the FY 2023, most comments support the increase as being reflective of the actual allocation of FTE resources between space and earth station categories in the Space Bureau. We decline to adopt the proposal of commenters to allocate an even greater share of FTE resources to earth stations, up to 30%. Our analysis above of the direct FTE resources attributable to licensing and regulation of earth stations supports an allocation of 18.37%.

The Commission also declines to adopt additional regulatory fee categories for earth stations at this time. The Space and Earth Station Regulatory Fees NPRM asked whether the Commission should revisit the question of whether to create subcategories of earth station regulatory fee payors, in addition to the existing single category of “Transmit/Receive & Transmit Only (per authorization or registration).” Comments in response express doubt that the creation of subcategories of earth stations with differing fee amounts is feasible, and urge that the record be further developed before creating subcategories of earth station regulatory fees. Other commenters argue that transmit/receive earth stations, particularly those used by broadcasters, should be subject to significantly lower regulatory fees than other types of earth stations, such mobile-satellite earth stations. We conclude that the record is not sufficiently developed at this time to adopt additional regulatory fee categories for earth stations. Instead, we will seek additional comment regarding the creation of additional earth station regulatory fee categories, as part of a future further notice of proposed rulemaking (FNPRM).

Changing the Title of § 1.1156

We adopt the proposal in the Space and Earth Station Regulatory Fees NPRM to change the title of § 1.1156 in part 1, subpart G, of our rules to make it clear that it contains space and earth station regulatory fees in addition to regulatory fees for international services. Currently, space and earth station regulatory fees are contained in § 1.1156, which is titled “Schedule of regulatory fees for international services.” We adopt the proposal to rename this section as “Schedule of regulatory fees for space and international services” to reflect more accurately that the section contains the regulatory fees for space and earth stations, as well as the fees for international bearer circuits and submarine cables regulated by the Office of International Affairs. No party in the proceeding commented on or opposed the proposal.

We make this change because, after the reorganization of the International Bureau into the Space Bureau and the Office of International Affairs in 2023, the current title can cause confusion by suggesting that only the fees for regulatory fee payors of the Office of International Affairs are contained within § 1.1156. We also conclude that it is easier to change the title of § 1.1156 than to create a new section in part 1, subpart G, containing space and earth station regulatory fees.

Other Proposals

At this time, we take no action on other proposals made in the Space and Earth Station Regulatory Fees NPRM that have not already been adopted, either herein or in the Space Station Regulatory Fees Order. We conclude that action on these issues may benefit from further consideration. The Commission will seek further comment on these remaining proposals in the near future in a FNPRM. We expect to act on the remaining proposals in time to be effective for FY 2025.

In addition, in the Space and Earth Station Regulatory Fees NPRM, we sought comment on how the Commission's open proceeding on advancing opportunities for innovation in the new space age by taking measures to expedite the application processes for space stations and earth stations and Transparency Initiative might inform our consideration of the regulatory fee issues raised therein. In response, SpaceX observes that initial reforms over the last year were an important step in the right direction that ultimately will reduce FTE burden and associated fees for regulatees. It adds that “additional pending reforms—such as more flexible modification rules, overall shot clocks, and database assisted light-licensing to facilitate inter-service sharing—will dramatically reduce the number of applications that staff must process in the first place and promote more efficient review of applications that require staff attention.” We will consider these observations in the context of our continued efforts to streamline the application processes for space and earth stations in order to allow greater efficiencies in FTE resources utilized to license and regulate space and earth stations.

Office of International Affairs

The Office of International Affairs is responsible for the Commission's engagement of foreign and international regulatory authorities, including multilateral and regional organizations. This office also facilitates the Commission's development of policies regarding international telecommunications facilities and services, including submarine cables, and advises and makes recommendations to the Commission on foreign ownership issues. The Office of International Affairs implements Commission policies to facilitate competition and foreign investment in U.S. international telecommunications markets while ensuring, in consultation with relevant Federal partners, that national security, law enforcement, foreign policy, and trade policy concerns are addressed. This office is also responsible for intergovernmental leadership, and negotiation and international and inter-agency representational functions. This office oversees and coordinates the Commission's global participation in international and multilateral conferences, regional organizations, cross-border negotiations and international standard setting efforts, and oversees bilateral meetings with other countries and foreign government officials. The Office of International Affairs is composed of the Global Strategies and Negotiation Division and the Telecommunications and Analysis Division. Among other things, the Global Strategies and Negotiation Division staff represent the Commission in international conferences, meetings, and negotiations, and manage Commission participation in the fellowship telecommunication training program for foreign officials offered through the U.S. Telecommunications Training Institute (USTTI) as well as the Commission's International Visitors Program. Most of the work of the office, including the work of the Global Strategies and Negotiation Division, does not benefit a specific fee payor, but rather the government as whole, and is therefore appropriately categorized as indirect.

Telecommunications and Analysis Division. The Telecommunications and Analysis Division develops international telecommunications policy, authorizes international telecommunications facilities and services under section 214 of the Act, issues submarine cable landing licenses under the Cable Landing License Act of 1921 and Executive Order 10530, and provides expertise on foreign ownership issues pursuant to section 310 of the Act. In performing its functions, the division coordinates international applications and petitions involving foreign ownership with the relevant Executive Branch agencies for any national security, law enforcement, foreign policy, or trade policy concerns. The division also provides guidance to and shares its expertise within the Commission and with other U.S. agencies.

Calculating regulatory fees for IBCs. IBCs consist of terrestrial and satellite circuits and submarine cable systems. In the FY 2020 NPRM (85 FR 32256, May 28, 2020), we concluded, based on a review by the International Bureau, that eight FTEs should be allocated to IBCs for regulatory fee purposes, with the remaining 20 direct FTEs in the International Bureau allocated to the satellite category. Currently, in the Office of International Affairs, as stated in the FY 2024 NPRM, we find that there are eight FTEs within the Telecommunications and Analysis Division that work on IBC related issues, including the services provided over submarine cables, and their time can be appropriately categorized as direct in furtherance of the oversight and regulation of specific regulatory fee payors. Thus, we have the same number of direct FTEs devoted to IBC issues now as in FY 2023, when the Telecommunications and Analysis Division was in the International Bureau. The Commission therefore concludes, for FY 2024, that of the 47 FTEs within the Office of International Affairs, eight are direct FTEs and 39 are indirect FTEs.

Broadcast Television Stations

In the FY 2020 Report and Order (85 FR 59864, September 23, 2020), we completed the transition to a population-based full-service broadcast television regulatory fee. For FY 2024, the Commission will continue to assess fees for full-power broadcast television stations based on the population covered by a full-service broadcast television station's contour and we will use the results of the 2020 U.S. Census. As a result, there will be no need to make any population adjustments to account for reductions in the population since 2010. However, the Commission will continue to base assessments on limiting the population count of full-power television stations that rely on satellite television stations to reach terrain-limited areas in Puerto Rico. We are adopting a factor of $.006598 per population served for FY 2024 full-power broadcast television station fees. The population data for broadcasters' service areas are determined using the TVStudy software and the LMS database, based on a station's projected noise-limited service contour. The population data for each licensee and the population-based fee (population multiplied by $.006598) for each full-power broadcast television station is listed in table 8.

Proposed New Regulatory Fee Categories

The State Broadcasters proposed that the Commission adopt new regulatory fee categories for broadband internet access service providers and manufacturers of equipment that uses spectrum on an unlicensed basis. For the reasons set forth below, we are not adopting such new fee categories at this time.

Broadband Internet Access Service Providers

We are unconvinced by the State Broadcasters' argument that we should create a new regulatory fee category for broadband internet access service providers at this time. As an initial matter, we note that there is no specific bureau or office in the Commission with oversight of all broadband services, because such activities are spread out among all core bureaus, and broadband issues are a part of many Commission initiatives and proceedings. We are unconvinced that a broadband internet access service provider regulatory fee category is necessary or that such a category appropriately belongs in any one bureau. As we have discussed earlier, broadband internet access services are offered through various technical means and by widely differing entities and to distinct user groups, e.g., wireless service providers, wireline service providers (including VoIP), cable operators, and satellite operators, to consumers and businesses, on both a retail and a wholesale basis. This service is not only offered by different types of providers, but is also delivered to end users in different ways. As we observed in the FY 2022 Report and Order (87 FR 56494, September 14, 2022) commenters have not shown that a particular group of FTEs within the Commission is providing oversight and regulation for broadband internet access services and that other parties (besides these broadband internet access service providers) are responsible for all of the regulatory fees associated with those FTEs. It appears that the contrary is true: broadband internet access services are involved in many Commission initiatives and proceedings. Such services are in many cases offered by service providers regulated by all the core bureaus and already responsible for regulatory fees. Creating a new regulatory fee category for broadband internet access services appears to be redundant with existing fee categories in the case of those broadband internet access service providers that otherwise already were subject to the existing fee categories, and thus a new fee category in this regard is not administrable at this time.

The State Broadcasters contend that broadening the base of regulatory fee payors to include broadband internet access service providers would ensure a more fair and sustainable regulatory fee system. However, they have not established a sufficient basis for the creation of such a category and that a broadband internet access service providers regulatory fee category, if adopted, would be fair, administrable, or sustainable for the reasons elaborated above. We also note that because the amount collected from each core bureau is based on the number of non-auctions FTEs in each bureau, adding a new broadband internet access fee category or categories would be unlikely to change the number of Media Bureau FTEs devoted to broadcast issues. Moreover, as indicated above, broadband internet access services are a part of many Commission initiatives and proceedings and such services are offered by service providers regulated by all the core bureaus (and these providers often already otherwise pay regulatory fees on their regulated services). For these reasons, particularly due to the lack of information in the record to support the need for adoption of such a new regulatory fee category, the Commission is not adopting a new fee category for broadband internet access service providers at this time. We find that section 9 of the Act does not require creation of this category and commenters have not shown, on the basis of the record in this proceeding, that such a category would satisfy the factors that the Commission has relied on when it has found a basis to create a new regulatory fee category.

Manufacturers of Equipment That Operates on Spectrum on an Unlicensed Basis

We also decline to adopt the State Broadcasters' proposal to adopt a new regulatory fee category for manufacturers of equipment that operates on spectrum on an unlicensed basis. The State Broadcasters have not provided a sufficient basis, consistent with section 9 of the Act, for the adoption of such a new regulatory fee category. The Commission has adopted new fee categories based in part on the benefits to the payor, i.e., FTE work in oversight and regulation, on several occasions. In those instances, the Commission determined that significant FTE resources of a core bureau were being spent on oversight and regulatory activities with respect to a specific service necessitating a new regulatory fee category. Those circumstances, for equipment manufacturers, are not present here.

The Office of Engineering and Technology is responsible for oversight and regulation of spectrum used on an unlicensed basis, and the FTEs in that office are classified as indirect FTEs because the work in that office benefits the Commission and the industry as a whole and is not specifically focused on the regulatory fee payors and licensees of a core bureau. Even when we consider only OET FTE time working on oversight and regulation of spectrum used on an unlicensed basis and equipment operating wholly or in part on such spectrum, the treatment of such costs as indirect is appropriate. This is true because many devices, including those operating wholly or in part on an unlicensed basis, are exempt from equipment authorization requirements. Moreover, devices that are not exempt are tested by third party labs and, if certification is required, applications are submitted to Telecommunications Certification Bodies. Other devices, generally those considered to have reduced potential to cause RF interference, are authorized pursuant to the Commission's SDoC process which provides for the equipment to be authorized based on the responsible party's self-declaration that the equipment complies with the pertinent Commission requirements. As such, the Office of Engineering and Technology oversight requires only a portion of FTE resources, appropriately part of indirect costs, as opposed to segregable direct costs. In addition, the Commission's current regulatory framework does not include an efficient way to identify equipment, specifically that which is exempt from authorization or authorized pursuant to SDoC procedures, that operate on an unlicensed (as opposed to licensed) basis and commenters have not suggested an efficient methodology to obtain this information.

On the basis of the record developed here, we find that the proposal for a new regulatory fee category for manufacturers of equipment that operates on spectrum on an unlicensed basis is not consistent with section 9 of the Communication Act. Equipment that operates on spectrum on an unlicensed basis is diverse in nature, ubiquitous, and used for many purposes including non-communications purposes. Thus it would be challenging to define and administer a regulatory fee category or categories of similarly situated entities. Nor does all or the majority of equipment that operates on spectrum on an unlicensed basis perform a specific service. Thus, focusing on the service provided would not provide a clear and administrable regulatory fee category. Moreover, this is not an area where time will distill down a clear group of users, service providers or manufacturers to form the core of a regulatory fee category. For example, if the Commission were to decide to assess fees on manufacturers of equipment used in the United States, numerous logistical concerns would be presented. The Commission establishes rules for and administers the equipment authorization program to ensure that RF devices used in the United States operate effectively without causing harmful interference and otherwise comply with the Commission's rules. However, under the current Commission equipment authorization regime, the Commission does not collect information from or communicate with all device manufacturers. As we explained above, many devices only require SDoC authorization or are exempt from authorization because they pose a limited potential of causing harmful interference. Similarly, if users of equipment that operates on spectrum on an unlicensed forms the core of the fee category. The Commission has no reasonable means by which to comprehensively identify each and every individual or entity that operates RF devices on an unlicensed basis. Accordingly, we find that a new regulatory fee category for manufacturers of equipment that operates on spectrum on an unlicensed basis, on the basis of the instant record, is not practicable at this time and we decline to adopt such a regulatory fee category at this time.

Digital Equity and Inclusion

In the FY 2024 NPRM, we sought comment on how our proposals may promote or inhibit advances in diversity, equity, inclusion, and accessibility, as well the scope of the Commission's relevant legal authority. We did not receive any comments on this issue.

Temporary Relief Measures Under §§ 1.1910, 1.1166, and 1.1914 of the Commission's Rules

In FYs 2020, 2021, and 2022, the Commission implemented temporary relief measures for fee payors experiencing financial hardship caused or exacerbated by the COVID-19 pandemic. In FY 2023, the Commission permanently codified two of the temporary measures in §§ 1.1166 and 1.1914 of the Commission's rules, simplifying and streamlining the process for all fee payors to obtain regulatory fee relief. The Commission also continued the remaining temporary relief measures in FY 2023, recognizing that while the National Emergency had ended, continuing the temporary measures in FY 2023 would assist regulatory fee payors, such as broadcasters, who might still be recovering from the economic impact of the pandemic. Specifically, the Commission found good cause to continue to offer a low interest rate and not require the customary down payment for installment payment of regulatory fee debt. Moreover, the Commission directed the Office of Managing Director to continue to exercise its delegated authority to partially waive § 1.1910 of the Commission's rules to allow regulatees on “red light” and experiencing financial hardship to nonetheless request waiver, reduction, deferral, and/or installment payment of their FY 2023 regulatory fees, provided that those regulatees resolve all of the delinquent debt they owe to the Commission in advance of the Commission's decision on their requests for relief. We also partially waived § 1.1166 of our rules to permit fee payors seeking waiver, deferral or reduction of their FY 2023 regulatory fees to submit documentation supporting their requests after their underlying requests were submitted. However, we limited this partial waiver to allow only one post-filing submission by a deadline of January 31, 2023, in anticipation of a return to the normal operation of § 1.1166.

In the FY 2024 NPRM, we stated that we did not plan to implement any of the foregoing temporary relief measures in FY 2024 because the circumstances for which the temporary measures were implemented had changed, to wit, the National Emergency ended and the economy was continuing to rebound. While again recognizing that some regulatory fee payors might continue to experience financial difficulties related to the pandemic, we concluded that the changes we made to §§ 1.1166 and 1.1914 to simplify and streamline the process of obtaining regulatory fee relief offered those fee payors “a straightforward path to regulatory fee relief.” We asked commenters that disagree with our proposal to explain why continuing the temporary measures is necessary or justified, and if continuation requires waiving a Commission rule, why good cause exists for and the public interest would be served by waiving the Commission rule.

The State Broadcasters and NAB each object to the Commission's proposal to discontinue the remaining three temporary measures. NAB advocates for codifying each of the temporary measures, citing the public's interest in the Commission continuing to enable “payors and the FCC's staff to craft appropriate relief and avoid costly collection processes and regulatory consequences for distressed payors.” The State Broadcasters advocate for the Commission to continue indefinitely the Commission's partial waivers of the red light rule and § 1.1166. The State Broadcasters also propose that the Commission continue partial waivers of the red light and § 1.1166 as temporary measures in FY 2024. The State Broadcasters contend that extending the Commission's partial waiver of the red light to permit fee payors on red light to nonetheless file relief requests is important to ensure that broadcasters in financial distress obtain the relief they seek and continue providing service to the public. The State Broadcasters argue that continuing a partial waiver of § 1.1166 to permit fee payors to submit financial documentation after they file their waiver requests is warranted because broadcasters may not understand what documentary proof must be provided to prove financial hardship and permitting supplementation will increase fee payors' likelihood of submitting sufficient documentary proof to prove financial hardship.

We disagree that continuing the partial red light waiver in FY 2024 is vital to ensure that broadcasters in financial distress are able to obtain relief and continue operating. Even if we were to continue the partial waiver in FY 2024, a broadcaster on red light would still be required to pay or otherwise resolve its debt to the Commission before the Commission would issue a decision on the broadcaster's waiver requests. Restoring the normal operation of the red light rule does not prevent a broadcaster from seeking fee relief for FY 2024, it only requires the fee payor to pay or otherwise resolve its delinquent debt before, rather than after, filing a request for fee relief.

To the extent the State Broadcasters also argue for a continuation of the Commission's partial waiver of § 1.1166 of our rules, we disagree that, as the State Broadcasters contend, the Commission's standard of proof for establishing financial hardship is unclear and that fee payors should therefore be permitted to supplement their submission of financial documents after submitting their requests until they are certain that they have met their burden of proof. The Commission's standard for establishing financial hardship sufficient to justify regulatory fee relief under § 1.1166 of the Commission's rules is clear, and has not changed since 1995, when the Commission first articulated it. Since then, the Commission has regularly reminded fee payors of the standard and also, listed financial document types that fee payors might submit to prove financial hardship.

To reiterate here, the standard for waiver, reduction and/or deferral of a regulatory fee in any specific instance under section 9A of the Communications Act and § 1.1166 of the Commission's regulations is for good cause if the waiver, reduction, or deferral (collectively, waiver) would serve the public interest. We interpret this provision narrowly to permit only those waivers “unambiguously articulating `extraordinary circumstances' outweighing the public interest in recouping the cost of the Commission's regulatory services for a particular regulatee.” Within this standard, we recognize that in exceptional circumstances, financial hardship may justify waiving an individual party's regulatory fees, to wit, when the requesting party has shown it “lacks sufficient funds to pay the regulatory fees and to maintain its service to the public.” Financial hardship, however, must be conclusively proven in each individual case; mere allegations of financial loss will not support a waiver request. Rather, each party seeking regulatory fee relief must fully document its financial condition to prove financial hardship. We have previously suggested and continue to suggest that documents that may be relevant to prove financial inability include balance sheets and profit and loss statements (audited if available), twelve month cash flow projections (with an explanation of how calculated), a list of officers and highest paid employees other than officers, and each individual's compensation, or similar information. However, the foregoing list of documents is not exhaustive. In other words, a fee payor seeking fee relief is in the best position to determine, and therefore must be the party responsible for determining, what financial documents demonstrate that the fee payor “lacks sufficient funds to pay the regulatory fees and to maintain its service to the public.”

We therefore decline to continue the temporary measures in FY 2024, except as noted below. The measures were always intended to be temporary, to address the extraordinary circumstances of a world-wide pandemic. The circumstances for which the temporary measures were put in place in FY 2020 and continued in FYs 2021 through 2023 have changed, even more so since FY 2023. It has now been 18 months year since the National Emergency ended. Moreover, the national economy is very different than it was during the National Emergency. Commenters have not demonstrated that good cause exists and that it is in the public interest to continue the partial waivers in FY 2024, nor have commenters made a convincing case that any lingering financial difficulties related to the COVID-19 pandemic that fee payors may be experiencing justify the Commission continuing to direct the Office of Managing Director to offer the lowest statutory interest rate and not require the customary down payment for installment payment of FY 2024 regulatory fee debt. For those reasons, we also decline to adopt NAB's and the State Broadcaster's proposal to codify or continue indefinitely the temporary measures.

Nonetheless, as explained below, we direct the Office of Managing Director to fix the interest rate it assesses on all installment payments of FY 2024 regulatory fee debt at the lowest rate permitted by statute, and to not require the customary down payment. As we discuss in the Final Rules section of the Report and Order, structural changes to the Commission and the creation of the Space Bureau have resulted in significant increases in the FY 2024 regulatory fees earth and space station regulatory fee payors must pay. We recognize that for FY 2024 some Space Bureau fee payors may have difficulty paying the increased fee in a single payment and that assessing the lowest permissible interest rate and not requiring the customary down payment will assist those payors who qualify for installment payment relief in meeting their FY 2024 regulatory fee obligation. These terms apply to all fee payors who qualify for installment payment of their FY 2024 regulatory fees.

With respect to operation of the red light under § 1.1910 of our rules, we will not direct the Office of Managing Director to partially waive § 1.1910 to permit regulatory fee payors on red light and experiencing financial hardship to request waiver, reduction, deferral and/or installment payment relief of their FY 2024 regulatory fees. Instead, the Commission will not act on and will dismiss a request for waiver, reduction, deferral and/or installment payment relief filed by a fee payor if the fee payor is on red light, in accordance with the requirements of § 1.1910.

Finally, we will not direct the Office of Managing Director to waive § 1.1166 of our rules to permit parties requesting regulatory fee relief on financial hardship grounds to submit financial documents supporting their request after the waiver request is filed. Thus, parties seeking waiver, reduction and/or deferral of their regulatory fees must submit with their requests the financial documents that demonstrate financial hardship. Documents submitted after a request is filed will not be considered and failure to submit any supporting financial documents with a request will result in dismissal and/or denial of the request.

Non-Operating Broadcast Stations

In the FY 2024 NPRM we sought comment on our proposal to end a rarely used and never codified policy of granting regulatory fee waiver requests of stations that are or were recently silent and stations in their first year of operation recently purchased out of bankruptcy or recently silent, on the presumption that their silent or recently bankrupt status signifies financial hardship sufficient to waive their regulatory fees, without requiring submission of financial documents demonstrating actual financial hardship.

NAB and the State Broadcasters oppose our proposal to end the policy. The State Broadcasters argue that the facts underlying the policy's implementation have not changed, that no matter why a station goes dark, when it goes dark it experiences financial hardship that may cause it to cease operation altogether. NAB argues that the policy eliminates a financial burden to silent stations attempting to return to operating status and a barrier to potential investment in stations that were recently dark or bankrupt. Neither commenter however disputes nor addresses the Commission observation that the presumption underlying the policy is no longer accurate in FY 2024. As we noted in the FY 2024 NPRM, in today's marketplace, broadcast licensees often own multiple stations. Because the Commission considers all of a licensee's assets and revenue streams in determining its ability to pay regulatory fees, the silence of one of its stations does not necessarily affect the licensee's ability to pay the regulatory fees it owes, including for the silent station. Similarly, it is not accurate to assume that, across-the-board, newly purchased stations that were previously dark or bankrupt are insufficiently financed to cover the station's first year of operation. The station owner may very well have sufficient funds—other revenue streams or start—up financing to pay the station's regulatory fees in its first year of operation.

The Commission therefore concludes that the policy's underlying presumption is no longer broadly valid and that the policy should be eliminated. Accordingly, all broadcast licensees, regardless of station status, will be required to submit with their waiver requests sufficient financial documentation to demonstrate financial hardship in accordance with § 1.1166 of our rules. This change will apply to regulatory fees due in FY 2025 in order to provide the affected broadcasters time to comply with this change in policy.

Capping or Phasing in Space and Earth Station Regulatory Fees

As we explained above, because the Commission must collect the full amount of the appropriation as an offsetting collection, decreasing the fee on any one category must be offset with an increased collection in another category. Thus, by requesting that the Commission cap or phase in the increases in regulatory fees for space and earth stations, the satellite and earth station industry is effectively requesting that the Commission shift fees from Space Bureau regulatory fee payors to other regulatory fee payors. As we explain below, the Commission declines to do so. We agree with commenters opposing the request that shifting fees to other regulatees, in this instance from Space Bureau regulatees, when such fees are properly based on direct FTEs in the Space Bureau, is not consistent with Congressional direction in section 9 of the Communications Act.

Several commenters suggest a cap or phased-in approach to implementing substantial fee increases, alleviating the immediate financial burden on satellite and earth station fee payors, and argue that imposing a cap and phase in of fee increases for FY 2024 and beyond would be consistent with the statutory requirements of section 9 of the Act. We are not convinced that, based on commenters' argument that the fee increase places a substantial and unforeseen financial burden on satellite operators, we should shift the fee burden to other regulatory fee payors. As Iridium observes, the entire industry will benefit from the additional resources made available to the new Space Bureau and the overall increases reflect the Commission's goal of advancing the space economy. Although we are mindful of the significant increase in regulatory fees for most space and earth station regulatory fee payors for FY 2024, these increases reflect a reasonable assessment of the FTE burdens associated with oversight and regulation of the Space Bureau categories of fee payors after the reorganization of the International Bureau into the Space Bureau and Office of International Affairs and the additional direct FTEs added to the Space Bureau.

The Submarine Cable Coalition favorably commented on the direct FTE allocations to OIA and the proposed regulatory fee rates for OIA regulatory fee payors that flow such direct FTE allocations. The Submarine Cable Coalition strongly opposes the request to shift fees as contrary to the statute. The Submarine Cable Coalition stated that it should not be the burden of submarine cable operators, nor any one type of international licensee under OIA, to subsidize holders of other license types.

The Commission most recently addressed such a request to shift fees in the FY 2019 Report and Order (84 R 50890, September 26, 2019), and declined a request to freeze or phase in the space station regulatory fee increase. The Commission explained there why it hews so closely to the statutory command to start with FTE counts and then potentially adjust fees to reflect other factors related to the payor's benefits. In the FY 2019 Report and Order, the Commission noted that because the International Bureau had a relatively small number of direct FTEs, the increase in its percentage of the whole resulted in a non-trivial increase in fees for International Bureau regulates. While the increased fees were unwelcome by the International Bureau regulatees, the Commission found that adoption of the fees without a phase in was consistent with the results when FTE counts have shifted.

Looking further back into our regulatory fee proceedings, commenters have observed that the Commission has previously phased in fee increases and capped annual percentage adjustments to avoid fee shock from large and unpredictable fluctuations. The two previous examples of caps or phase-ins are fundamentally different circumstances, i.e., after the Commission updated FTE data or adopted a new methodology, which we explain below. Here the increases for FY 2024 are due to increased direct FTEs working on satellite and earth station matters. Thus, it is attributable solely to circumstances which were for the benefit of the earth station and satellite operators.

In 2012, in a report issued by the Government Accountability Office (GAO), GAO explained that the FCC continued to rely on the 1998 division of regulatory fees as the basis of its regulatory fee division through fiscal year 2011. The GAO Report explained that for 13 years, FCC had not validated the extent to which its division of fees among industry sectors and fee categories correlated with its current division of FTEs among industry sectors and fee categories. This failure to update the Commission's FTE analysis occurred when regulatory fees went from an offsetting collection representing 38 percent of the Commission's appropriation in 1994 to 100 percent of the appropriation starting in 2009. In correcting this serious flaw in its methodology noted by the GAO Report, and as part of a larger effort of fee reform, the Commission as an interim measure did not immediately flash cut to the new FTE allocation. Instead, the Commission in 2013 imposed a cap on fee increases from FY 2012 to FY 2013. In the FY 2013 NPRM, (78 FR 34612, June 10, 2013) the Commission proposed to cap increases in regulatory fees in FY 2013 to no more than 7.5%, acknowledging that its existing FTE allocations were outdated and that revising the allocations based on FTEs, without other adjustments, would drastically change the amount of fees paid by various classes of regulatees. The Commission also observed that revision of FTE allocations required a transition period of more than one year, and that the allocations made for FY 2013 could be impacted by regulatory fee reform issues that could be resolved in future years. For this reason, the Commission viewed the 7.5% cap as an interim approach as it transitioned to a comprehensive revision of its regulatory fee program.

The current circumstances are significantly different from those presented in 2013. The Commission is not currently moving from a FTE allocation that is thirteen years out of date. The increase in direct FTEs associated with space and earth station fee payors for FY 2024 does not result from a fundamental revision of how direct FTEs are calculated FCC-wide. Rather, the increase results from a greater number of FTEs being associated with the regulation and oversight of such fee payors after the reorganization of the International Bureau, using existing methodology for calculating FTEs. Unlike the situation in 2013, there is no multi-year program of reform of FCC-wide regulatory fees that necessitates a cap as an interim approach for transitioning to a future comprehensive revision of the regulatory fee program. Consequentially, the factors that supported the imposition of a cap in 2013 are not present today. Therefore, we believe that correcting the extraordinary error on the Commission's part in applying a stale FTE count is not analogous to the current situation.

In another instance the Commission limited fee increases through a revenue cap in 1997 in order to avoid unexpected, substantial increases in regulatory fees. This was again during the period of time where Congress raised the offsetting collection of regulatory fees from 38 percent in 1994 to over 75 percent of the annual appropriation in 1997. Further, this cap was also premised as being an interim step in a comprehensive FCC-wide revision of the regulatory fee program as the Commission transitioned to the use of employee time sheet entries to calculate direct and indirect FTEs. This premise is absent under the present circumstances.

Commenters also rely on a fee adopted for Direct Broadcast Satellite (DBS), initially as a subcategory of the cable television/internet Protocol Television (IPTV) fee category. Intelsat states that the Commission has modified its standard regulatory fee methodology to ensure that sudden and large increases, such as the one here, are mitigated in order to avoid harm to fee payors, such as phasing in of a new fee for DBS that was based on Media Bureau FTEs. In that instance, the Commission initially adopted the new fee category in 2015 and subsequently sought comment on the appropriate fee versus other members of the subcategory. Thus, each year, the agency sought and received comment on the issue. Furthermore, the only other categories of fee payors negatively affected by the phase in of DBS regulatory fee payments as part of the cable television/IPTV fee category were other cable and IPTV fee payors. No parties (other than DBS operators, because this was a new fee category) sustained a fee increase. The issue was where to set the regulatory fee rate for a new category within the Media Bureau between two sets of fee payors that benefited from the same pool of Media Bureau direct FTEs. Thus, the agency took a measured approach to discerning whether DBS should pay at the same rate as other members of the fee category, asking and seeking comment on the issue each year. This presents a different situation from the present circumstances. Moreover, in our FY 2024 NPRM, we did not propose a fee schedule that included a proportionate shifting of fees from the Space Bureau into one or several categories of fee payors. Thus we are concerned that the full monetary impact of this proposal, to cap or phase in satellite regulatory fees, was not factored into our specific proposed fees and affected parties might not be in a position to understand how the proposal would increase their fees. Accordingly, we conclude that assessing fees in a manner that does not fully collect the S&E appropriation for the fiscal year, or that is not keyed to the FTE burden found to be associated with each category of fee payors, would be inconsistent with the plain language of section 9 of the Act.

Several commenters urge the Commission to cap or phase-in the increases in regulatory fees assessed for space and earth station fee payors for FY 2024, even if these increases result from a reasonable reassessment of the FY 2024 FTE burdens associated with oversight and regulation of space and earth station payors. Intelsat proposes that the Commission phase in this increase over time by applying a cap to the increase in indirect FTEs proportionally assigned to the Space Bureau at 1% for FY 2024 and 20% every year after until the Space Bureau's allocation has reached parity with the calculation under the Commission's current methodology (which would be approximately five years). According to Intelsat, reducing the share of indirect costs would mitigate harm to the satellite industry from increased regulatory fees. We disagree. A cap or phase in of fees, whether characterized as a reduction in indirect costs or otherwise, would impose additional regulatory fees on all other regulatory fee payors, who have not received the benefit of additional Space Bureau direct FTEs devoted to oversight and regulation of space stations. Intelsat has not explained how such a shift in costs from one group of fee payors to another would be consistent with section 9, other than to assert that we have the discretion to allocate indirect costs. We conclude, however, that such a cap or phase-in would be inconsistent with our statutory obligation to assess and collect regulatory fees for each fiscal year. Section 9 of the Act obligates the Commission to assess and collect regulatory fees each year in an amount that can reasonably be expected to equal the amount of its annual S&E appropriation. Thus, the Commission has no discretion regarding the total amount to be collected in any given fiscal year. Even assuming this proposal to cap or phase in the fees would help mitigate the large increase assessed to certain Space Bureau regulatory fee payors, it would create a disconnect between other fee payors' fees assessed using calculated FTE burden shares and those assessed using the proposed cap and phase in proposal. This disconnect is exacerbated by the fact that we did not propose to cap or phase in increases for space and earth station fee payors (and thus to increase or limit the decrease in fees assessed to other payors of regulatory fees) in our FY 2024 NPRM. Further, we find that adopting such a cap or phase in and shifting some of the fee increase to other fee payors would result in the same cross-subsidizing situation that GAO found problematic in 2012. Among other things, GAO observed that one potential effect of cross subsidization is that, if entities in different fee categories are directly competing for the same customers, cross subsidization could result in competitively disadvantaging entities in one fee category over another.

Section 9 of the Act prescribes a method of collecting an amount equal to the full S&E appropriation by keying the regulatory fee assessment to the Commission's FTE burden. As a result, the fee assigned to each regulatory fee category relates to the FTE burden associated with oversight and regulation of each regulatory fee category by the relevant core bureaus. Section 9 does not provide any other basis for assessing regulatory fees or any basis for capping fees for a particular fiscal year, or phasing in increases in fees over several fiscal years, for a particular category or categories of fee payors.

Installment Payments

When the Commission adopted regulatory fees for FY 2023, it noted that it would be the last year for doing so for the International Bureau regulatory fee payors, and that the creation of the Space Bureau and Office of International Affairs could result in changes in the assessment of regulatory fees for future fiscal years. In March 2024, in the Space and Earth Station Regulatory Fees NPRM, the Commission stated its expectation that space and earth station payors would pay significantly more in regulatory fees in FY 2024 than in FY 2023 due to the reorganization of the International Bureau and the creation of the Space Bureau. The Commission subsequently in June 2024 proposed estimates of the regulatory fee rates for space and earth stations that reflected significant increases in regulatory fees for space and earth stations compared to FY 2023.

We recognize that the FY 2024 regulatory fees adopted here for earth and space stations represent a significant increase from the FY 2023 fees, particularly for earth station and NGSO space station fee payors, and may, for some payors, be more difficult to pay in a timely manner. The proposed regulatory fee increases are due to a singular and uncommon event, i.e., the creation and capacity-building of the Space Bureau—for which the Commission received approval from the White House Office of Management and Budget and from U.S. Congressional Committees on Appropriations of the House of Representatives and the Senate—to better support United States leadership in the emerging space economy.

We, therefore, address concerns raised by commenters. First, we direct the Office of Managing Director to facilitate an extended period for payment, as appropriate, for Space Bureau regulatory fee payors who may have difficulty paying the higher FY 2024 fee. Specifically, consistent with the Commission's policies and rules, the Office of Managing Director will work with any earth or space station fee payor that intends to meet its fee obligation to the greatest extent possible to utilize installment plans for payment of fees that it may find to be exceptionally higher than anticipated, e.g., any amount over 150% of the FY 2023 fee. Space Bureau regulatory fee payors who may have difficulty paying the FY 2024 fee, but not to the extent required to request a waiver, reduction, or deferral, could be eligible to pay their FY 2024 fees in installments if they are able to show that they cannot pay the fee in lump sum, but can do so with extended payment terms. Second, we direct the Office of Managing Director to fix the interest rate assessed on installment payments of FY 2024 regulatory fees at the lowest rate permitted by statute, and to not require the customary down payment. Finally, we remind parties seeking installment payment of FY 2024 regulatory fee debt that they may do so by submitting an email request to the following email address: regfeerelief@fcc.gov.

Regulatory fee payors may seek a waiver, reduction, or deferral of payment of a regulatory fee for good cause if the waiver, reduction, or deferral would serve the public interest. But while we cannot relax the standard we employ for fee waiver, reduction, or deferral based on financial hardship grounds, as we have always done, we can facilitate an approach that allows payors the flexibility to address increases due to singular Commission action.

Procedural Matters

Included below are procedural items as well as our current payment and collection methods. We include these payments and collection procedures here as a useful way of reminding regulatory fee payers and the public about these aspects of the annual regulatory fee collection process.

Commission's Registration System. To increase efficiency, the Commission is using an all-electronic payment system for regulatory fees, which is contained within the Commission's Registration System (CORES). Before using CORES for the first time, you must obtain an FCC Username through the FCC User Registration System, and subsequently use it to access CORES and either register an FCC Registration Number (FRN) or associate an existing FRN to your password. If you are unable to register electronically, you may fax your application for a Registration Number (FCC Form 160) to the CORES Helpdesk at (202) 418-7869 for filing procedures.

Credit Card Transaction Levels. In accordance with Treasury Financial Manual, Volume I, Part 5, Chapter 7000, Section 7065.20a—Credit Card Collections, the total daily credit card transactions processed from a single payor can be no more than $24,999.99 (hereinafter the “Maximum Daily Limit”) and the total monthly transactions processed from a single payor (based on a rolling 30-day period) can be no more than $100,000.00 (hereinafter the “Maximum Monthly Limit”). Transactions greater than the Maximum Daily Limit will be rejected. If a payor initiates multiple transactions on the same day with the same credit card, those transactions causing the total charge to exceed the Maximum Daily Limit will also be rejected. This limit applies to single payments or bundled payments of more than one bill. Multiple transactions to a single agency in one day may be aggregated and treated as a single transaction subject to the $24,999.99 limit. Payors who wish to pay an amount greater than $24,999.99 should consider available electronic alternatives such as debit cards, Automates Clearing House (ACH) debits from a bank account, and wire transfers. Each of these payment options is available after filing regulatory fee information in the Commission's Registration System (CORES). Further details will be provided regarding payment methods and procedures at the time of FY 2024 regulatory fee collection in Fact Sheets, https://www.fcc.gov/regfees.

Payment Methods. During the fee season for collecting regulatory fees, regulatees can pay their fees by credit card through CORES, ACH, debit card, or by wire transfer. Additional payment instructions are posted on the Commission's website at https://www.fcc.gov/licensing-databases/fees/wire-transfer. The receiving bank for all wire payments is the U.S. Treasury, New York, NY (TREAS NYC). Any other form of payment (e.g., checks, cashier's checks, or money orders) will be rejected. For payments by wire, an FCC Form 159-E should still be transmitted via fax so that the Commission can associate the wire payment with the correct regulatory fee information. The fax should be sent to the Commission at (202) 418-2843 at least one hour before initiating the wire transfer (but on the same business day) so as not to delay crediting their account. Regulatees should discuss arrangements (including bank closing schedules) with their bankers several days before they plan to make the wire transfer to allow sufficient time for the transfer to be initiated and completed before the deadline. Complete instructions for making wire payments are posted at https://www.fcc.gov/licensing-databases/fees/wire-transfer.

De Minimis Regulatory Fees, Section 9(e)(2) Exemption. Under the de minimis rule, and pursuant to our analysis under section 9(e)(2) of the Act, a regulatee is exempt from paying regulatory fees if the sum total of all of its annual regulatory fee liabilities is $1,000 or less for the fiscal year. The de minimis threshold applies only to filers of annual regulatory fees, not regulatory fees paid through multi-year filings, and it is not a permanent exemption. Each regulatee will need to reevaluate the total annual fee liability each fiscal year to determine whether it meets the de minimis exemption.

Standard Fee Calculations and Payment Dates. The Commission will accept fee payments made in advance of the window for the payment of regulatory fees. The responsibility for payment of fees by service category is as follows:

Media Services: Regulatory fees must be paid for initial construction permits that were granted on or before October 1, 2023 for AM/FM radio stations, VHF/UHF broadcast television stations, and satellite television stations. Regulatory fees must be paid for all broadcast facility licenses granted on or before October 1, 2023. In instances where a permit or license is transferred or assigned after October 1, 2023, responsibility for payment rests with the holder of the permit or license as of the fee due date.

Wireline (Common Carrier) Services: Regulatory fees must be paid for authorizations that were granted on or before October 1, 2023. In instances where a permit or license is transferred or assigned after October 1, 2023, responsibility for payment rests with the holder of the permit or license as of the fee due date. Audio bridging service providers are included in this category. For Responsible Organizations (RespOrgs) that manage Toll Free Numbers (TFN), regulatory fees should be paid on all working, assigned, and reserved toll free numbers as well as toll free numbers in any other status as defined in § 52.103 of the Commission's rules. The unit count should be based on toll free numbers managed by RespOrgs on or about December 31, 2023.

Wireless Services: Commercial Mobile Radio Service (CMRS) cellular, mobile, and messaging services (fees based on number of subscribers or telephone number count): Regulatory fees must be paid for authorizations that were granted on or before October 1, 2023. The number of subscribers, units, or telephone numbers on December 31, 2023 will be used as the basis from which to calculate the fee payment. In instances where a permit or license is transferred or assigned after October 1, 2023, responsibility for payment rests with the holder of the permit or license as of the fee due date.

Wireless Services, Multi-year fees: The first eight regulatory fee categories in our Schedule of Regulatory Fees (first seven categories in our Calculation of Fees, Table 3) pay “small multi-year wireless regulatory fees.” Entities pay these regulatory fees in advance for the entire amount period covered by the five-year or ten-year terms of their initial licenses, and pay regulatory fees again only when the license is renewed, or a new license is obtained. We include these fee categories in our rulemaking to publicize our estimates of the number of “small multi-year wireless” licenses that will be renewed or newly obtained in FY 2024.

Multichannel Video Programming Distributor (MVPD) Services (cable television operators, Cable Television Relay Service (CARS) licensees, DBS, and IPTV): Regulatory fees must be paid for the number of basic cable television subscribers as of December 31, 2023. Regulatory fees also must be paid for CARS licenses that were granted on or before October 1, 2023. In instances where a permit or license is transferred or assigned after October 1, 2023, responsibility for payment rests with the holder of the permit or license as of the fee due date. For providers of DBS service and IPTV-based MVPDs, regulatory fees should be paid based on a subscriber count on or about December 31, 2023. In instances where a permit or license is transferred or assigned after October 1, 2023, responsibility for payment rests with the holder of the permit or license as of the fee due date.

Space Services: Regulatory fees must be paid for earth stations that were licensed (or authorized) on or before October 1, 2023. Regulatory fees must also be paid for Geostationary orbit space stations (GSO) and non-geostationary orbit satellite systems (NGSO), and the two NGSO subcategories “Other” and “Less Complex,” that were licensed and operational on or before October 1, 2023. Licensees of small satellites that were licensed and operational on or before October 1, 2023 must also pay regulatory fees. In instances where a permit or license is transferred or assigned after October 1, 2023, responsibility for payment rests with the holder of the permit or license as of the fee due date. Rendezvous and Proximity Operations, On-Orbit Servicing, and Orbital Transfer Vehicle space station that were licensed and operational on or before October 1, 2023, must also pay regulatory fees, using the regulatory fee category for small satellites,

International Services (Submarine Cable Systems, Terrestrial and Satellite Services): Regulatory fees for submarine cable systems are to be paid on a per cable landing license basis based on lit circuit capacity as of December 31, 2023. Regulatory fees for terrestrial and satellite IBCs are to be paid based on active (used or leased) international bearer circuits as of December 31, 2023, in any terrestrial or satellite transmission facility for the provision of service to an end user or resale carrier. When calculating the number of such active circuits, entities must include circuits used by themselves or their affiliates. For these purposes, “active circuits” include backup and redundant circuits as of December 31, 2023. Whether circuits are used specifically for voice or data is not relevant for purposes of determining that they are active circuits. In instances where a permit or license is transferred or assigned after October 1, 2023, responsibility for payment rests with the holder of the permit or license as of the fee due date.

CMRS and Mobile Services Assessments. The Commission will compile data from the Numbering Resource Utilization Forecast (NRUF) report that is based on “assigned” telephone number (subscriber) counts that have been adjusted for porting to net Type 0 ports (“in” and “out”). We have included non-geographic numbers in the calculation of the number of subscribers for each CMRS provider in table 3 and the CMRS regulatory fee factor proposed in table 4. CMRS provider regulatory fees will be calculated and should be paid based on the inclusion of non-geographic numbers. CMRS providers can adjust the total number of subscribers, if needed. This information of telephone numbers (subscriber count) will be posted on CORES along with the carrier's Operating Company Numbers (OCNs).

A carrier wishing to revise its telephone number (subscriber) count can do so by accessing CORES and following the prompts to revise their telephone number counts. Any revisions to the telephone number counts should be accompanied by an explanation. The Commission will then review the revised count and supporting explanation, if any, and either approve or disapprove the submission in CORES. If the submission is disapproved, the Commission will contact the provider to afford the provider an opportunity to discuss its revised subscriber count and/or provide supporting documentation. If the Commission receives no response from the provider, or the Commission does not reverse its initial disapproval of the provider's revised count submission, the fee payment must be based on the number of subscribers listed initially in CORES. Once the timeframe for revision has passed, the telephone number counts are final and are the basis upon which CMRS regulatory fees are to be paid. Providers can view their final telephone counts online in CORES.

Because some carriers do not file the NRUF report, they may not see their telephone number counts in CORES. In these instances, the carriers should compute their fee payment using the standard methodology that is currently in place for CMRS Wireless services (i.e., compute their telephone number counts as of December 31, 2023), and submit their fee payment accordingly. Whether a carrier reviews its telephone number counts in CORES or not, the Commission reserves the right to audit the number of telephone numbers for which regulatory fees are paid. In the event that the Commission determines that the number of telephone numbers that are paid is inaccurate, the Commission will bill the carrier for the difference between what was paid and what should have been paid.

Effective Date. Providing a 30-day period after Federal Register publication before the Report and Order becomes effective as normally required by 5 U.S.C. 553(d) will not allow sufficient time to collect the FY 2024 fees before FY 2024 ends on September 30, 2024. For this reason, pursuant to 5 U.S.C. 553(d)(3), we find there is good cause to waive the requirements of section 553(d), and the Report and Order will become effective upon publication in the Federal Register. Because payments of the regulatory fees will not actually be due until late September, persons affected by the Report and Order will still have a reasonable period in which to make their payments and thereby comply with the rules established herein.

List of Tables

Table 2—List of Commenters and Reply Commenters
Commenter (for initial and reply comments filed in response to the Commission's annual FY 2024 regulatory fees NPRM, FCC 24-68 (rel. June 13, 2024)) | Abbreviated name | Date filed
Alabama Broadcasters Association, Alaska Broadcasters Association, Arizona Broadcasters Association, Arkansas Broadcasters Association, California Broadcasters Association, Colorado Broadcasters Association, Connecticut Broadcasters Association, Florida Association of Broadcasters, Georgia Association of Broadcasters, Hawaii Association of Broadcasters, Idaho State Broadcasters Association, Illinois Broadcasters Association, Indiana Broadcasters Association, Iowa Broadcasters Association, Kansas Association of Broadcasters, Kentucky Broadcasters Association, Louisiana Association of Broadcasters, Maine Association of Broadcasters, MD/DC/DE Broadcasters Association, Massachusetts Broadcasters Association, Michigan Association of Broadcasters, Minnesota Broadcasters Association, Mississippi Association of Broadcasters, Missouri Broadcasters Association, Montana Broadcasters Association, Nebraska Broadcasters Association, Nevada Broadcasters Association, New Hampshire Association of Broadcasters, New Jersey Broadcasters Association, New Mexico Broadcasters Association, The New York State Broadcasters Association, Inc., North Carolina Association of Broadcasters, North Dakota Broadcasters Association, Ohio Association of Broadcasters, Oklahoma Association of Broadcasters, Oregon Association of Broadcasters, Pennsylvania Association of Broadcasters, Radio Broadcasters Association of Puerto Rico, Rhode Island Broadcasters Association, South Carolina Broadcasters Association, South Dakota Broadcasters Association, Tennessee Association of Broadcasters, Texas Association of Broadcasters, Utah Broadcasters Association, Vermont Association of Broadcasters, Virginia Association of Broadcasters, Washington State Association of Broadcasters, West Virginia Broadcasters Association, Wisconsin Broadcasters Association, Wyoming Association of Broadcasters | State Broadcasters | July 15, 2024.
Astroscale U.S., Inc | Astroscale | July 15, 2024.
BlackSky Global LLC | BlackSky | July 15, 2024.
Capella Space Corp | Capella | July 15, 2024.
Commercial Smallsat Spectrum Management Association | CSSMA | July 15, 2024.
CTIA—The Wireless Association® | CTIA | July 29, 2024.
Intelsat License LLC | Intelsat | July 15, 2024.
Iridium Communications, Inc | Iridium | July 15, 2024, July 29, 2024.
Kepler Communications, Inc | Kepler | July 15, 2024, July 29, 2024.
Kinéis | Kinéis | July 15, 2024.
Myriota Pty. Ltd | Myriota | July 15, 2024.
National Association of Broadcasters | NAB | July 15, 2024.
Orbital Sidekick, Inc | OSK | July 29, 2024
Satellite Industry Association | SIA | July 29, 2024.
Submarine Cable Coalition | Coalition | July 29, 2024.
TechFreedom | TechFreedom | July 29, 2024.
Tomorrow Companies, Inc | Tomorrow | July 15, 2024.
WorldVu Satellites Limited and Eutelsat S.A | Eutelsat Group | July 15, 2024.

Commenter (for initial and reply comments filed in response to the Space and Earth Station regulatory fees NPRM, FCC 24-31 (rel. Mar. 13, 2024)) | Abbreviated name | Date filed
Anuvu Licensing Holdings, LLC | Anuvu | April, 12, 2024.
AstroDigital U.S., Inc | AstroDigital | April 12, 2024.
Astroscale U.S., Inc | Astroscale | April 12, 2024.
Blue Origin, LLC | Blue Origin | April 12, 2024.
Commercial Smallsat Spectrum Management Association | CSSMA | April 12, 2024.
The Consortium for Execution of Rendezvous and Servicing Operations | CONFERS | April 29, 2024.
EchoStar Corporation and DIRECTV, LLC | EchoStar and DIRECTV | April 29, 2024.
Intelsat License LLC | Intelsat | April 12, 2024, April 29, 2024.
Iridium Communications, Inc | Iridium | April 29, 2024.
Kepler Communications, Inc | Kepler | April 12, 2024, April 29, 2024.
Kinéis | Kinéis | April 12, 2024, April 29, 2024.
Kuiper Systems, LLC | Kuiper | April 29, 2024.
Maxar Technologies, Inc | Maxar | April 29, 2024.
Myriota Pty. Ltd | Myriota | April 12, 2024, April 29, 2024.
National Association of Broadcasters | NAB | April 29, 2024.
NCTA—The Internet and Television Association | NCTA | April 12, 2024, April 29, 2024.
Planet Labs PBC | Planet | April 12, 2024.
SES Americom, Inc. and O3b Limited | SES | April 12, 2024, April 29, 2024.
Space Explorations Holdings, LLC | SpaceX | April 12, 2024, April 29, 2024.
Telesat Canada | Telesat | April 12, 2024, April 29, 2024.
Varda Space Industries, Inc | Varda | April 12, 2024.
Vast Space, LLC | Vast | April 29, 2024.
Viasat, Inc | Viasat | April 29, 2024.
WorldVu Satellites Limited and Eutelsat S.A | Eutelsat Group | April 12, 2024, April 29, 2024.

Ex parte filings for FCC 24-31 and FCC 24-68 | Date filed
Letter from Jameson Dempsey, Director, Satellite Policy, Space Exploration Technologies Corp., to Marlene H. Dortch, Secretary, Federal Communications Commission (May 9, 2024) (SpaceX May 9 ex parte) | May 9, 2024.
Letter from W. Ray Rutngamiug, Associate General Counsel, Intelsat US LLC, to Marlene H. Dortch, Secretary, Federal Communications Commission (May 16, 2024) (Intelsat May 16 ex parte) | May 16, 2024.
Letter from Jarett S. Taubman, VP and Deputy Chief Governmental Affairs and Regulatory Officer, Viasat, to Marlene H. Dortch, Secretary, Federal Communications Commission (May 16, 2024) (Viasat May 16 ex parte) | May 16, 2024.
Letter from James S. Blitz, Senior Vice President, Regulatory Counsel, Sirius XM Radio, Inc., to Marlene H. Dortch, Secretary, Federal Communications Commission (May 22, 2024) (Sirius XM May 22 ex parte) | May 22, 2024.
Letter from Jameson Dempsey, Director, Satellite Policy, Space Exploration Technologies Corp., to Marlene H. Dortch, Secretary, Federal Communications Commission (May 23, 2024) (SpaceX May 23 ex parte) | May 23, 2024.
Letter from Will Lewis, counsel to Myriota Pty. Ltd., to Marlene H. Dortch, Secretary, Federal Communications Commission (May 28, 2024) (Myriota May 28 ex parte) | May 28, 2024.
Letter from Cynthia J. Grady, Assistant General Counsel, Intelsat US LLC, to Marlene H. Dortch, Secretary, Federal Communications Commission (May 28, 2024) (Intelsat May 28 ex parte) | May 28, 2024 (erratum filed May 30, 2024).
Letter from Suzanne Malloy, Vice President, Regulatory Affairs, O3b Limited, to Marlene H. Dortch, Secretary, Federal Communications Commission (June 7, 2024) (SES June 7 ex parte) | June 7, 2024.
Letter from Cynthia J. Grady, Assistant General Counsel, Intelsat US LLC, to Marlene H. Dortch, Secretary, Federal Communications Commission (June 11, 2024) (Intelsat June 11 ex parte) | June 11, 2024.
Letter from Kara Leibin Azocar, Vice President, Regulatory, Iridium Satellite LLC, to Marlene H. Dortch, Secretary, Federal Communications Commission (June 13, 2024) (Iridium June 13 ex parte) | June 13, 2024.
Letter from David S. Keir, Counsel to Kinéis, to Marlene H. Dortch, Secretary, Federal Communications Commission (June 17, 2024) (Kinéis June 17 ex parte) | June 17, 2024.
Letter from Kara Leibin Azocar, Vice President, Regulatory, Iridium Satellite LLC, to Marlene H. Dortch, Secretary, Federal Communications Commission (June 20, 2024) (Iridium June 20 ex parte) | June 20, 2024.
Letter from Emily A. Gomes, Associate General Counsel, National Association of Broadcasters, to Marlene H. Dortch, Secretary, Federal Communications Commission (July 16, 2024) (NAB July 16 ex parte) | July 16, 2024.
Letter from Polly Averns, Senior Regulatory Associate, Kepler Communications, Inc., to Marlene H. Dortch, Secretary, Federal Communications Commission (July 18, 2024) (Kepler July 18 ex parte) | July 18, 2024.
Letter from Cynthia J. Grady, Assistant General Counsel, Intelsat US LLC, to Marlene H. Dortch, Secretary, Federal Communications Commission (Aug. 1, 2024) (Intelsat Aug. 1 ex parte) | Aug. 1, 2024.
Letter from Cynthia J. Grady, Assistant General Counsel, Intelsat US LLC, to Marlene H. Dortch, Secretary, Federal Communications Commission (Aug. 5, 2024) (Intelsat Aug. 5 ex parte) | Aug. 5, 2024.
Letter from Cynthia J. Grady, Assistant General Counsel, Intelsat US LLC, to Marlene H. Dortch, Secretary, Federal Communications Commission (Aug. 8, 2024) (Intelsat Aug. 8 ex parte) | Aug. 8, 2024.
Letter from J.G. Harrington, Counsel to Iridium Communications Inc., to Marlene H. Dortch, Secretary, Federal Communications Commission (Aug. 9, 2024) (Iridium Aug. 9 ex parte) | Aug. 9, 2024.
Letter from Tom Stroup, President, Satellite Industry Association, to Marlene H. Dortch, Secretary, Federal Communications Commission (Aug. 13, 2024) (SIA Aug. 13 ex parte) | Aug. 13, 2024.
Letter from Elisabeth Neasmith, Senior Director ITU and Regulatory, Telesat, to Marlene H. Dortch, Secretary, Federal Communications Commission (Aug. 14, 2024) (Telesat Aug. 14 ex parte) | Aug. 14, 2024.
Letter from J.G. Harrington, Counsel to Iridium Communications Inc., to Marlene H. Dortch, Secretary, Federal Communications Commission (Aug. 15, 2024) (Iridium Aug. 15 ex parte) | Aug. 15, 2024.
Letter from J.G. Harrington, Counsel to Iridium Communications Inc., to Marlene H. Dortch, Secretary, Federal Communications Commission (Aug. 19, 2024) (Iridium Aug. 19 ex parte) | Aug. 19, 2024.

Table 3—Calculation of FY 2024 Regulatory Fees—Calculation of FY 2024 Revenue Requirements and Pro-Rata Fees
[Regulatory fees for the categories shaded in gray are collected by the Commission in advance to cover the term of the license and are submitted at the time the application is filed.]
Fee category | FY 2024 payment units | Yrs | FY 2023 revenue estimate | Pro-rated FY 2024 revenue requirement | Computed FY 2024 regulatory fee | Rounded FY 2024 reg. fee | Expected FY 2024 revenue
PLMRS (Exclusive Use) | 1,150 | 10 | 300,000 | 287,500 | 25.00 | 25 | 287,500
PLMRS (Shared use) | 23,300 | 10 | 1,900,000 | 2,330,000 | 10.00 | 10 | 2,330,000
Microwave | 16,500 | 10 | 4,000,000 | 4,125,000 | 25.00 | 25 | 4,125,000
Marine (Ship) | 7,000 | 10 | 1,050,000 | 1,050,000 | 15.00 | 15 | 1,050,000
Aviation (Aircraft) | 5,800 | 10 | 480,000 | 580,000 | 10.00 | 10 | 580,000
Marine (Coast) | 280 | 10 | 96,000 | 112,000 | 40.00 | 40 | 112,000
Aviation (Ground) | 270 | 10 | 60,000 | 54,000 | 20.00 | 20 | 54,000
AM Class A ¹ | 58 | 1 | 286,800 | 266,815 | 4,600 | 4,600 | 266,800
AM Class B ¹ | 1,305 | 1 | 3,556,605 | 3,310,685 | 2,537 | 2,535 | 3,308,175
AM Class C ¹ | 784 | 1 | 1,273,910 | 1,185,436 | 1,512 | 1,510 | 1,183,840
AM Class D ¹ | 1,325 | 1 | 4,208,245 | 3,916,079 | 2,956 | 2,955 | 3,915,375
FM Classes A, B1 & C3 ¹ | 3,021 | 1 | 8,885,560 | 8,257,752 | 2,733 | 2,735 | 8,262,435
FM Classes B, C, C0, C1 & C2 ¹ | 3,064 | 1 | 10,872,945 | 10,111,573 | 3,300 | 3,300 | 10,111,200
AM Construction Permits ² | 2 | 1 | 3,100 | 1,170 | 585 | 585 | 1,170
FM Construction Permits ² | 14 | 1 | 17,360 | 14,350 | 1,025 | 1,025 | 14,350
Digital Television ⁴ (including Satellite TV) | 3.541 billion population | 1 | 25,463,735 | 23,365,758 | .0065978 | .006598 | 23,363,518
Digital TV Construction Permits ² | 5 | 1 | 20,400 | 26,000 | 5,200 | 5,200 | 26,000
LPTV/Class A/Translators FM Trans/Boosters | 6,215 | 1 | 1,644,500 | 1,515,832 | 243.9 | 245 | 1,522,675
CARS Stations | 105 | 1 | 206,400 | 191,414 | 1,823 | 1,825 | 191,625
Cable TV Systems, including IPTV & DBS | 50,000,000 | 1 | 68,880,000 | 63,587,626 | 1.2718 | 1.27 | 63,500,000
Interstate Telecommunication Service Providers | $22,700,000,000 | 1 | 135,540,000 | 122,977,045 | 0.005420 | 0.005420 | 123,034,000
Toll Free Numbers | 35,000,000 | 1 | 4,511,000 | 4,225,547 | 0.1207 | 0.12 | 4,200,000
CMRS Mobile Services (Cellular/Public Mobile) | 576,200,000 | 1 | 88,480,000 | 90,358,789 | 0.1568 | 0.16 | 92,192 ,000
CMRS Messaging Services | 600,000 | 1 | 104,000 | 48,000 | 0.0800 | 0.080 | 48,000
BRS/ | 1,200 | 1 | 836,500 | 870,000 | 725 | 725 | 870,000
LMDS | 370 | 1 | 252,000 | 268,250 | 725 | 725 | 268,250
Per Gbps circuit Int'l Bearer Circuits Terrestrial (Common & Non-Common) & Satellite (Common & Non-Common) | 20,000 | 1 | 442,000 | 335,565 | 16.78 | 17 | 340,000
Submarine Cable Providers (See chart at bottom of table 4) ³ | 71.56 | 1 | 8,228,605 | 6,375,737 | 89,096 | 89,095 | 6,375,638
Earth Stations | 2,900 | 1 | 1,667,500 | 7,569,225 | 2,610 | 2,610 | 7,569,000
Space Stations (Geostationary) | 140 | 1 | 15,990,880 | 20,181,854 | 144,156 | 144,155 | 20,181,700
Space Stations (Non-Geostationary, Other) | 11 | 1 | 3,129,795 | 10,606,205 | 964,200 | 964,200 | 10,606,200
Space Stations (Non-Geostationary, Less Complex) | 6 | 1 | 782,430 | 2,651,551 | 441,925 | 441,925 | 2,651,550
Space Stations (Non-Geostationary, Small Satellite) | 16 | 1 | 85,505 | 195,440 | 12,215 | 12,215 | 195,440
****** Total Estimated Revenue to be Collected |  |  | 392,991,324 | 389,914,238 |  |  | 392,795,910
****** Total Revenue Requirement |  |  | 390,192,000 | 390,192,000 |  |  | 390,192,000
Difference |  |  | 2,799,324 | (277,762) |  |  | 2,603,910
¹ The fee amounts listed in the column entitled “Rounded New FY 2024 Regulatory Fee” constitute a weighted average broadcast regulatory fee by class of service. The actual FY 2024 regulatory fees for AM/FM radio station are listed on a grid located at the end of table 4.
² The AM and FM Construction Permit revenues and the Digital (VHF/UHF) Construction Permit revenues were adjusted, respectively, to set the regulatory fee to an amount no higher than the lowest licensed fee for that class of service based on the threshold 10,001-25,000, the traditional basis for identifying the lowest licensed fee. Reductions in the Digital (VHF/UHF) Construction Permit revenues, and in the AM and FM Construction Permit revenues, were offset by increases in the revenue totals for Digital television stations by market size, and in the AM and FM radio stations by class size and population served, respectively.
³ The chart at the end of table 4 lists the actual submarine cable bearer circuit regulatory fee rates (on a common and non-common carrier basis), whereas the submarine cable fee rate in table 3 is a weighted average.
⁴ The actual digital television regulatory fees to be paid by call sign are identified in table 8.

Table 4—Schedule of Fees—FY 2024 Schedule of Regulatory Fees
[Regulatory fees for the categories shaded in gray are collected by the Commission in advance to cover the term of the license and are submitted at the time the application is filed.]
Fee category | Annual regulatory fee (U.S. $s)
PLMRS (per license) (Exclusive Use) (47 CFR part 90) | 25.
Microwave (per license) (47 CFR part 101) | 25.
Marine (Ship) (per station) (47 CFR part 80) | 15.
Marine (Coast) (per license) (47 CFR part 80) | 40.
Rural Radio (47 CFR part 22) (previously listed under the Land Mobile category) | 10.
PLMRS (Shared Use) (per license) (47 CFR part 90) | 10.
Aviation (Aircraft) (per station) (47 CFR part 87) | 10.
Aviation (Ground) (per license) (47 CFR part 87) | 20.
CMRS Mobile/Cellular Services (per unit) (47 CFR parts 20, 22, 24, 27, 80, and 90) (Includes Non-Geographic telephone numbers) | .16.
CMRS Messaging Services (per unit) (47 CFR parts 20, 22, 24, and 90) | .08.
Broadband Radio Service (formerly MMDS/MDS) (per license) (47 CFR part 27) | 725.
Local Multipoint Distribution Service (per call sign) (47 CFR part 101) | 725.
AM Radio Construction Permits | 585.
FM Radio Construction Permits | 1,025.
AM and FM Broadcast Radio Station Fees | See Table Below.
Digital TV (47 CFR part 73) VHF and UHF Commercial Fee Factor | $.006598. See table 8 for fee amounts due, also available at https://www.fcc.gov/licensing-databases/fees/regulatory-fees.
Digital TV Construction Permits | 5,200.
Low Power TV, Class A TV, TV/FM Translators & FM Boosters (47 CFR part 74) | 245.
CARS (47 CFR part 78) | 1,825.
Cable Television Systems (per subscriber) (47 CFR part 76), Including IPTV and Direct Broadcast Satellite (DBS) | 1.27.
Interstate Telecommunication Service Providers (per revenue dollar) | .005420.
Toll Free (per toll free subscriber) (47 CFR 52.101(f)) | .12.
Earth Stations (47 CFR part 25) | 2,610.
Space Stations (per operational station in geostationary orbit) (47 CFR part 25) also includes DBS Service (per operational station) (47 CFR part 100) | 144,155.
Space Stations (per operational system in non-geostationary orbit) (47 CFR part 25) (Other) | 964,200.
Space Stations (per operational system in non-geostationary orbit) (47 CFR part 25) (Less Complex) | 441,925.
Space Stations (per license/call sign in non-geostationary orbit) (47 CFR part 25) (Small Satellite) | 12,215.
International Bearer Circuits—Terrestrial/Satellites (per Gbps circuit) | $17.
Submarine Cable Landing Licenses Fee (per cable system) | See Table Below.

FY 2024 Radio Station Regulatory Fees
Population served | AM Class A | AM Class B | AM Class C | AM Class D | FM Classes A, B1 & C3 | FM Classes B, C, C0, C1 & C2
≤10,000 | $560 | $405 | $350 | $385 | $615 | $700
10,001-25,000 | 935 | 675 | 585 | 645 | 1,025 | 1,170
25,001-75,000 | 1,405 | 1,015 | 880 | 970 | 1,540 | 1,755
75,001-150,000 | 2,105 | 1,520 | 1,315 | 1,450 | 2,305 | 2,635
150,001-500,000 | 3,160 | 2,280 | 1,975 | 2,180 | 3,465 | 3,955
500,001-1,200,000 | 4,730 | 3,415 | 2,960 | 3,265 | 5,185 | 5,920
1,200,001-3,000,000 | 7,105 | 5,130 | 4,445 | 4,900 | 7,790 | 8,890
3,000,001-6,000,000 | 10,650 | 7,690 | 6,665 | 7,345 | 11,675 | 13,325
>6,000,000 | 15,980 | 11,535 | 10,000 | 11,025 | 17,515 | 19,995

FY 2024 International Bearer Circuits—Submarine Cable Systems
Submarine cable systems (capacity as of December 31, 2023) | Fee ratio (units) | FY 2024 regulatory fees
Less than 50 Gbps | .0625 | $5,570
50 Gbps or greater, but less than 250 Gbps | .125 | 11,140
250 Gbps or greater, but less than 1,500 Gbps | .25 | 22,275
1,500 Gbps or greater, but less than 3,500 Gbps | .5 | 44,550
3,500 Gbps or greater, but less than 6,500 Gbps | 1.0 | 89,095
6,500 Gbps or greater | 2.0 | 178,190

Table 5—Sources of FY 2024 Payment Units

Sources of Payment Unit Estimates for FY 2024

In order to calculate individual service fees for FY 2024, we adjusted FY 2023 payment units for each service to more accurately reflect expected FY 2024 payment liabilities. We obtained our updated estimates through a variety of means and sources. For example, we used Commission licensee data bases, actual prior year payment records and industry and trade association projections, where available. The databases we consulted include our Universal Licensing System (ULS), International Bureau Filing System (IBFS), Licensing and Management System (LMS) and Cable Operations and Licensing System (COALS), as well as reports generated within the Commission such as the Wireless Telecommunications Bureau's Numbering Resource Utilization Forecast. Regulatory fee payment units are not all the same for all fee categories. For most fee categories, the term “units” reflect licenses or permits that have been issued, but for other fee categories, the term “units” reflect quantities such as subscribers, population counts, circuit counts, telephone numbers, and revenues. As more current data is received after an NPRM is released, the Commission sometimes adjusts the NPRM fee rates to reflect the new information in the Report and Order. This is intended to make sure that the fee rates in the Report and Order reflect more recent and accurate information. We realize that by adjusting the unit counts as more accurate information is received may adjust the fee rates for certain regulatory fee categories. Certain entities that collect the fees from customers in advance in order to pay the Commission, such as Cable and DBS companies, ITSP providers, Cell Phone and Toll-Free providers, to name a few, may need to adjust their billings to customers as the Commission adjusts its fee rates. As a result, the Commission understands that these adjustments are necessary so that these regulatees can recover their fee obligations from their customers.

We sought verification for these estimates from multiple sources and, in all cases, we compared FY 2024 estimates with actual FY 2023 payment units to ensure that our revised estimates were reasonable. Where appropriate, we adjusted and/or rounded our final estimates to take into consideration the fact that certain variables that impact on the number of payment units cannot yet be estimated with sufficient accuracy. These include an unknown number of waivers and/or exemptions that may occur in FY 2024 and the fact that, in many services, the number of actual licensees or station operators fluctuates from time to time due to economic, technical, or other reasons. When we note, for example, that our estimated FY 2024 payment units are based on FY 2023 actual payment units, it does not necessarily mean that our FY 2024 projection is exactly the same number as in FY 2023. We have either rounded the FY 2024 number or adjusted it slightly to account for these variables.

Fee category | Sources of payment unit estimates
Land Mobile (All), Microwave, Marine (Ship & Coast), Aviation (Aircraft & Ground), Domestic Public Fixed | Based on Wireless Telecommunications Bureau (WTB) information as well as prior year payment information. Estimates have been adjusted to take into consideration the licensing of portions of these services.
CMRS Cellular/Mobile Services | Based on WTB projection reports, and FY 2023 payment data.
CMRS Messaging Services | Based on WTB reports, and FY 2023 payment data.
AM/FM Radio Stations | Based on downloaded LMS data, adjusted for exemptions, and actual FY 2023 payment units.
Digital TV Stations (Combined VHF/UHF units) | Based on LMS data, fee rate adjusted for exemptions, and population figures are calculated based on individual station parameters.
AM/FM/TV Construction Permits | Based on LMS data, adjusted for exemptions, and actual FY 2023 payment units.
LPTV, Translators and Boosters, Class A Television | Based on LMS data, adjusted for exemptions, and actual FY 2023 payment units.
BRS (formerly MDS/MMDS)LMDS | Based on WTB reports and actual FY 2023 payment units. Based on WTB reports and actual FY 2023 payment units.
Cable Television Relay Service (CARS) Stations | Based on cable trend data, data from the Media Bureau's COALS database, and actual FY 2023 payment units.
Cable Television System Subscribers, Including IPTV Subscribers | Based on publicly available data sources for estimated subscriber counts, trend information from past payment data, and actual FY 2023 payment units.
Interstate Telecommunication Service Providers | Based on FCC Form 499-A worksheets due in April 2024, and any data assistance provided by the Wireline Competition Bureau.
Earth Stations | Based on International Bureau licensing data and actual FY 2023 payment units.
Space Stations (GSOs & NGSOs) | Based on International Bureau data reports and actual FY 2023 payment units.
International Bearer Circuits | Based on assistance provided by the International Bureau, any data submissions by licensees, adjusted as necessary, and actual FY 2023 payment units.
Submarine Cable Licenses | Based on International Bureau license information, and actual FY 2023 payment units.

Table 6—Measurements That Determine Signal Contours and Population Coverages

Factors, Measurements, and Calculations That Determine Station Signal Contours and Associated Population Coverages

AM Stations

For stations with nondirectional daytime antennas, the theoretical radiation was used at all azimuths. For stations with directional daytime antennas, specific information on each day tower, including field ratio, phase, spacing, and orientation was retrieved, as well as the theoretical pattern root-mean-square of the radiation in all directions in the horizontal plane (RMS) figure (milliVolt per meter (mV/m) @ 1 km) for the antenna system. The standard, or augmented standard if pertinent, horizontal plane radiation pattern was calculated using techniques and methods specified in §§ 73.150 and 73.152 of the Commission's rules. Radiation values were calculated for each of 360 radials around the transmitter site. Next, estimated soil conductivity data was retrieved from a database representing the information in FCC Figure R3. Using the calculated horizontal radiation values, and the retrieved soil conductivity data, the distance to the principal community (5 mV/m) contour was predicted for each of the 360 radials. The resulting distance to principal community contours were used to form a geographical polygon. Population counting was accomplished by determining which 2020 block centroids were contained in the polygon. (A block centroid is the center point of a small area containing population as computed by the U.S. Census Bureau.) The sum of the population figures for all enclosed blocks represents the total population for the predicted principal community coverage area.

FM Stations

The greater of the horizontal or vertical effective radiated power (ERP) (kW) and respective height above average terrain (HAAT) (m) combination was used. Where the antenna height above mean sea level (HAMSL) was available, it was used in lieu of the average HAAT figure to calculate specific HAAT figures for each of 360 radials under study. Any available directional pattern information was applied as well, to produce a radial-specific ERP figure. The HAAT and ERP figures were used in conjunction with the Field Strength (50-50) propagation curves specified in 47 CFR 73.313 to predict the distance to the principal community (70 dBu (decibel above 1 microVolt per meter) or 3.17 mV/m) contour for each of the 360 radials. The resulting distance to principal community contours were used to form a geographical polygon. Population counting was accomplished by determining which 2020 block centroids were contained in the polygon. The sum of the population figures for all enclosed blocks represents the total population for the predicted principal community coverage area.

Table 7—Listing of Space Stations—Satellite Charts for FY 2024 Regulatory Fees—Space Stations (Geostationary Orbit): U.S.-Licensed Space Stations
Licensee | Call sign | Satellite name | Type
Astranis Projects USA LLC | S3092 | ARCTURUS | GSO.
Open Plaza Corp | S2922 | SKY-B1 | GSO.
DIRECTV Enterprises, LLC | S2640 | DIRECTV D11 | GSO.
DIRECTV Enterprises, LLC | S2869 | DIRECTV D14 | GSO.
DIRECTV Enterprises, LLC | S2632 | DIRECTV D8 | GSO.
DIRECTV Enterprises, LLC | S2669 | DIRECTV D9S | GSO.
DIRECTV Enterprises, LLC | S2641 | DIRECTV D10 | GSO.
DIRECTV Enterprises, LLC | S2797 | DIRECTV D12 | GSO.
DIRECTV Enterprises, LLC | S2930 | DIRECTV D15 | GSO.
DIRECTV Enterprises, LLC | S2673 | DIRECTV D5 | GSO.
Alascom, Inc | S2133 | SPACEWAY 2 | GSO.
DIRECTV Enterprises, LLC | S3039 | DIRECTV D16 | GSO.
DISH Operating L.L.C | S2931 | ECHOSTAR 18 | GSO.
DISH Operating L.L.C | S2738 | ECHOSTAR 11 | GSO.
DISH Operating L.L.C | S2694 | ECHOSTAR 10 | GSO.
DISH Operating L.L.C | S2790 | ECHOSTAR 14 | GSO.
EchoStar Satellite Operating Corporation | S2811 | ECHOSTAR 15 | GSO.
EchoStar Satellite Operating Corporation | S2844 | ECHOSTAR 16 | GSO.
EchoStar Satellite Services L.L.C | S2179 | ECHOSTAR 9 | GSO.
EchoStar BSS Corp | S3093 | ECHOSTAR 23 | GSO.
ES 172 LLC | S2610 | EUTELSAT 174A | GSO.
ES 172 LLC | S3021 | EUTELSAT 172B | GSO.
Horizon-3 Satellite LLC | S2947 | HORIZONS-3e | GSO.
Hughes Network Systems, LLC | S2663 | SPACEWAY 3 | GSO.
Hughes Network Systems, LLC | S2834 | ECHOSTAR 19 | GSO.
Hughes Network Systems, LLC | S2753 | ECHOSTAR XVII | GSO.
Intelsat License LLC/Viasat, Inc | S2160 | GALAXY 28 | GSO.
Intelsat License LLC | S2414 | INTELSAT 10-02 | GSO.
Intelsat License LLC | S2972 | INTELSAT 37e | GSO.
Intelsat License LLC | S2854 | NSS-7 | GSO.
Intelsat License LLC | S2409 | INELSAT 905 | GSO.
Intelsat License LLC | S2405 | INTELSAT 901 | GSO.
Intelsat License LLC | S2408 | INTELSAT 904 | GSO.
Intelsat License LLC | S2804 | INTELSAT 25 | GSO.
Intelsat License LLC | S2959 | INTELSAT 35e | GSO.
Intelsat License LLC | S2237 | INTELSAT 11 | GSO.
Intelsat License LLC | S2785 | INTELSAT 14 | GSO.
Intelsat License LLC | S2380 | INTELSAT 9 | GSO.
Intelsat License LLC | S2831 | INTELSAT 23 | GSO.
Intelsat License LLC | S2915 | INTELSAT 34 | GSO.
Intelsat License LLC | S2863 | INTELSAT 21 | GSO.
Intelsat License LLC | S2750 | INTELSAT 16 | GSO.
Intelsat License LLC | S2715 | GALAXY 17 | GSO.
Intelsat License LLC | S2253 | GALAXY 11 | GSO.
Intelsat License LLC | S2381 | GALAXY 3C | GSO.
Intelsat License LLC | S2887 | INTELSAT 30 | GSO.
Intelsat License LLC | S2924 | INTELSAT 31 | GSO.
Intelsat License LLC | S2647 | GALAXY 19 | GSO.
Intelsat License LLC | S2687 | GALAXY 16 | GSO.
Intelsat License LLC | S2733 | GALAXY 18 | GSO.
Intelsat License LLC | S2385 | GALAXY 14 | GSO.
Intelsat License LLC | S2386 | GALAXY 13 | GSO.
Intelsat License LLC | S3083 | GALAXY 34 | GSO.
Intelsat License LLC | S3015 | GALAXY 33 | GSO.
Intelsat License LLC | S3016 | GALAXY 30 | GSO.
Intelsat License LLC | S3076 | GALAXY 31 | GSO.
Intelsat License LLC | S3078 | GALAXY 32 | GSO.
Intelsat License LLC | S3148 | GALAXY 36 | GSO.
Intelsat License LLC | S3164 | GALAXY 37 | GSO.
Intelsat License LLC | S2704 | INTELSAT 5 | GSO.
Intelsat License LLC | S2817 | INTELSAT 18 | GSO.
Intelsat License LLC | S2850 | INTELSAT 19 | GSO.
Intelsat License LLC | S2368 | INTELSAT 1R | GSO.
Intelsat License LLC | S2789 | INTELSAT 15 | GSO.
Intelsat License LLC | S2423 | HORIZONS 2 | GSO.
Intelsat License LLC | S2846 | INTELSAT 22 | GSO.
Intelsat License LLC | S2847 | INTELSAT 20 | GSO.
Intelsat License LLC | S2948 | INTELSAT 36 | GSO.
Intelsat License LLC | S2814 | INTELSAT 17 | GSO.
Intelsat License LLC | S2410 | INTELSAT 906 | GSO.
Intelsat License LLC | S2406 | INTELSAT 902 | GSO.
Intelsat License LLC | S2939 | INTELSAT 33e | GSO.
Intelsat License LLC | S2382 | INTELSAT 10 | GSO.
Intelsat License LLC | S2751 | INTELSAT 28 | GSO.
Intelsat License LLC | S3023 | INTELSAT 39 | GSO.
Intelsat License LLC | S3066 | INTELSAT 40e | GSO.
Ligado Networks Subsidiary, LLC | S2358 | SKYTERRA-1 | GSO.
Ligado Networks Subsidiary, LLC | AMSC-1 | MSAT-2 | GSO.
Novavision Group, Inc | S2861 | DIRECTV KU-79W | GSO.
Satellite CD Radio LLC | S2812 | FM-6 | GSO.
SES Americom, Inc | S2415 | NSS-10 | GSO.
SES Americom, Inc | S2162 | AMC-3 | GSO.
SES Americom, Inc | S2347 | AMC-6 | GSO.
SES Americom, Inc | S2826 | SES-2 | GSO.
SES Americom, Inc | S2807 | SES-1 | GSO.
SES Americom, Inc | S2180 | AMC-15 | GSO.
SES Americom, Inc | S2892 | SES-3 | GSO.
SES Americom, Inc | S3097/S3138 | SES-19/SES-22 | GSO.
SES Americom, Inc | S3099 | SES-21 | GSO.
Silkwave Africa, LLC | S3074 | AsiaStar | GSO.
Sirius XM Radio Inc | S2710 | FM-5 | GSO.
Sirius XM Radio Inc | S3034/S2617/S2616/S3033 | SXM-8/XM-3/XM-4/SXM-7 | GSO.
Skynet Satellite Corp | S2933 | TELSTAR 12V | GSO.
Skynet Satellite Corporation | S2357 | TELSTAR 11N | GSO.
ViaSat, Inc | S2747 | VIASAT-1 | GSO.
ViaSat, Inc | S3050/S917 | VIASAT-89US/VIASAT-3 | GSO.
XM Radio LLC | S2786 | XM-5 | GSO.

Space Stations (Geostationary Orbit): Non-U.S.-Licensed Space Stations—Market Access Through Petition for Declaratory Ruling
Licensee | Call sign | Satellite name | Type
ABS Global Ltd | S2987 | ABS-3A | GSO.
Avanti Hylas 2 Ltd | S3130 | HYLAS-4 | GSO.
DBSD Services Ltd | S2651 | DBSD G1 | GSO.
Embratel TVSAT Telecomunicacoes S.A | S3142 | Star One D2 | GSO.
Empresa Argentina de Soluciones Satelitales S.A | S2956 | ARSAT-2 | GSO.
Embratel Tvsat Telecommunicacoes S.A | S2678 | STAR ONE C2 | GSO.
Embratel Tvsat Telecommunicacoes S.A | S2845 | STAR ONE C3 | GSO.
Eutelsat S.A | S3056 | EUTELSAT 8 WEST B | GSO.
Eutelsat S.A | S3055 | EUTELSAT 139 WEST A | GSO.
Gamma Acquisition L.L.C | S2633 | TerreStar 1 | GSO.
Hispamar Satélites, S.A | S2793 | AMAZONAS-2 | GSO.
Hispamar Satélites, S.A | S2886 | AMAZONAS-3 | GSO.
Hispamar Satélites, S.A | S3086 | AMAZONAS NEXUS | GSO.
Hispasat, S.A | S2969 | HISPASAT 30W-6 | GSO.
Inmarsat PLC | S2932 | Inmarsat-4 F3 | GSO.
Inmarsat PLC | S2949 | Inmarsat-3 F5 | GSO.
New Skies Satellites B.V | S2756 | NSS-9 | GSO.
New Skies Satellites B.V | S2870 | SES-6 | GSO.
New Skies Satellites B.V | S3048 | NSS-6 | GSO.
New Skies Satellites B.V | S2828 | SES-4 | GSO.
New Skies Satellites B.V. | S2950 | SES-10 | GSO.
Satelites Mexicanos, S.A. de C.V | S2695 | EUTELSAT 113 WEST A | GSO.
Satelites Mexicanos, S.A. de C.V | S2926 | EUTELSAT 117 WEST B | GSO.
Satelites Mexicanos, S.A. de C.V | S2938 | EUTELSAT 115 WEST B | GSO.
Satelites Mexicanos, S.A. de C.V | S2873 | EUTELSAT 117 WEST A | GSO.
SES Satellites (Gibraltar) Ltd | S2676 | AMC 21 | GSO.
SES Satellites (Gibraltar) Ltd | S2951 | SES-15 | GSO.
SES Americom, Inc | S3037 | NSS-11 | GSO.
SES Americom, Inc | S2964 | SES-11 | GSO.
SES-17 S.a.r.l | S3043 | SES-17 | GSO.
Telesat Brasil Capacidade de Satelites Ltda | S2821 | ESTRELA DO SUL 2 | GSO.
Telesat Canada | S2745 | ANIK F1 | GSO.
Telesat Canada | S2674 | ANIK F1R | GSO.
Telesat Canada | S2703 | ANIK F3 | GSO.
Telesat Canada | S2472 | ANIK F2 | GSO.
Telesat International Ltd | S2955 | TELSTAR 19 VANTAGE | GSO.
Viasat, Inc | S2902 | VIASAT-2 | GSO.

Space Stations (Geostationary Orbit): Non-U.S.-Licensed Space Stations—Market Access Through Earth Station Licenses
Licensee | Call sign | Satellite name | Type
APSTAR VI | APSTAR 6 | M292090 | GSO.
AUSSAT B 152E | OPTUS D2 | M221170 | GSO.
Ciel Satellite Group | Ciel-2 | E050029 | GSO.
DISH Operating LLC | Quetzsat-1 | E090020 | GSO.
Eutelsat 65 West A | Eutelsat 65 West A | E160081 | GSO.
INMARSAT 4F1 | INMARSAT 4F1 | KA25 | GSO.
INMARSAT 5F2 | INMARSAT 5F2 | E120072 | GSO.
INMARSAT 5F3 | INMARSAT 5F3 | E150028 | GSO.
JCSAT-2B | JCSAT-2B | M174163 | GSO.
NIMIQ 5 | NIMIQ 5 | E080107 | GSO.
WILDBLUE-1 | WILDBLUE-1 | E040213 | GSO.

Space Stations (per License/Call Sign in Non-Geostationary Orbit) (Small Satellite)
ITU name (if available) | Common name | Call sign | Type
Capella Space Corp | Capella-2, Capella-3, Capella-4 | S3073 | Small Satellite.
Capella Space Corp | Capella-5, Capella-6 | S3080 | Small Satellite.
Capella Space Corp | Capella-7, Capella-8 | S3100 | Small Satellite.
Capella Space Corp | Acadia-1 | S3162 | Small Satellite.
Launcher, Inc | Orbiter SN3 | S3161 | Small Satellite.
Loft Orbital Solutions Inc | YAM-3 | S3072 | Small Satellite.
Loft Orbital Solutions Inc | YAM-5 | S3147 | Small Satellite.
Turion Space Corp | DROID.001 | S3146 | Small Satellite.
R2 Space, Inc | XR-1 | S3067 | Small Satellite.
ICEYE US, Inc | ICEYE | S3082 | Small Satellite.
Umbra Lab Inc | Umbra SAR | S3095 | Small Satellite.
ICEYE US, Inc | ICEYE Second Tranche | S3165 | Small Satellite.
Space Logistics, LLC | Mission Extension Vehicle-1 | S2990 | RPO/OOS.
Space Logistics, LLC | Mission Extension Vehicle-2 | S3059 | RPO/OOS.
Momentus Space, LLC | Vigoride-5 | S3144 | OTV.
Momentus Space, LLC | Vigoride-6 | S3154 | OTV.
Spaceflight, Inc | Sherpa-AC1 | S3133 | OTV.

Space Stations (Non-Geostationary Orbit)—Less Complex
ITU name (if available) | Common name | Call sign | Type
Planet Labs | Flock/Skysats | S2912 | Less Complex.
Maxar License | WorldView 1, 2 & 3, GeoEye-1 | S2129/S2348 | Less Complex.
BlackSky Global | Global | S3032 | Less Complex.
Orbital Sidekick, Inc | GHOSt | S3139 | Less Complex.
Hawkeye 360 | HE360 | S3042 | Less Complex.
Spire Global | LEMUR & MINAS | S2946/S3045 | Less Complex.

Space Stations (Non-Geostationary Orbit)—Other
ITU name (if available) | Common name | Call sign | Type
ORBCOMM License Corp | ORBCOMM | S2103 | Other.
Iridium Constellation LLC | IRIDIUM | S2110 | Other.
Telesat Canada | TELESAT Ku/Ka-Band | S2976 | Other.
Kepler Communications, Inc | KEPLER | S2981 | Other.
Myriota Pty. Ltd | MYRIOTA | S3047 | Other.
O3b Ltd | O3b | S2935 | Other.
Globalstar License LLC | GLOBALSTAR | S2115 | Other.
Space Exploration Holdings, LLC | SPACEX/Ku/KaBand | S2983/S3018 | Other.
Space Exploration Holdings, LLC | SPACEX/GEN 2 | S3069 | Other.
Swarm Technologies, Inc | SWARM | S3041 | Other.
WorldVu Satellites Ltd | ONEWEB | S2963 | Other.

Table 8—Full-Service Television Stations—FY 2024 Full-Service Broadcast Television Stations by Call Sign
Facility Id. | Call sign | Service area: Population | Terrain limited: Population | Terrain limited: Fee amount
3246 | KAAH-TV | 1,018,897 | 939,246 | $ 6,197
18285 | KAAL | 605,222 | 580,564 | 3,831
11912 | KAAS-TV | 243,984 | 243,947 | 1,610
56528 | KABB | 3,017,860 | 3,000,477 | 19,797
282 | KABC-TV | 18,303,336 | 17,670,502 | 116,590
1236 | KACV-TV | 383,228 | 383,071 | 2,528
33261 | KADN-TV | 889,583 | 889,583 | 5,869
8263 | KAEF-TV | 139,510 | 124,133 | 819
2728 | KAET | 4,867,739 | 4,836,434 | 31,911
2767 | KAFT | 1,294,492 | 1,218,670 | 8,041
62442 | KAID | 864,547 | 857,276 | 5,656
4145 | KAII-TV | 203,698 | 179,435 | 1,184
67494 | KAIL | 2,091,288 | 2,061,175 | 13,600
13988 | KAIT | 594,090 | 583,749 | 3,852
40517 | KAJB | 393,654 | 393,355 | 2,595
65522 | KAKE | 821,488 | 816,811 | 5,389
804 | KAKM | 397,237 | 395,241 | 2,608
148 | KAKW-DT | 3,350,876 | 3,242,159 | 21,392
51598 | KALB-TV | 933,915 | 932,500 | 6,153
51241 | KALO | 1,018,088 | 971,631 | 6,411
40820 | KAMC | 411,973 | 411,949 | 2,718
8523 | KAMR-TV | 377,485 | 377,410 | 2,490
65301 | KAMU-TV | 395,784 | 392,044 | 2,587
2506 | KAPP | 337,194 | 298,159 | 1,967
3658 | KARD | 680,743 | 678,724 | 4,478
23079 | KARE | 4,243,145 | 4,234,439 | 27,939
33440 | KARK-TV | 1,243,813 | 1,230,366 | 8,118
37005 | KARZ-TV | 1,153,588 | 1,134,221 | 7,484
32311 | KASA-TV | 1,198,361 | 1,159,350 | 7,649
41212 | KASN | 1,200,705 | 1,185,725 | 7,823
7143 | KASW | 4,828,272 | 4,813,078 | 31,757
55049 | KASY-TV | 1,182,887 | 1,143,258 | 7,543
33471 | KATC | 1,376,057 | 1,376,057 | 9,079
13813 | KATN | 95,520 | 95,197 | 628
21649 | KATU | 3,400,708 | 3,238,560 | 21,368
33543 | KATV | 1,285,451 | 1,265,986 | 8,353
50182 | KAUT-TV | 1,810,654 | 1,809,428 | 11,939
21488 | KAUU | 398,876 | 396,486 | 2,616
6864 | KAUZ-TV | 366,943 | 365,162 | 2,409
73101 | KAVU-TV | 323,202 | 322,961 | 2,131
49579 | KAWB | 193,767 | 193,705 | 1,278
49578 | KAWE | 139,854 | 137,788 | 909
58684 | KAYU-TV | 925,282 | 861,276 | 5,683
29234 | KAZA-TV | 15,481,136 | 14,233,993 | 93,916
17433 | KAZD | 8,087,952 | 8,085,339 | 53,347
776273 | KAZF | 253,785 | 188,057 | 1,241
1151 | KAZQ | 1,137,703 | 1,126,947 | 7,436
35811 | KAZT-TV | 495,353 | 409,112 | 2,699
4148 | KBAK-TV | 1,626,532 | 1,363,867 | 8,999
16940 | KBCA | 465,218 | 465,157 | 3,069
53586 | KBCB | 1,510,168 | 1,478,647 | 9,756
22685 | KBDI-TV | 4,731,715 | 4,335,180 | 28,604
56384 | KBEH | 18,512,098 | 18,476,669 | 121,909
65395 | KBFD-DT | 1,016,508 | 887,671 | 5,857
169030 | KBGS-TV | 176,432 | 173,977 | 1,148
61068 | KBHE-TV | 153,390 | 144,914 | 956
48556 | KBIM-TV | 226,233 | 226,194 | 1,492
29108 | KBIN-TV | 1,014,918 | 1,013,041 | 6,684
33658 | KBJR-TV | 278,564 | 274,572 | 1,812
83306 | KBLN-TV | 322,286 | 145,745 | 962
63768 | KBLR | 2,280,730 | 2,220,879 | 14,653
53324 | KBME-TV | 146,149 | 146,082 | 964
10150 | KBMT | 799,217 | 798,262 | 5,267
22121 | KBMY | 142,682 | 142,622 | 941
49760 | KBOI-TV | 869,688 | 862,287 | 5,689
55370 | KBRR | 154,408 | 154,405 | 1,019
66414 | KBSD-DT | 151,986 | 151,901 | 1,002
66415 | KBSH-DT | 97,884 | 95,916 | 633
19593 | KBSI | 730,259 | 728,325 | 4,805
66416 | KBSL-DT | 47,462 | 46,328 | 306
4939 | KBSV | 1,535,281 | 1,424,913 | 9,402
62469 | KBTC-TV | 4,319,699 | 4,228,861 | 27,902
61214 | KBTV-TV | 771,692 | 771,692 | 5,092
6669 | KBTX-TV | 5,354,551 | 5,351,089 | 35,306
35909 | KBVO | 1,911,833 | 1,684,206 | 11,112
58618 | KBVU | 136,908 | 121,846 | 804
6823 | KBYU-TV | 2,838,181 | 2,620,447 | 17,290
33756 | KBZK | 156,388 | 139,258 | 919
21422 | KCAL-TV | 18,258,912 | 17,586,821 | 116,038
11265 | KCAU-TV | 769,096 | 754,352 | 4,977
14867 | KCBA | 3,334,176 | 2,557,080 | 16,872
27507 | KCBD | 433,372 | 432,694 | 2,855
9628 | KCBS-TV | 18,628,137 | 17,359,665 | 114,539
49750 | KCBY-TV | 92,825 | 77,624 | 512
33710 | KCCI | 1,216,146 | 1,209,219 | 7,978
9640 | KCCW-TV | 294,831 | 287,246 | 1,895
63158 | KCDO-TV | 3,305,368 | 3,160,730 | 20,854
62424 | KCDT | 807,726 | 762,258 | 5,029
83913 | KCEB | 446,377 | 445,850 | 2,942
57219 | KCEC | 4,497,531 | 4,237,580 | 27,960
10245 | KCEN-TV | 2,224,490 | 2,174,193 | 14,345
13058 | KCET | 17,868,933 | 16,310,676 | 107,618
18079 | KCFW-TV | 196,292 | 157,001 | 1,036
132606 | KCGE-DT | 129,244 | 129,244 | 853
60793 | KCHF | 1,157,628 | 1,127,207 | 7,437
33722 | KCIT | 392,243 | 391,646 | 2,584
62468 | KCKA | 1,082,723 | 906,771 | 5,983
41969 | KCLO-TV | 150,949 | 145,392 | 959
47903 | KCNC-TV | 4,460,509 | 4,175,114 | 27,547
71586 | KCNS | 9,007,762 | 8,012,556 | 52,867
33742 | KCOP-TV | 18,134,022 | 17,318,605 | 114,268
19117 | KCOS | 1,092,982 | 1,092,792 | 7,210
63165 | KCOY-TV | 700,154 | 478,768 | 3,159
33894 | KCPQ | 5,131,164 | 4,985,829 | 32,896
53843 | KCPT | 2,690,171 | 2,688,808 | 17,741
33875 | KCRA-TV | 11,608,107 | 7,153,845 | 47,201
9719 | KCRG-TV | 1,174,546 | 1,156,435 | 7,630
60728 | KCSD-TV | 323,237 | 323,093 | 2,132
59494 | KCSG | 229,899 | 220,818 | 1,457
33749 | KCTS-TV | 4,848,434 | 4,778,758 | 31,530
41230 | KCTV | 2,732,197 | 2,730,443 | 18,015
58605 | KCVU | 700,745 | 689,702 | 4,551
10036 | KCWC-DT | 42,872 | 38,501 | 254
64444 | KCWE | 2,642,880 | 2,641,432 | 17,428
51502 | KCWI-TV | 1,152,163 | 1,151,070 | 7,595
42008 | KCWO-TV | 55,411 | 55,383 | 365
166511 | KCWV | 210,633 | 210,626 | 1,390
24316 | KCWX | 4,947,756 | 4,941,660 | 32,605
68713 | KCWY-DT | 85,085 | 84,715 | 559
22201 | KDAF | 7,951,276 | 7,949,040 | 52,448
33764 | KDBC-TV | 1,101,513 | 1,097,028 | 7,238
79258 | KDCK | 43,010 | 42,993 | 284
166332 | KDCU-DT | 773,823 | 773,808 | 5,106
38375 | KDEN-TV | 3,968,060 | 3,943,641 | 26,020
17037 | KDFI | 7,990,955 | 7,989,287 | 52,713
33770 | KDFW | 7,962,141 | 7,959,855 | 52,519
29102 | KDIN-TV | 1,193,740 | 1,189,191 | 7,846
25454 | KDKA-TV | 3,569,162 | 3,428,192 | 22,619
60740 | KDKF | 73,619 | 66,137 | 436
4691 | KDLH | 267,326 | 264,686 | 1,746
41975 | KDLO-TV | 214,024 | 213,819 | 1,411
55379 | KDLT-TV | 700,230 | 689,305 | 4,548
55375 | KDLV-TV | 98,101 | 97,673 | 644
25221 | KDMD | 394,250 | 391,278 | 2,582
78915 | KDMI | 1,248,443 | 1,247,337 | 8,230
56524 | KDNL-TV | 3,013,924 | 3,009,244 | 19,855
24518 | KDOC-TV | 18,264,021 | 17,379,123 | 114,667
1005 | KDOR-TV | 1,180,603 | 1,177,894 | 7,772
60736 | KDRV | 551,809 | 469,537 | 3,098
61064 | KDSD-TV | 65,355 | 60,171 | 397
53329 | KDSE | 52,777 | 51,188 | 338
56527 | KDSM-TV | 1,202,702 | 1,201,866 | 7,930
49326 | KDTN | 7,901,133 | 7,898,922 | 52,117
83491 | KDTP | 25,965 | 23,729 | 157
33778 | KDTV-DT | 8,697,794 | 7,750,134 | 51,135
67910 | KDTX-TV | 7,985,188 | 7,983,676 | 52,676
126 | KDVR | 4,301,541 | 4,144,268 | 27,344
18084 | KECI-TV | 228,161 | 210,560 | 1,389
51208 | KECY-TV | 407,175 | 403,848 | 2,665
58408 | KEDT | 527,343 | 527,343 | 3,479
55435 | KEET | 181,333 | 161,389 | 1,065
37103 | KEKE | 105,022 | 101,614 | 670
41983 | KELO-TV | 767,130 | 715,437 | 4,720
34440 | KEMO-TV | 9,007,762 | 8,012,556 | 52,867
776162 | KEMS | 55,920 | 54,847 | 362
2777 | KEMV | 634,060 | 576,758 | 3,805
26304 | KENS | 3,091,086 | 3,077,749 | 20,307
63845 | KENV-DT | 52,294 | 45,932 | 303
18338 | KENW | 85,762 | 85,762 | 566
50591 | KEPB-TV | 631,758 | 574,973 | 3,794
56029 | KEPR-TV | 515,354 | 493,941 | 3,259
49324 | KERA-TV | 7,984,381 | 7,981,440 | 52,662
40878 | KERO-TV | 1,387,245 | 1,257,683 | 8,298
61067 | KESD-TV | 172,302 | 165,214 | 1,090
25577 | KESQ-TV | 1,487,393 | 615,803 | 4,063
50205 | KETA-TV | 1,874,445 | 1,860,161 | 12,273
62182 | KETC | 2,945,200 | 2,942,622 | 19,415
37101 | KETD | 3,918,776 | 3,879,692 | 25,598
2768 | KETG | 421,357 | 403,179 | 2,660
12895 | KETH-TV | 7,296,694 | 7,296,428 | 48,142
55643 | KETK-TV | 1,072,485 | 1,071,097 | 7,067
2770 | KETS | 1,209,518 | 1,191,713 | 7,863
53903 | KETV | 1,491,674 | 1,486,408 | 9,807
92872 | KETZ | 505,102 | 502,310 | 3,314
68853 | KEYC-TV | 553,554 | 539,853 | 3,562
33691 | KEYE-TV | 3,533,479 | 3,444,549 | 22,727
60637 | KEYT-TV | 1,466,777 | 1,275,243 | 8,414
83715 | KEYU | 351,434 | 351,403 | 2,319
34406 | KEZI | 1,221,893 | 1,166,907 | 7,699
34412 | KFBB-TV | 96,782 | 95,488 | 630
125 | KFCT | 967,548 | 960,099 | 6,335
51466 | KFDA-TV | 394,744 | 393,695 | 2,598
22589 | KFDM | 770,621 | 770,609 | 5,084
48521 | KFDR | 672,350 | 657,307 | 4,337
65370 | KFDX-TV | 367,320 | 366,583 | 2,419
49264 | KFFV | 4,674,758 | 4,634,964 | 30,581
12729 | KFFX-TV | 467,787 | 463,006 | 3,055
83992 | KFJX | 709,125 | 679,797 | 4,485
42122 | KFMB-TV | 4,239,135 | 3,914,207 | 25,826
53321 | KFME | 442,176 | 441,664 | 2,914
74256 | KFNB | 84,543 | 83,990 | 554
21613 | KFNE | 53,059 | 52,392 | 346
21612 | KFNR | 9,724 | 9,457 | 62
66222 | KFOR-TV | 1,789,693 | 1,789,342 | 11,806
33716 | KFOX-TV | 1,107,424 | 1,097,251 | 7,240
41517 | KFPH-DT | 385,474 | 313,720 | 2,070
81509 | KFPX-TV | 1,072,290 | 1,072,222 | 7,075
31597 | KFQX | 197,918 | 173,495 | 1,145
59013 | KFRE-TV | 1,850,426 | 1,835,478 | 12,110
51429 | KFSF-DT | 7,986,866 | 7,039,241 | 46,445
66469 | KFSM-TV | 1,003,012 | 978,896 | 6,459
8620 | KFSN-TV | 1,973,852 | 1,957,279 | 12,914
29560 | KFTA-TV | 907,937 | 894,593 | 5,903
83714 | KFTC | 64,284 | 64,250 | 424
60537 | KFTH-DT | 7,287,908 | 7,287,530 | 48,083
60549 | KFTR-DT | 18,326,526 | 16,971,273 | 111,976
61335 | KFTS | 77,847 | 66,866 | 441
81441 | KFTU-DT | 109,271 | 105,476 | 696
34439 | KFTV-DT | 1,930,415 | 1,914,464 | 12,632
664 | KFVE | 91,164 | 81,417 | 537
592 | KFVS-TV | 867,835 | 847,638 | 5,593
29015 | KFWD | 7,970,373 | 7,964,229 | 52,548
35336 | KFXA | 914,357 | 912,893 | 6,023
17625 | KFXB-TV | 377,548 | 370,365 | 2,444
70917 | KFXK-TV | 969,012 | 966,868 | 6,379
84453 | KFXL-TV | 977,327 | 976,428 | 6,442
56079 | KFXV | 1,335,643 | 1,335,643 | 8,813
41427 | KFYR-TV | 153,218 | 150,858 | 995
25685 | KGAN | 1,121,266 | 1,109,006 | 7,317
34457 | KGBT-TV | 1,350,104 | 1,350,004 | 8,907
7841 | KGCW | 938,174 | 935,835 | 6,175
24485 | KGEB | 1,257,918 | 1,224,797 | 8,081
34459 | KGET-TV | 982,744 | 940,071 | 6,203
53320 | KGFE | 120,237 | 120,237 | 793
7894 | KGIN | 235,875 | 233,749 | 1,542
83945 | KGLA-DT | 1,754,806 | 1,754,806 | 11,578
34445 | KGMB | 1,016,756 | 907,381 | 5,987
58608 | KGMC | 2,076,523 | 2,052,808 | 13,544
36914 | KGMD-TV | 101,247 | 100,762 | 665
36920 | KGMV | 209,577 | 175,904 | 1,161
10061 | KGNS-TV | 283,777 | 274,877 | 1,814
34470 | KGO-TV | 9,406,080 | 8,630,291 | 56,943
56034 | KGPE | 1,829,902 | 1,812,936 | 11,962
81694 | KGPX-TV | 792,059 | 724,592 | 4,781
25511 | KGTF | 155,729 | 154,491 | 1,019
40876 | KGTV | 4,257,568 | 3,912,037 | 25,812
36918 | KGUN-TV | 1,479,221 | 1,292,183 | 8,526
34874 | KGW | 3,397,112 | 3,239,730 | 21,376
63177 | KGWC-TV | 84,597 | 84,117 | 555
63162 | KGWL-TV | 37,314 | 37,199 | 245
63166 | KGWN-TV | 558,685 | 528,237 | 3,485
63170 | KGWR-TV | 49,435 | 49,242 | 325
4146 | KHAW-TV | 102,381 | 101,946 | 673
60353 | KHBS | 610,455 | 588,263 | 3,881
27300 | KHCE-TV | 2,848,289 | 2,842,696 | 18,756
26431 | KHET | 1,022,459 | 1,009,772 | 6,662
21160 | KHGI-TV | 245,331 | 244,515 | 1,613
36917 | KHII-TV | 1,017,217 | 907,842 | 5,990
29085 | KHIN | 1,137,059 | 1,135,866 | 7,494
17688 | KHME | 196,002 | 194,233 | 1,282
47670 | KHMT | 193,159 | 188,714 | 1,245
47987 | KHNE-TV | 205,833 | 204,923 | 1,352
34867 | KHNL | 1,016,725 | 907,350 | 5,987
60354 | KHOG-TV | 862,177 | 797,810 | 5,264
4144 | KHON-TV | 1,016,508 | 944,271 | 6,230
34529 | KHOU | 7,289,635 | 7,287,991 | 48,086
4690 | KHQA-TV | 299,409 | 298,038 | 1,966
34537 | KHQ-TV | 938,773 | 887,184 | 5,854
30601 | KHRR | 1,298,625 | 1,241,818 | 8,194
34348 | KHSD-TV | 203,077 | 199,032 | 1,313
24508 | KHSL-TV | 634,956 | 615,388 | 4,060
69677 | KHSV | 2,384,812 | 2,343,597 | 15,463
64544 | KHVO | 101,138 | 99,980 | 660
23394 | KIAH | 7,307,171 | 7,306,816 | 48,210
34564 | KICU-TV | 8,992,796 | 7,837,235 | 51,710
56028 | KIDK | 351,335 | 348,794 | 2,301
58560 | KIDY | 126,096 | 126,079 | 832
53382 | KIEM-TV | 177,885 | 166,501 | 1,099
66258 | KIFI-TV | 370,169 | 365,995 | 2,415
16950 | KIFR | 2,356,175 | 2,330,021 | 15,373
10188 | KIII | 580,363 | 577,602 | 3,811
29095 | KIIN | 1,405,103 | 1,375,871 | 9,078
34527 | KIKU | 1,017,227 | 920,837 | 6,076
63865 | KILM | 18,009,859 | 16,478,550 | 108,725
56033 | KIMA-TV | 325,241 | 275,599 | 1,818
66402 | KIMT | 671,281 | 662,859 | 4,374
67089 | KINC | 2,320,873 | 2,230,933 | 14,720
34847 | KING-TV | 4,735,386 | 4,686,752 | 30,923
51708 | KINT-TV | 1,093,579 | 1,093,227 | 7,213
26249 | KION-TV | 2,602,418 | 906,539 | 5,981
62427 | KIPT | 190,856 | 189,839 | 1,253
66781 | KIRO-TV | 4,715,994 | 4,685,383 | 30,914
62430 | KISU-TV | 358,145 | 353,319 | 2,331
12896 | KITU-TV | 749,934 | 749,934 | 4,948
64548 | KITV | 1,016,508 | 890,101 | 5,873
59255 | KIVI-TV | 864,257 | 856,996 | 5,654
47285 | KIXE-TV | 484,629 | 444,405 | 2,932
13792 | KJJC-TV | 85,813 | 84,995 | 561
14000 | KJLA | 18,725,198 | 17,464,578 | 115,231
20015 | KJNP-TV | 96,266 | 96,001 | 633
53315 | KJRE | 15,414 | 15,394 | 102
59439 | KJRH-TV | 1,475,194 | 1,458,401 | 9,623
55364 | KJRR | 45,707 | 44,148 | 291
7675 | KJTL | 365,659 | 365,242 | 2,410
55031 | KJTV-TV | 426,315 | 426,302 | 2,813
13814 | KJUD | 32,087 | 31,083 | 205
36607 | KJZZ-TV | 2,837,622 | 2,620,561 | 17,290
83180 | KKAI | 1,016,756 | 995,859 | 6,571
58267 | KKAP | 1,002,980 | 967,770 | 6,385
24766 | KKCO | 218,313 | 183,190 | 1,209
776228 | KKEL | 396,796 | 390,474 | 2,576
35097 | KKJB | 780,452 | 775,264 | 5,115
22644 | KKPX-TV | 8,265,775 | 7,324,470 | 48,327
35037 | KKTV | 3,340,505 | 2,899,502 | 19,131
35042 | KLAS-TV | 2,421,827 | 2,256,225 | 14,887
52907 | KLAX-TV | 350,490 | 350,144 | 2,310
3660 | KLBK-TV | 409,551 | 409,512 | 2,702
65523 | KLBY | 29,875 | 29,852 | 197
38430 | KLCS | 17,868,933 | 16,310,676 | 107,618
77719 | KLCW-TV | 404,384 | 404,369 | 2,668
51479 | KLDO-TV | 267,717 | 267,717 | 1,766
37105 | KLEI | 149,648 | 122,977 | 811
56032 | KLEW-TV | 173,816 | 158,086 | 1,043
35059 | KLFY-TV | 1,380,417 | 1,379,775 | 9,104
54011 | KLJB | 1,003,676 | 992,763 | 6,550
11264 | KLKN | 1,295,353 | 1,249,913 | 8,247
52593 | KLML | 285,490 | 232,725 | 1,536
47975 | KLNE-TV | 124,206 | 124,134 | 819
38590 | KLPA-TV | 395,240 | 395,079 | 2,607
38588 | KLPB-TV | 749,224 | 749,224 | 4,943
749 | KLRN | 2,865,059 | 2,843,302 | 18,760
11951 | KLRT-TV | 1,206,848 | 1,187,015 | 7,832
8564 | KLRU | 3,404,331 | 3,364,831 | 22,201
8322 | KLSR-TV | 617,791 | 555,511 | 3,665
31114 | KLST | 205,611 | 176,862 | 1,167
24436 | KLTJ | 7,239,268 | 7,239,082 | 47,763
38587 | KLTL-TV | 438,847 | 438,847 | 2,896
38589 | KLTM-TV | 670,083 | 665,283 | 4,390
38591 | KLTS-TV | 930,704 | 927,650 | 6,121
68540 | KLTV | 1,125,646 | 1,108,403 | 7,313
12913 | KLUJ-TV | 1,304,523 | 1,304,523 | 8,607
57220 | KLUZ-TV | 1,122,002 | 1,061,683 | 7,005
11683 | KLVX | 2,368,176 | 2,246,495 | 14,822
82476 | KLWB | 1,066,369 | 1,066,248 | 7,035
40250 | KLWY | 652,057 | 648,301 | 4,277
64551 | KMAU | 230,508 | 205,410 | 1,355
51499 | KMAX-TV | 11,771,919 | 7,828,092 | 51,650
65686 | KMBC-TV | 2,690,459 | 2,688,812 | 17,741
35183 | KMCB | 71,693 | 69,118 | 456
41237 | KMCC | 2,384,330 | 2,325,062 | 15,341
42636 | KMCI-TV | 2,611,447 | 2,610,077 | 17,221
38584 | KMCT-TV | 270,862 | 270,855 | 1,787
22127 | KMCY | 80,761 | 80,722 | 533
162016 | KMDE | 34,041 | 34,035 | 225
26428 | KMEB | 239,702 | 216,916 | 1,431
39665 | KMEG | 763,806 | 758,839 | 5,007
35123 | KMEX-DT | 18,389,371 | 16,955,856 | 111,875
40875 | KMGH-TV | 4,484,612 | 4,211,082 | 27,785
35131 | KMID | 453,896 | 453,890 | 2,995
16749 | KMIR-TV | 3,014,399 | 805,795 | 5,317
63164 | KMIZ | 552,020 | 549,962 | 3,629
53541 | KMLM-DT | 358,819 | 358,819 | 2,367
52046 | KMLU | 685,717 | 681,660 | 4,498
47981 | KMNE-TV | 44,963 | 41,160 | 272
24753 | KMOH-TV | 217,161 | 202,513 | 1,336
4326 | KMOS-TV | 823,502 | 819,698 | 5,408
41425 | KMOT | 90,764 | 88,505 | 584
70034 | KMOV | 3,058,356 | 3,053,447 | 20,147
51488 | KMPH-TV | 1,871,826 | 1,831,011 | 12,081
73701 | KMPX | 7,985,243 | 7,981,841 | 52,664
44052 | KMSB | 1,390,772 | 1,081,454 | 7,135
68883 | KMSP-TV | 4,232,627 | 4,200,278 | 27,713
12525 | KMSS-TV | 1,047,384 | 1,044,317 | 6,890
43095 | KMTP-TV | 6,891,529 | 5,992,187 | 39,536
35189 | KMTR | 858,621 | 737,863 | 4,868
35190 | KMTV-TV | 1,482,627 | 1,481,213 | 9,773
77063 | KMTW | 782,241 | 782,233 | 5,161
35200 | KMVT | 203,865 | 194,642 | 1,284
32958 | KMVU-DT | 333,344 | 255,430 | 1,685
86534 | KMYA-DT | 181,750 | 181,710 | 1,199
51518 | KMYS | 2,695,906 | 2,689,444 | 17,745
54420 | KMYT-TV | 1,378,264 | 1,366,926 | 9,019
35822 | KMYU | 174,066 | 170,667 | 1,126
993 | KNAT-TV | 1,194,249 | 1,164,035 | 7,680
24749 | KNAZ-TV | 370,644 | 251,297 | 1,658
47906 | KNBC | 18,007,954 | 16,466,286 | 108,645
81464 | KNBN | 158,327 | 149,470 | 986
9754 | KNCT | 2,162,813 | 2,134,345 | 14,082
82611 | KNDB | 140,899 | 140,846 | 929
82615 | KNDM | 81,669 | 81,636 | 539
12395 | KNDO | 326,624 | 291,816 | 1,925
12427 | KNDU | 531,985 | 514,613 | 3,395
17683 | KNEP | 96,311 | 91,722 | 605
776145 | KNGF | 418,755 | 418,649 | 2,762
48003 | KNHL | 282,894 | 282,649 | 1,865
125710 | KNIC-DT | 2,916,877 | 2,900,176 | 19,135
59363 | KNIN-TV | 861,563 | 857,065 | 5,655
48525 | KNLC | 3,009,669 | 3,007,124 | 19,841
84215 | KNMD-TV | 1,175,472 | 1,147,431 | 7,571
55528 | KNME-TV | 1,185,928 | 1,145,659 | 7,559
47707 | KNMT | 3,242,939 | 3,141,420 | 20,727
48975 | KNOE-TV | 706,833 | 703,468 | 4,641
49273 | KNOP-TV | 84,998 | 83,626 | 552
10228 | KNPB | 684,366 | 522,715 | 3,449
55362 | KNRR | 24,339 | 24,315 | 160
35277 | KNSD | 4,176,531 | 3,908,916 | 25,791
19191 | KNSN-TV | 689,549 | 521,148 | 3,439
23302 | KNSO | 1,962,568 | 1,942,998 | 12,820
35280 | KNTV | 9,285,323 | 8,743,038 | 57,687
144 | KNVA | 3,326,171 | 3,285,676 | 21,679
33745 | KNVN | 497,887 | 470,307 | 3,103
69692 | KNVO | 1,359,785 | 1,359,785 | 8,972
29557 | KNWA-TV | 929,628 | 912,611 | 6,021
59440 | KNXV-TV | 4,836,838 | 4,826,028 | 31,842
59014 | KOAA-TV | 1,865,217 | 1,422,070 | 9,383
50588 | KOAB-TV | 254,424 | 250,749 | 1,654
50590 | KOAC-TV | 2,168,640 | 1,718,555 | 11,339
58552 | KOAM-TV | 822,738 | 789,385 | 5,208
53928 | KOAT-TV | 1,171,605 | 1,145,416 | 7,557
35313 | KOB | 1,189,849 | 1,152,270 | 7,603
35321 | KOBF | 198,225 | 163,241 | 1,077
8260 | KOBI | 595,619 | 551,251 | 3,637
62272 | KOBR | 227,347 | 226,868 | 1,497
50170 | KOCB | 1,803,171 | 1,802,139 | 11,891
4328 | KOCE-TV | 18,212,242 | 17,141,918 | 113,102
84225 | KOCM | 1,615,493 | 1,614,922 | 10,655
12508 | KOCO-TV | 1,890,246 | 1,881,152 | 12,412
83181 | KOCW | 80,292 | 80,262 | 530
18283 | KODE-TV | 789,082 | 781,251 | 5,155
66195 | KOED-TV | 1,555,369 | 1,523,164 | 10,050
50198 | KOET | 657,252 | 637,057 | 4,203
51189 | KOFY-TV | 5,746,338 | 4,850,897 | 32,006
34859 | KOGG | 206,000 | 173,034 | 1,142
166534 | KOHD | 248,737 | 244,163 | 1,611
35380 | KOIN | 3,398,786 | 3,237,691 | 21,362
35388 | KOKH-TV | 1,800,124 | 1,797,602 | 11,861
11910 | KOKI-TV | 1,428,477 | 1,415,308 | 9,338
48663 | KOLD-TV | 1,278,430 | 932,536 | 6,153
7890 | KOLN | 1,565,175 | 1,465,478 | 9,669
63331 | KOLO-TV | 1,045,027 | 912,343 | 6,020
28496 | KOLR | 1,111,540 | 1,075,340 | 7,095
21656 | KOMO-TV | 4,798,742 | 4,748,599 | 31,331
65583 | KOMU-TV | 560,878 | 559,926 | 3,694
776087 | KONC | 1,752,026 | 1,713,180 | 11,304
35396 | KONG | 4,651,055 | 4,627,490 | 30,532
60675 | KOOD | 107,949 | 107,840 | 712
50589 | KOPB-TV | 3,433,002 | 3,231,453 | 21,321
2566 | KOPX-TV | 1,674,969 | 1,674,820 | 11,050
64877 | KORO | 572,684 | 572,684 | 3,779
6865 | KOSA-TV | 412,004 | 408,993 | 2,699
34347 | KOTA-TV | 189,181 | 166,163 | 1,096
8284 | KOTI | 318,713 | 97,757 | 645
35434 | KOTV-DT | 1,476,322 | 1,464,332 | 9,662
56550 | KOVR | 11,787,731 | 7,857,430 | 51,843
51101 | KOZJ | 431,452 | 429,469 | 2,834
51102 | KOZK | 876,101 | 867,569 | 5,724
3659 | KOZL-TV | 1,026,947 | 999,396 | 6,594
35455 | KPAX-TV | 224,598 | 210,969 | 1,392
67868 | KPAZ-TV | 4,842,326 | 4,829,190 | 31,863
6124 | KPBS | 3,878,727 | 3,740,193 | 24,678
50044 | KPBT-TV | 405,749 | 405,749 | 2,677
77452 | KPCB-DT | 30,087 | 30,010 | 198
35460 | KPDX | 3,335,153 | 3,195,785 | 21,086
12524 | KPEJ-TV | 439,758 | 439,752 | 2,901
41223 | KPHO-TV | 4,847,036 | 4,823,456 | 31,825
61551 | KPIC | 162,187 | 108,923 | 719
86205 | KPIF | 294,133 | 287,132 | 1,894
25452 | KPIX-TV | 8,939,616 | 8,011,243 | 52,858
58912 | KPJK | 8,580,033 | 7,562,337 | 49,896
166510 | KPJR-TV | 3,994,308 | 3,966,833 | 26,173
13994 | KPLC | 1,433,578 | 1,431,830 | 9,447
41964 | KPLO-TV | 55,567 | 52,690 | 348
35417 | KPLR-TV | 3,020,349 | 3,017,559 | 19,910
12144 | KPMR | 1,795,745 | 1,521,941 | 10,042
47973 | KPNE-TV | 89,112 | 84,360 | 557
35486 | KPNX | 4,833,873 | 4,829,331 | 31,864
77512 | KPNZ | 2,843,405 | 2,620,343 | 17,289
73998 | KPOB-TV | 131,017 | 130,539 | 861
26655 | KPPX-TV | 4,839,734 | 4,825,175 | 31,837
53117 | KPRC-TV | 7,306,242 | 7,305,940 | 48,205
48660 | KPRY-TV | 42,882 | 42,790 | 282
61071 | KPSD-TV | 19,034 | 17,986 | 119
53544 | KPTB-DT | 351,156 | 349,137 | 2,304
81445 | KPTF-DT | 83,380 | 83,378 | 550
77451 | KPTH | 709,738 | 706,066 | 4,659
51491 | KPTM | 1,544,022 | 1,542,684 | 10,179
33345 | KPTS | 849,715 | 845,613 | 5,579
50633 | KPTV | 3,367,478 | 3,193,457 | 21,070
82575 | KPTW | 93,904 | 86,230 | 569
1270 | KPVI-DT | 301,761 | 295,401 | 1,949
58835 | KPXB-TV | 7,268,859 | 7,268,534 | 47,958
68695 | KPXC-TV | 3,953,241 | 3,922,814 | 25,883
68834 | KPXD-TV | 7,851,329 | 7,849,492 | 51,791
33337 | KPXE-TV | 2,621,434 | 2,620,523 | 17,290
5801 | KPXG-TV | 3,396,167 | 3,240,309 | 21,380
81507 | KPXJ | 1,114,713 | 1,111,470 | 7,333
61173 | KPXL-TV | 2,675,400 | 2,663,341 | 17,573
35907 | KPXM-TV | 3,872,706 | 3,871,246 | 25,542
58978 | KPXN-TV | 18,009,859 | 16,478,550 | 108,725
77483 | KPXO-TV | 1,016,659 | 977,430 | 6,449
21156 | KPXR-TV | 870,810 | 864,123 | 5,701
69619 | KPYX | 8,951,798 | 8,033,747 | 53,007
10242 | KQCA | 11,066,274 | 6,905,589 | 45,563
41430 | KQCD-TV | 46,118 | 43,974 | 290
18287 | KQCK | 3,914,615 | 3,869,797 | 25,533
78322 | KQCW-DT | 1,198,492 | 1,192,260 | 7,867
35525 | KQDS-TV | 309,526 | 305,800 | 2,018
35500 | KQED | 8,924,403 | 7,934,659 | 52,353
35663 | KQEH | 8,924,403 | 7,934,659 | 52,353
8214 | KQET | 3,221,916 | 2,234,120 | 14,741
5471 | KQIN | 585,179 | 585,151 | 3,861
17686 | KQME | 203,177 | 198,383 | 1,309
61063 | KQSD-TV | 32,060 | 31,225 | 206
8378 | KQSL | 209,114 | 145,828 | 962
20427 | KQTV | 1,587,910 | 1,493,576 | 9,855
78921 | KQUP | 801,534 | 624,922 | 4,123
306 | KRBC-TV | 237,068 | 236,992 | 1,564
166319 | KRBK | 1,018,307 | 1,001,775 | 6,610
22161 | KRCA | 18,303,336 | 17,670,502 | 116,590
57945 | KRCB | 9,553,735 | 9,246,484 | 61,008
41110 | KRCG | 758,918 | 744,644 | 4,913
8291 | KRCR-TV | 439,734 | 419,678 | 2,769
10192 | KRCW-TV | 3,330,638 | 3,194,693 | 21,079
49134 | KRDK-TV | 396,418 | 396,379 | 2,615
52579 | KRDO-TV | 3,041,472 | 2,649,733 | 17,483
70578 | KREG-TV | 159,270 | 97,419 | 643
34868 | KREM | 934,011 | 862,068 | 5,688
51493 | KREN-TV | 890,359 | 755,865 | 4,987
70596 | KREX-TV | 154,968 | 154,745 | 1,021
70579 | KREY-TV | 77,765 | 69,062 | 456
48589 | KREZ-TV | 148,142 | 101,846 | 672
43328 | KRGV-TV | 1,359,834 | 1,359,671 | 8,971
82698 | KRII | 130,753 | 129,582 | 855
29114 | KRIN | 989,283 | 975,977 | 6,439
25559 | KRIS-TV | 576,145 | 576,104 | 3,801
22204 | KRIV | 7,295,333 | 7,294,571 | 48,130
14040 | KRMA-TV | 4,385,284 | 4,186,932 | 27,625
14042 | KRMJ | 184,799 | 169,573 | 1,119
20476 | KRMT | 3,457,214 | 3,353,993 | 22,130
84224 | KRMU | 86,743 | 70,549 | 465
20373 | KRMZ | 37,319 | 34,727 | 229
47971 | KRNE-TV | 45,930 | 38,258 | 252
60307 | KRNV-DT | 1,043,407 | 879,554 | 5,803
65526 | KRON-TV | 9,335,037 | 8,729,878 | 57,600
53539 | KRPV-DT | 65,504 | 65,504 | 432
48575 | KRQE | 1,174,664 | 1,143,133 | 7,542
57431 | KRSU-TV | 1,078,345 | 1,076,370 | 7,102
82613 | KRTN-TV | 86,907 | 67,161 | 443
35567 | KRTV | 95,862 | 94,385 | 623
84157 | KRWB-TV | 118,050 | 117,368 | 774
35585 | KRWF | 82,308 | 82,308 | 543
55516 | KRWG-TV | 929,122 | 719,343 | 4,746
48360 | KRXI-TV | 802,294 | 612,918 | 4,044
307 | KSAN-TV | 142,667 | 142,664 | 941
11911 | KSAS-TV | 773,161 | 773,144 | 5,101
53118 | KSAT-TV | 3,075,254 | 3,027,321 | 19,974
35584 | KSAX | 380,811 | 380,811 | 2,513
35587 | KSAZ-TV | 4,854,767 | 4,831,287 | 31,877
38214 | KSBI | 1,751,439 | 1,749,811 | 11,545
19653 | KSBW | 5,564,606 | 4,838,506 | 31,924
19654 | KSBY | 564,561 | 526,110 | 3,471
82910 | KSCC | 534,707 | 534,707 | 3,528
10202 | KSCE | 1,093,223 | 1,089,485 | 7,188
35608 | KSCI | 18,212,242 | 17,141,918 | 113,102
72348 | KSCW-DT | 927,681 | 922,979 | 6,090
46981 | KSDK | 3,013,779 | 3,007,368 | 19,843
35594 | KSEE | 1,888,344 | 1,874,494 | 12,368
29121 | KSFL-TV | 330,215 | 330,182 | 2,179
48658 | KSFY-TV | 731,978 | 677,603 | 4,471
17680 | KSGW-TV | 63,725 | 62,410 | 412
59444 | KSHB-TV | 2,616,078 | 2,614,543 | 17,251
73706 | KSHV-TV | 927,614 | 927,074 | 6,117
29096 | KSIN-TV | 349,020 | 347,636 | 2,294
34846 | KSIX-TV | 79,019 | 79,019 | 521
35606 | KSKN | 841,494 | 741,761 | 4,894
70482 | KSLA | 998,682 | 998,217 | 6,586
6359 | KSL-TV | 2,839,353 | 2,616,980 | 17,267
71558 | KSMN | 357,081 | 357,075 | 2,356
33336 | KSMO-TV | 2,585,699 | 2,584,094 | 17,050
28510 | KSMQ-TV | 540,217 | 524,751 | 3,462
35611 | KSMS-TV | 1,684,095 | 922,727 | 6,088
21161 | KSNB-TV | 748,097 | 747,971 | 4,935
72359 | KSNC | 166,315 | 165,997 | 1,095
67766 | KSNF | 640,722 | 637,167 | 4,204
72361 | KSNG | 143,267 | 143,050 | 944
72362 | KSNK | 46,872 | 43,725 | 288
67335 | KSNT | 657,321 | 629,824 | 4,156
10179 | KSNV | 2,283,885 | 2,225,135 | 14,681
72358 | KSNW | 810,301 | 809,927 | 5,344
61956 | KSPS-TV | 935,711 | 883,159 | 5,827
52953 | KSPX-TV | 7,814,495 | 5,846,886 | 38,578
166546 | KSQA | 391,323 | 383,112 | 2,528
53313 | KSRE | 83,984 | 83,984 | 554
35843 | KSTC-TV | 4,228,163 | 4,218,565 | 27,834
63182 | KSTF | 49,439 | 49,305 | 325
28010 | KSTP-TV | 4,230,921 | 4,222,032 | 27,857
60534 | KSTR-DT | 7,934,904 | 7,932,227 | 52,337
64987 | KSTS | 9,125,502 | 7,902,723 | 52,142
22215 | KSTU | 2,834,133 | 2,604,938 | 17,187
23428 | KSTW | 4,945,092 | 4,849,973 | 32,000
5243 | KSVI | 192,678 | 191,712 | 1,265
58827 | KSWB-TV | 3,976,536 | 3,773,857 | 24,900
60683 | KSWK | 78,448 | 78,334 | 517
35645 | KSWO-TV | 461,432 | 437,725 | 2,888
61350 | KSYS | 551,328 | 475,899 | 3,140
59988 | KTAB-TV | 281,813 | 281,579 | 1,858
999 | KTAJ-TV | 2,529,426 | 2,528,757 | 16,685
35648 | KTAL-TV | 1,072,280 | 1,070,439 | 7,063
12930 | KTAS | 501,069 | 491,644 | 3,244
81458 | KTAZ | 4,835,851 | 4,811,877 | 31,749
35649 | KTBC | 4,138,493 | 3,857,454 | 25,451
67884 | KTBN-TV | 18,729,484 | 17,423,297 | 114,959
67999 | KTBO-TV | 1,758,274 | 1,756,813 | 11,591
35652 | KTBS-TV | 1,138,628 | 1,135,638 | 7,493
28324 | KTBU | 7,242,592 | 7,242,368 | 47,785
67950 | KTBW-TV | 4,873,117 | 4,763,879 | 31,432
35655 | KTBY | 360,565 | 358,722 | 2,367
68594 | KTCA-TV | 4,022,616 | 4,008,908 | 26,451
68597 | KTCI-TV | 3,912,137 | 3,908,528 | 25,788
35187 | KTCW | 106,581 | 93,009 | 614
36916 | KTDO | 1,093,374 | 1,089,602 | 7,189
2769 | KTEJ | 417,496 | 415,013 | 2,738
83707 | KTEL-TV | 61,338 | 61,328 | 405
35666 | KTEN | 629,981 | 627,687 | 4,141
24514 | KTFD-TV | 3,767,471 | 3,727,523 | 24,594
35512 | KTFF-DT | 2,403,821 | 2,383,063 | 15,723
20871 | KTFK-DT | 7,705,367 | 5,721,312 | 37,749
68753 | KTFN | 1,095,022 | 1,091,962 | 7,205
35084 | KTFQ-TV | 1,188,205 | 1,154,792 | 7,619
29232 | KTGM | 153,836 | 153,653 | 1,014
2787 | KTHV | 1,302,388 | 1,276,430 | 8,422
29100 | KTIN | 275,295 | 273,715 | 1,806
66170 | KTIV | 806,217 | 800,304 | 5,280
49397 | KTKA-TV | 805,221 | 786,518 | 5,189
35670 | KTLA | 18,962,616 | 17,555,224 | 115,829
62354 | KTLM | 1,148,738 | 1,148,738 | 7,579
49153 | KTLN-TV | 5,867,943 | 5,221,797 | 34,453
64984 | KTMD | 7,304,022 | 7,303,795 | 48,190
14675 | KTMF | 203,121 | 182,458 | 1,204
10177 | KTMW | 2,690,440 | 2,543,730 | 16,784
21533 | KTNC-TV | 9,007,762 | 8,012,556 | 52,867
47996 | KTNE-TV | 95,310 | 90,746 | 599
60519 | KTNL-TV | 8,275 | 8,274 | 55
74100 | KTNV-TV | 2,422,112 | 2,249,532 | 14,842
71023 | KTNW | 512,412 | 493,366 | 3,255
8651 | KTOO-TV | 32,198 | 32,017 | 211
7078 | KTPX-TV | 1,138,473 | 1,136,085 | 7,496
68541 | KTRE | 438,137 | 420,563 | 2,775
35675 | KTRK-TV | 7,318,272 | 7,316,846 | 48,277
28230 | KTRV-TV | 869,223 | 861,267 | 5,683
69170 | KTSC | 3,598,645 | 3,397,164 | 22,414
61066 | KTSD-TV | 84,807 | 83,980 | 554
37511 | KTSF | 8,697,794 | 7,750,134 | 51,135
67760 | KTSM-TV | 1,093,389 | 1,090,716 | 7,197
35678 | KTTC | 836,828 | 748,435 | 4,938
28501 | KTTM | 77,930 | 75,368 | 497
11908 | KTTU | 1,393,795 | 1,109,962 | 7,324
22208 | KTTV | 18,130,338 | 17,373,502 | 114,630
28521 | KTTW | 381,013 | 377,833 | 2,493
65355 | KTTZ-TV | 402,714 | 402,692 | 2,657
35685 | KTUL | 1,573,310 | 1,543,051 | 10,181
10173 | KTUU-TV | 397,237 | 395,237 | 2,608
77480 | KTUZ-TV | 1,841,616 | 1,840,457 | 12,143
49632 | KTVA | 353,795 | 353,563 | 2,333
34858 | KTVB | 869,177 | 862,056 | 5,688
31437 | KTVC | 140,329 | 104,355 | 689
68581 | KTVD | 4,468,718 | 4,179,057 | 27,573
35692 | KTVE | 607,145 | 606,961 | 4,005
49621 | KTVF | 96,106 | 95,973 | 633
5290 | KTVH-DT | 244,448 | 199,923 | 1,319
35693 | KTVI | 3,025,572 | 3,022,219 | 19,941
40993 | KTVK | 4,837,443 | 4,825,882 | 31,841
22570 | KTVL | 446,924 | 395,259 | 2,608
18066 | KTVM-TV | 303,243 | 250,287 | 1,651
59139 | KTVN | 1,043,407 | 885,756 | 5,844
21251 | KTVO | 220,732 | 220,235 | 1,453
35694 | KTVQ | 197,125 | 190,529 | 1,257
50592 | KTVR | 153,040 | 56,934 | 376
23422 | KTVT | 8,233,312 | 8,230,812 | 54,307
35703 | KTVU | 9,036,813 | 8,056,602 | 53,157
35705 | KTVW-DT | 4,827,096 | 4,809,796 | 31,735
68889 | KTVX | 2,838,210 | 2,602,217 | 17,169
55907 | KTVZ | 249,013 | 246,030 | 1,623
18286 | KTWO-TV | 84,574 | 84,044 | 555
70938 | KTWU | 1,834,018 | 1,697,183 | 11,198
51517 | KTXA | 8,210,642 | 8,208,172 | 54,158
42359 | KTXD-TV | 8,012,541 | 8,010,333 | 52,852
51569 | KTXH | 7,301,821 | 7,301,673 | 48,176
10205 | KTXL | 9,145,873 | 6,451,158 | 42,565
308 | KTXS-TV | 255,216 | 254,480 | 1,679
69315 | KUAC-TV | 96,544 | 96,043 | 634
51233 | KUAM-TV | 153,836 | 153,836 | 1,015
2722 | KUAS-TV | 1,060,599 | 1,041,636 | 6,873
2731 | KUAT-TV | 1,596,429 | 1,361,399 | 8,983
60520 | KUBD | 15,387 | 13,666 | 90
70492 | KUBE-TV | 7,297,882 | 7,297,596 | 48,150
1136 | KUCW | 2,837,693 | 2,601,359 | 17,164
69396 | KUED | 2,837,687 | 2,603,895 | 17,180
69582 | KUEN | 2,806,982 | 2,580,258 | 17,025
82576 | KUES | 32,094 | 26,754 | 177
82585 | KUEW | 174,491 | 162,588 | 1,073
66611 | KUFM-TV | 203,395 | 180,333 | 1,190
169028 | KUGF-TV | 89,762 | 89,455 | 590
68717 | KUHM-TV | 166,592 | 156,454 | 1,032
69269 | KUHT | 7,288,782 | 7,288,082 | 48,087
62382 | KUID-TV | 482,761 | 308,950 | 2,038
169027 | KUKL-TV | 140,626 | 131,415 | 867
35724 | KULR-TV | 194,552 | 186,663 | 1,232
41429 | KUMV-TV | 70,878 | 70,314 | 464
81447 | KUNP | 133,781 | 45,006 | 297
4624 | KUNS-TV | 4,682,176 | 4,668,774 | 30,805
86532 | KUOK | 28,807 | 28,738 | 190
66589 | KUON-TV | 1,516,440 | 1,502,853 | 9,916
86263 | KUPB | 386,448 | 386,448 | 2,550
65535 | KUPK | 147,290 | 146,174 | 964
27431 | KUPT | 101,334 | 101,329 | 669
89714 | KUPU | 1,019,651 | 1,010,979 | 6,670
57884 | KUPX-TV | 2,824,302 | 2,598,543 | 17,145
23074 | KUSA | 4,470,580 | 4,195,376 | 27,681
61072 | KUSD-TV | 519,419 | 519,181 | 3,426
10238 | KUSI-TV | 3,853,072 | 3,707,454 | 24,462
43567 | KUSM-TV | 155,558 | 140,071 | 924
69694 | KUTF | 1,357,824 | 1,164,486 | 7,683
81451 | KUTH-DT | 2,636,456 | 2,416,549 | 15,944
68886 | KUTP | 4,842,720 | 4,823,413 | 31,825
35823 | KUTV | 2,837,398 | 2,601,168 | 17,163
63927 | KUVE-DT | 1,370,137 | 1,024,072 | 6,757
7700 | KUVI-DT | 1,287,700 | 1,076,164 | 7,101
35841 | KUVN-DT | 7,987,884 | 7,986,084 | 52,692
58609 | KUVS-DT | 4,496,875 | 4,458,448 | 29,417
49766 | KVAL-TV | 1,114,792 | 948,593 | 6,259
32621 | KVAW | 77,028 | 77,028 | 508
58795 | KVCR-DT | 19,073,599 | 18,308,953 | 120,802
35846 | KVCT | 291,432 | 290,038 | 1,914
10195 | KVCW | 2,283,670 | 2,224,688 | 14,678
64969 | KVDA | 3,114,838 | 3,092,933 | 20,407
19783 | KVEA | 18,300,497 | 17,059,098 | 112,556
12523 | KVEO-TV | 1,357,022 | 1,356,984 | 8,953
2495 | KVEW | 537,519 | 524,246 | 3,459
35852 | KVHP | 773,592 | 773,545 | 5,104
49832 | KVIA-TV | 1,093,389 | 1,090,716 | 7,197
35855 | KVIE | 11,759,390 | 8,232,137 | 54,316
40450 | KVIH-TV | 139,435 | 119,247 | 787
40446 | KVII-TV | 392,629 | 391,979 | 2,586
61961 | KVLY-TV | 409,018 | 408,931 | 2,698
16729 | KVMD | 15,940,782 | 15,143,297 | 99,915
83825 | KVME-TV | 26,212 | 22,277 | 147
25735 | KVOA | 1,386,793 | 1,069,725 | 7,058
35862 | KVOS-TV | 2,566,816 | 2,493,670 | 16,453
69733 | KVPT | 1,856,508 | 1,833,293 | 12,096
55372 | KVRR | 403,075 | 403,075 | 2,659
166331 | KVSN-DT | 3,136,196 | 2,698,298 | 17,803
608 | KVTH-DT | 319,985 | 318,374 | 2,101
2784 | KVTJ-DT | 1,459,963 | 1,459,552 | 9,630
607 | KVTN-DT | 970,045 | 963,130 | 6,355
35867 | KVUE | 3,458,312 | 3,395,187 | 22,401
78910 | KVUI | 286,007 | 279,513 | 1,844
35870 | KVVU-TV | 2,369,125 | 2,246,682 | 14,824
36170 | KVYE | 404,453 | 401,890 | 2,652
35095 | KWBA-TV | 1,194,062 | 1,136,172 | 7,496
78314 | KWBM | 694,164 | 676,716 | 4,465
27425 | KWBN | 1,016,508 | 893,029 | 5,892
76268 | KWBQ | 1,186,772 | 1,147,638 | 7,572
66413 | KWCH-DT | 897,522 | 896,232 | 5,913
71549 | KWCM-TV | 253,609 | 245,441 | 1,619
35419 | KWDK | 4,867,196 | 4,778,196 | 31,527
42007 | KWES-TV | 506,963 | 506,675 | 3,343
50194 | KWET | 125,090 | 109,790 | 724
35881 | KWEX-DT | 2,871,330 | 2,864,298 | 18,899
35883 | KWGN-TV | 4,368,605 | 4,155,087 | 27,415
37099 | KWHB | 1,056,520 | 1,056,118 | 6,968
36846 | KWHE | 1,015,533 | 885,013 | 5,839
26231 | KWHY-TV | 18,512,098 | 18,476,669 | 121,909
35096 | KWKB | 1,167,302 | 1,156,465 | 7,630
162115 | KWKS | 38,196 | 37,876 | 250
12522 | KWKT-TV | 1,631,788 | 1,626,721 | 10,733
21162 | KWNB-TV | 87,130 | 85,538 | 564
67347 | KWOG | 615,169 | 608,476 | 4,015
56852 | KWPX-TV | 4,894,047 | 4,809,358 | 31,732
6885 | KWQC-TV | 1,082,087 | 1,072,789 | 7,078
53318 | KWSE | 85,141 | 83,532 | 551
71024 | KWSU-TV | 824,342 | 528,984 | 3,490
25382 | KWTV-DT | 1,801,405 | 1,800,115 | 11,877
35903 | KWTX-TV | 2,532,542 | 2,418,595 | 15,958
593 | KWWL | 1,127,596 | 1,116,266 | 7,365
84410 | KWWT | 358,813 | 358,813 | 2,367
14674 | KWYB | 91,657 | 72,951 | 481
10032 | KWYP-DT | 163,309 | 143,265 | 945
35920 | KXAN-TV | 3,476,567 | 3,408,238 | 22,488
49330 | KXAS-TV | 8,080,362 | 8,077,819 | 53,297
24287 | KXGN-TV | 14,265 | 13,906 | 92
35954 | KXII | 2,904,223 | 2,845,456 | 18,774
55083 | KXLA | 18,725,198 | 17,464,578 | 115,231
35959 | KXLF-TV | 301,370 | 256,892 | 1,695
53847 | KXLN-DT | 7,293,696 | 7,293,476 | 48,122
35906 | KXLT-TV | 369,632 | 369,086 | 2,435
61978 | KXLY-TV | 884,722 | 852,475 | 5,625
55684 | KXMA-TV | 42,033 | 41,964 | 277
55686 | KXMB-TV | 164,736 | 160,794 | 1,061
55685 | KXMC-TV | 108,096 | 100,774 | 665
55683 | KXMD-TV | 66,215 | 66,107 | 436
47995 | KXNE-TV | 314,798 | 313,705 | 2,070
81593 | KXNW | 707,066 | 702,866 | 4,638
35991 | KXRM-TV | 2,129,262 | 1,769,815 | 11,677
1255 | KXTF | 157,622 | 157,168 | 1,037
25048 | KXTV | 11,761,085 | 8,212,854 | 54,188
35994 | KXTX-TV | 8,029,815 | 8,026,902 | 52,961
62293 | KXVA | 195,284 | 195,242 | 1,288
23277 | KXVO | 1,535,792 | 1,534,836 | 10,127
9781 | KXXV | 2,192,443 | 2,159,450 | 14,248
31870 | KYAZ | 7,248,533 | 7,248,341 | 47,825
29086 | KYIN | 596,722 | 594,616 | 3,923
60384 | KYLE-TV | 367,648 | 367,562 | 2,425
33639 | KYMA-DT | 403,372 | 400,541 | 2,643
47974 | KYNE-TV | 1,089,692 | 1,089,546 | 7,189
53820 | KYOU-TV | 679,167 | 668,722 | 4,412
36003 | KYTV | 1,129,940 | 1,117,420 | 7,373
55644 | KYTX | 956,234 | 955,262 | 6,303
13815 | KYUR | 397,084 | 395,055 | 2,607
5237 | KYUS-TV | 12,525 | 12,495 | 82
33752 | KYVE | 317,640 | 273,973 | 1,808
55762 | KYVV-TV | 66,372 | 65,857 | 435
25453 | KYW-TV | 11,769,848 | 11,559,783 | 76,271
69531 | KZJL | 7,244,427 | 7,244,235 | 47,797
69571 | KZJO | 4,814,396 | 4,758,120 | 31,394
61062 | KZSD-TV | 40,148 | 34,607 | 228
33079 | KZTV | 578,385 | 575,560 | 3,798
57292 | WAAY-TV | 1,644,869 | 1,570,146 | 10,360
1328 | WABC-TV | 22,259,872 | 21,880,695 | 144,369
4190 | WABE-TV | 6,138,218 | 6,116,631 | 40,358
43203 | WABG-TV | 352,521 | 352,047 | 2,323
17005 | WABI-TV | 532,053 | 512,796 | 3,383
16820 | WABM | 1,857,082 | 1,825,082 | 12,042
23917 | WABW-TV | 1,106,011 | 1,104,788 | 7,289
19199 | WACH | 1,448,991 | 1,442,358 | 9,517
189358 | WACP | 9,884,531 | 9,777,819 | 64,514
23930 | WACS-TV | 785,954 | 782,957 | 5,166
60018 | WACX | 5,173,569 | 5,164,028 | 34,072
361 | WACY-TV | 992,148 | 991,650 | 6,543
455 | WADL | 4,727,529 | 4,719,528 | 31,139
589 | WAFB | 1,928,550 | 1,927,924 | 12,720
591 | WAFF | 1,642,889 | 1,574,162 | 10,386
70689 | WAGA-TV | 6,879,310 | 6,793,067 | 44,821
48305 | WAGM-TV | 60,320 | 59,087 | 390
37809 | WAGV | 1,555,609 | 1,240,816 | 8,187
706 | WAIQ | 624,285 | 622,198 | 4,105
701 | WAKA | 796,039 | 790,015 | 5,213
4143 | WALA-TV | 1,431,666 | 1,428,457 | 9,425
70713 | WALB | 794,686 | 793,085 | 5,233
60536 | WAMI-DT | 6,013,991 | 6,013,991 | 39,680
70852 | WAND | 1,345,860 | 1,344,596 | 8,872
39270 | WANE-TV | 1,182,627 | 1,182,599 | 7,803
72120 | WANF | 6,907,445 | 6,833,668 | 45,089
64546 | WAOW | 642,013 | 633,108 | 4,177
52073 | WAPA-TV 2 7 | 3,310,492 | 2,963,089 | 19,550
49712 | WAPT | 784,962 | 783,938 | 5,172
67792 | WAQP | 2,125,841 | 2,121,638 | 13,999
13206 | WATC-DT | 6,582,231 | 6,553,248 | 43,238
71082 | WATE-TV | 1,971,491 | 1,724,804 | 11,380
22819 | WATL | 6,759,193 | 6,686,998 | 44,121
20287 | WATM-TV | 868,640 | 735,080 | 4,850
11907 | WATN-TV | 1,792,866 | 1,789,289 | 11,806
13989 | WAVE | 1,998,359 | 1,989,161 | 13,124
71127 | WAVY-TV | 2,171,033 | 2,171,033 | 14,324
54938 | WAWD | 661,368 | 661,287 | 4,363
65247 | WAWV-TV | 684,558 | 679,421 | 4,483
12793 | WAXN-TV | 3,101,362 | 3,092,322 | 20,403
65696 | WBAL-TV | 10,637,240 | 10,226,692 | 67,476
74417 | WBAY-TV | 1,275,960 | 1,275,160 | 8,414
71085 | WBBH-TV | 2,368,347 | 2,368,347 | 15,626
65204 | WBBJ-TV | 654,842 | 651,262 | 4,297
9617 | WBBM-TV | 10,069,057 | 10,062,626 | 66,393
9088 | WBBZ-TV | 1,293,109 | 1,281,368 | 8,454
70138 | WBDT | 3,996,184 | 3,976,552 | 26,237
51349 | WBEC-TV | 5,979,674 | 5,979,674 | 39,454
10758 | WBFF | 9,293,641 | 9,148,848 | 60,364
12497 | WBFS-TV | 5,895,133 | 5,895,133 | 38,896
6568 | WBGU-TV | 1,325,871 | 1,325,871 | 8,748
81594 | WBIF | 315,981 | 315,981 | 2,085
84802 | WBIH | 734,949 | 717,111 | 4,731
717 | WBIQ | 1,649,738 | 1,621,834 | 10,701
46984 | WBIR-TV | 2,083,590 | 1,795,576 | 11,847
67048 | WBKB-TV | 131,202 | 123,916 | 818
34167 | WBKI | 2,220,753 | 2,204,001 | 14,542
4692 | WBKO | 1,079,438 | 953,403 | 6,291
76001 | WBKP | 54,703 | 54,532 | 360
68427 | WBMM | 595,569 | 595,314 | 3,928
73692 | WBNA | 1,803,465 | 1,770,024 | 11,679
23337 | WBNG-TV | 1,400,072 | 1,023,266 | 6,752
71217 | WBNS-TV | 3,083,491 | 3,021,775 | 19,938
72958 | WBNX-TV | 3,642,087 | 3,632,499 | 23,967
71218 | WBOC-TV | 880,031 | 880,031 | 5,806
71220 | WBOY-TV | 689,705 | 605,977 | 3,998
60850 | WBPH-TV | 11,348,739 | 10,115,153 | 66,740
7692 | WBPX-TV | 7,354,860 | 7,283,151 | 48,054
5981 | WBRA-TV | 1,705,750 | 1,657,188 | 10,934
71221 | WBRC | 1,976,420 | 1,942,307 | 12,815
71225 | WBRE-TV | 2,912,468 | 2,263,626 | 14,935
38616 | WBRZ-TV | 2,299,439 | 2,298,465 | 15,165
82627 | WBSF | 1,816,355 | 1,811,602 | 11,953
30826 | WBTV | 4,973,067 | 4,828,412 | 31,858
66407 | WBTW | 2,060,897 | 2,044,444 | 13,489
16363 | WBUI | 964,071 | 964,061 | 6,361
59281 | WBUP | 124,208 | 111,143 | 733
60830 | WBUY-TV | 1,568,306 | 1,566,684 | 10,337
72971 | WBXX-TV | 2,270,940 | 2,098,066 | 13,843
25456 | WBZ-TV | 8,524,410 | 8,283,402 | 54,654
63153 | WCAU | 11,821,594 | 11,646,436 | 76,843
363 | WCAV | 1,122,505 | 960,525 | 6,338
46728 | WCAX-TV | 793,321 | 675,201 | 4,455
39659 | WCBB | 985,125 | 952,373 | 6,284
10587 | WCBD-TV | 1,336,923 | 1,336,923 | 8,821
12477 | WCBI-TV | 675,135 | 673,011 | 4,441
9610 | WCBS-TV | 23,434,126 | 22,837,346 | 150,681
49157 | WCCB | 4,088,954 | 4,017,224 | 26,506
9629 | WCCO-TV | 4,237,121 | 4,228,346 | 27,899
14050 | WCCT-TV | 5,898,482 | 5,384,454 | 35,527
69544 | WCCU | 673,293 | 673,293 | 4,442
3001 | WCCV-TV | 3,000,204 | 2,188,016 | 14,437
23937 | WCES-TV | 1,138,637 | 1,137,146 | 7,503
65666 | WCET | 3,245,827 | 3,234,134 | 21,339
46755 | WCFE-TV | 468,278 | 427,164 | 2,818
71280 | WCHS-TV | 1,276,867 | 1,199,053 | 7,911
42124 | WCIA | 809,784 | 809,348 | 5,340
711 | WCIQ | 3,433,774 | 3,244,161 | 21,405
71428 | WCIU-TV | 10,205,649 | 10,199,522 | 67,296
9015 | WCIV | 1,341,404 | 1,341,404 | 8,851
42116 | WCIX | 531,709 | 527,935 | 3,483
16993 | WCJB-TV | 1,080,055 | 1,080,055 | 7,126
11125 | WCLF | 4,707,313 | 4,706,427 | 31,053
68007 | WCLJ-TV | 2,538,971 | 2,537,989 | 16,746
50781 | WCMH-TV | 2,988,929 | 2,947,009 | 19,444
9917 | WCML | 229,956 | 221,000 | 1,458
9908 | WCMU-TV | 717,859 | 708,880 | 4,677
9922 | WCMV | 435,637 | 421,372 | 2,780
9913 | WCMW | 107,851 | 105,871 | 699
32326 | WCNC-TV | 4,347,601 | 4,262,460 | 28,124
53734 | WCNY-TV | 1,328,626 | 1,263,336 | 8,335
73642 | WCOV-TV | 916,080 | 911,398 | 6,013
40618 | WCPB | 612,947 | 612,947 | 4,044
59438 | WCPO-TV | 3,461,834 | 3,448,166 | 22,751
10981 | WCPX-TV | 9,906,756 | 9,905,251 | 65,355
71297 | WCSC-TV | 1,188,482 | 1,188,482 | 7,842
39664 | WCSH | 1,844,256 | 1,625,773 | 10,727
69479 | WCTE | 645,441 | 572,887 | 3,780
18334 | WCTI-TV | 1,741,252 | 1,734,851 | 11,447
31590 | WCTV | 1,083,799 | 1,083,709 | 7,150
33081 | WCTX | 7,999,974 | 7,453,383 | 49,177
65684 | WCVB-TV | 8,334,723 | 8,171,970 | 53,919
9987 | WCVE-TV | 1,894,231 | 1,892,374 | 12,486
83304 | WCVI-TV | 41,004 | 40,978 | 270
34204 | WCVN-TV | 2,242,264 | 2,237,912 | 14,766
9989 | WCVW | 1,662,141 | 1,660,801 | 10,958
73042 | WCWF | 1,181,564 | 1,180,880 | 7,791
35385 | WCWG | 3,895,811 | 3,546,156 | 23,398
29712 | WCWJ | 1,938,352 | 1,938,263 | 12,789
73264 | WCWN | 1,917,787 | 1,630,664 | 10,759
2455 | WCYB-TV | 2,296,374 | 1,447,129 | 9,548
11291 | WDAF-TV | 2,724,533 | 2,722,049 | 17,960
21250 | WDAM-TV | 507,937 | 495,331 | 3,268
22129 | WDAY-TV | 389,109 | 389,023 | 2,567
22124 | WDAZ-TV | 155,202 | 154,877 | 1,022
71325 | WDBB | 1,874,003 | 1,841,150 | 12,148
71326 | WDBD | 924,445 | 923,304 | 6,092
71329 | WDBJ | 1,603,364 | 1,421,509 | 9,379
51567 | WDCA | 8,945,253 | 8,890,093 | 58,657
16530 | WDCQ-TV | 1,226,421 | 1,226,397 | 8,092
30576 | WDCW | 9,008,590 | 8,971,597 | 59,195
54385 | WDEF-TV | 1,818,758 | 1,592,644 | 10,508
32851 | WDFX-TV | 343,408 | 343,096 | 2,264
43846 | WDHN | 454,174 | 453,945 | 2,995
71338 | WDIO-DT | 345,803 | 332,242 | 2,192
714 | WDIQ | 674,543 | 625,633 | 4,128
53114 | WDIV-TV | 5,555,564 | 5,555,436 | 36,655
71427 | WDJT-TV | 3,315,464 | 3,306,632 | 21,817
39561 | WDKA | 640,692 | 640,230 | 4,224
64017 | WDKY-TV | 1,280,920 | 1,245,717 | 8,219
67893 | WDLI-TV | 4,131,639 | 4,098,980 | 27,045
72335 | WDPB | 652,694 | 652,694 | 4,306
83740 | WDPM-DT | 1,493,282 | 1,491,552 | 9,841
1283 | WDPN-TV | 12,164,952 | 12,033,746 | 79,399
6476 | WDPX-TV | 7,354,860 | 7,283,151 | 48,054
28476 | WDRB | 2,166,593 | 2,149,625 | 14,183
12171 | WDSC-TV | 4,131,441 | 4,131,441 | 27,259
17726 | WDSE | 335,589 | 320,243 | 2,113
71353 | WDSI-TV | 1,155,212 | 1,094,624 | 7,222
71357 | WDSU | 1,746,300 | 1,746,300 | 11,522
7908 | WDTI | 2,314,404 | 2,313,996 | 15,268
65690 | WDTN | 3,998,815 | 3,979,357 | 26,256
70592 | WDTV | 554,217 | 513,260 | 3,386
25045 | WDVM-TV | 3,360,750 | 2,931,025 | 19,339
4110 | WDWL | 2,449,731 | 2,192,227 | 14,464
49421 | WEAO | 3,954,789 | 3,936,003 | 25,970
71363 | WEAR-TV | 1,662,799 | 1,662,271 | 10,968
7893 | WEAU | 1,031,280 | 993,529 | 6,555
61003 | WEBA-TV | 652,051 | 645,245 | 4,257
19561 | WECN | 2,551,597 | 2,296,482 | 15,152
48666 | WECT | 1,284,078 | 1,284,078 | 8,472
13602 | WEDH | 5,419,331 | 4,792,684 | 31,622
13607 | WEDN | 3,520,804 | 2,654,657 | 17,515
69338 | WEDQ | 6,372,341 | 6,354,538 | 41,927
21808 | WEDU | 6,372,341 | 6,354,538 | 41,927
13594 | WEDW | 21,942,405 | 21,529,106 | 142,049
13595 | WEDY | 5,419,331 | 4,792,684 | 31,622
24801 | WEEK-TV | 730,054 | 729,949 | 4,816
6744 | WEFS | 4,115,849 | 4,115,849 | 27,156
24215 | WEHT | 854,000 | 838,936 | 5,535
721 | WEIQ | 1,138,095 | 1,137,690 | 7,506
18301 | WEIU-TV | 442,120 | 442,040 | 2,917
69271 | WEKW-TV | 1,306,163 | 800,635 | 5,283
60825 | WELF-TV | 1,547,836 | 1,455,263 | 9,602
26602 | WELU | 2,052,918 | 1,847,568 | 12,190
40761 | WEMT | 1,708,704 | 1,169,182 | 7,714
69237 | WENH-TV | 4,865,355 | 4,679,954 | 30,878
71508 | WENY-TV | 636,768 | 501,692 | 3,310
83946 | WEPH | 604,510 | 602,977 | 3,978
81508 | WEPX-TV | 945,425 | 945,425 | 6,238
25738 | WESH | 4,917,201 | 4,906,261 | 32,372
65670 | WETA-TV | 9,177,186 | 9,112,861 | 60,127
69944 | WETK | 681,830 | 571,729 | 3,772
60653 | WETM-TV | 844,248 | 745,266 | 4,917
18252 | WETP-TV | 2,251,212 | 1,940,383 | 12,803
2709 | WEUX | 396,788 | 387,527 | 2,557
72041 | WEVV-TV | 751,428 | 750,047 | 4,949
59441 | WEWS-TV | 4,098,329 | 4,061,663 | 26,799
72052 | WEYI-TV | 3,802,069 | 3,734,694 | 24,642
72054 | WFAA | 8,238,058 | 8,226,984 | 54,282
81669 | WFBD | 919,012 | 918,335 | 6,059
69532 | WFDC-DT | 9,008,590 | 8,971,597 | 59,195
10132 | WFFF-TV | 644,230 | 566,681 | 3,739
25040 | WFFT-TV | 1,133,445 | 1,133,031 | 7,476
11123 | WFGC | 3,402,762 | 3,402,762 | 22,451
6554 | WFGX | 1,631,714 | 1,631,224 | 10,763
13991 | WFIE | 742,941 | 741,771 | 4,894
715 | WFIQ | 550,070 | 548,067 | 3,616
64592 | WFLA-TV | 6,656,303 | 6,639,930 | 43,810
22211 | WFLD | 10,111,733 | 10,105,397 | 66,675
72060 | WFLI-TV | 1,357,801 | 1,252,063 | 8,261
39736 | WFLX | 6,299,680 | 6,299,680 | 41,565
72062 | WFMJ-TV | 4,291,547 | 3,802,286 | 25,087
72064 | WFMY-TV | 5,399,787 | 5,364,129 | 35,393
39884 | WFMZ-TV | 11,348,739 | 10,115,153 | 66,740
83943 | WFNA | 1,511,431 | 1,509,839 | 9,962
47902 | WFOR-TV | 5,952,062 | 5,952,062 | 39,272
11909 | WFOX-TV | 1,881,740 | 1,881,740 | 12,416
40626 | WFPT | 6,479,421 | 6,072,020 | 40,063
21245 | WFPX-TV | 2,980,937 | 2,976,800 | 19,641
25396 | WFQX-TV | 537,914 | 533,910 | 3,523
9635 | WFRV-TV | 1,313,825 | 1,300,885 | 8,583
53115 | WFSB | 4,799,110 | 4,417,573 | 29,147
6093 | WFSG | 403,233 | 403,173 | 2,660
21801 | WFSU-TV | 592,693 | 592,676 | 3,910
11913 | WFTC | 4,159,690 | 4,144,073 | 27,343
64588 | WFTS-TV | 6,213,173 | 6,213,039 | 40,994
16788 | WFTT-TV | 5,291,296 | 5,291,296 | 34,912
72076 | WFTV | 4,707,940 | 4,707,940 | 31,063
70649 | WFTX-TV | 2,076,721 | 2,076,721 | 13,702
60553 | WFTY-DT | 5,838,625 | 5,724,691 | 37,772
25395 | WFUP | 235,473 | 234,457 | 1,547
60555 | WFUT-DT | 21,842,105 | 21,428,169 | 141,383
22108 | WFWA | 1,071,881 | 1,071,733 | 7,071
9054 | WFXB | 1,448,018 | 1,447,713 | 9,552
3228 | WFXG | 1,126,109 | 1,115,208 | 7,358
70815 | WFXL | 792,863 | 786,514 | 5,189
19707 | WFXP | 556,627 | 543,130 | 3,584
24813 | WFXR | 1,418,873 | 1,283,217 | 8,467
6463 | WFXT | 8,044,623 | 7,951,492 | 52,464
22245 | WFXU | 225,675 | 225,675 | 1,489
43424 | WFXV | 682,282 | 587,673 | 3,877
25236 | WFXW | 240,198 | 240,193 | 1,585
41397 | WFYI | 2,614,535 | 2,613,865 | 17,246
53930 | WGAL | 6,592,850 | 5,851,154 | 38,606
2708 | WGBA-TV | 1,219,315 | 1,218,972 | 8,043
24314 | WGBC | 233,035 | 232,798 | 1,536
72099 | WGBH-TV | 8,264,395 | 8,151,180 | 53,781
12498 | WGBO-DT | 9,984,682 | 9,984,501 | 65,878
11113 | WGBP-TV | 1,964,065 | 1,956,753 | 12,911
72098 | WGBX-TV | 8,354,289 | 8,184,570 | 54,002
72096 | WGBY-TV | 4,556,980 | 3,838,887 | 25,329
62388 | WGCU | 1,789,951 | 1,789,951 | 11,810
54275 | WGEM-TV | 340,572 | 335,705 | 2,215
27387 | WGEN-TV | 47,451 | 47,451 | 313
7727 | WGFL | 958,665 | 958,665 | 6,325
25682 | WGGB-TV | 3,501,457 | 3,092,700 | 20,406
11027 | WGGN-TV | 4,010,515 | 3,987,566 | 26,310
9064 | WGGS-TV | 2,978,169 | 2,919,596 | 19,263
72106 | WGHP | 4,716,324 | 4,663,025 | 30,767
710 | WGIQ | 367,358 | 367,140 | 2,422
12520 | WGMB-TV | 1,815,089 | 1,814,919 | 11,975
25683 | WGME-TV | 1,562,382 | 1,391,898 | 9,184
24618 | WGNM | 765,295 | 764,308 | 5,043
72119 | WGNO | 1,737,340 | 1,737,340 | 11,463
9762 | WGNT | 2,218,861 | 2,218,861 | 14,640
72115 | WGN-TV | 10,139,791 | 10,133,994 | 66,864
40619 | WGPT | 570,828 | 347,754 | 2,294
65074 | WGPX-TV | 3,063,562 | 3,053,879 | 20,149
64547 | WGRZ | 1,896,029 | 1,833,959 | 12,100
63329 | WGTA | 1,174,842 | 1,134,460 | 7,485
66285 | WGTE-TV | 2,250,689 | 2,250,689 | 14,850
59279 | WGTQ | 114,517 | 109,995 | 726
59280 | WGTU | 369,755 | 364,263 | 2,403
23948 | WGTV | 6,872,895 | 6,793,292 | 44,822
7623 | WGTW-TV | 830,912 | 830,818 | 5,482
24783 | WGVK | 2,565,756 | 2,563,031 | 16,911
24784 | WGVU-TV | 1,943,807 | 1,894,218 | 12,498
21536 | WGWG | 1,146,502 | 1,146,502 | 7,565
56642 | WGWW | 1,742,591 | 1,714,951 | 11,315
58262 | WGXA | 799,532 | 798,664 | 5,270
73371 | WHAM-TV | 1,381,792 | 1,333,395 | 8,798
32327 | WHAS-TV | 2,065,124 | 2,034,746 | 13,425
6096 | WHA-TV | 1,715,866 | 1,709,075 | 11,276
13950 | WHBF-TV | 1,726,114 | 1,713,500 | 11,306
12521 | WHBQ-TV | 1,735,050 | 1,714,081 | 11,310
10894 | WHBR | 1,425,293 | 1,424,691 | 9,400
65128 | WHDF | 1,720,614 | 1,666,798 | 10,998
72145 | WHDH | 7,993,816 | 7,899,325 | 52,120
83929 | WHDT | 6,334,757 | 6,334,757 | 41,797
70041 | WHEC-TV | 1,322,761 | 1,278,323 | 8,434
67971 | WHFT-TV | 5,976,793 | 5,976,793 | 39,435
41458 | WHIO-TV | 4,041,602 | 4,033,560 | 26,613
713 | WHIQ | 1,383,801 | 1,329,761 | 8,774
61216 | WHIZ-TV | 962,141 | 885,771 | 5,844
18780 | WHLA-TV | 569,415 | 530,529 | 3,500
48668 | WHLT | 481,036 | 479,959 | 3,167
24582 | WHLV-TV | 4,739,820 | 4,739,820 | 31,273
37102 | WHMB-TV | 3,187,327 | 3,126,458 | 20,628
61004 | WHMC | 838,228 | 838,228 | 5,531
36117 | WHME-TV | 1,490,612 | 1,490,518 | 9,834
37106 | WHNO | 1,592,553 | 1,592,553 | 10,508
72300 | WHNS | 2,753,561 | 2,462,848 | 16,250
48693 | WHNT-TV | 1,687,347 | 1,607,863 | 10,609
66221 | WHO-DT | 1,226,093 | 1,209,327 | 7,979
6866 | WHOI | 716,035 | 715,956 | 4,724
72313 | WHP-TV | 4,219,869 | 3,695,568 | 24,383
51980 | WHPX-TV | 5,666,126 | 5,176,293 | 34,153
73036 | WHRM-TV | 537,971 | 535,112 | 3,531
25932 | WHRO-TV | 2,261,464 | 2,261,381 | 14,921
68058 | WHSG-TV | 6,744,093 | 6,678,392 | 44,064
4688 | WHSV-TV | 894,602 | 760,620 | 5,019
9990 | WHTJ | 867,445 | 743,025 | 4,902
72326 | WHTM-TV | 3,349,178 | 2,923,354 | 19,288
11117 | WHTN | 2,283,942 | 2,273,175 | 14,998
27772 | WHUT-TV | 8,785,956 | 8,745,663 | 57,704
18793 | WHWC-TV | 1,205,932 | 1,152,576 | 7,605
72338 | WHYY-TV | 10,984,166 | 10,590,279 | 69,875
5360 | WIAT | 1,959,076 | 1,921,566 | 12,678
63160 | WIBW-TV | 1,312,372 | 1,263,123 | 8,334
25684 | WICD | 1,220,886 | 1,219,775 | 8,048
25686 | WICS | 1,060,412 | 1,058,572 | 6,984
24970 | WICU-TV | 704,263 | 654,470 | 4,318
62210 | WICZ-TV | 1,208,124 | 932,840 | 6,155
18410 | WIDP | 2,258,204 | 2,022,801 | 13,346
26025 | WIFS | 1,664,757 | 1,659,814 | 10,951
720 | WIIQ | 330,593 | 326,759 | 2,156
68939 | WILL-TV | 1,148,587 | 1,125,681 | 7,427
6863 | WILX-TV | 3,505,808 | 3,321,258 | 21,914
22093 | WINK-TV | 2,135,187 | 2,135,187 | 14,088
67787 | WINM | 1,035,236 | 1,004,998 | 6,631
41314 | WINP-TV | 2,918,791 | 2,870,939 | 18,942
3646 | WIPB | 2,098,072 | 2,097,589 | 13,840
48408 | WIPL | 902,112 | 849,374 | 5,604
53863 | WIPM-TV ¹ | 2,018,636 | 1,743,992 | 740
53859 | WIPR-TV ¹ | 3,164,369 | 2,988,035 | 19,715
10253 | WIPX-TV | 2,538,971 | 2,537,989 | 16,746
39887 | WIRS ¹² | 962,531 | 803,553 | 2,946
71336 | WIRT-DT | 125,282 | 123,221 | 813
13990 | WIS | 2,873,204 | 2,819,721 | 18,605
65143 | WISC-TV | 1,816,917 | 1,779,975 | 11,744
13960 | WISE-TV | 1,105,600 | 1,105,444 | 7,294
39269 | WISH-TV | 3,141,430 | 3,093,806 | 20,413
65680 | WISN-TV | 3,041,677 | 3,036,957 | 20,038
73083 | WITF-TV | 2,532,625 | 2,299,838 | 15,174
73107 | WITI | 3,149,773 | 3,140,719 | 20,722
594 | WITN-TV | 1,942,458 | 1,927,751 | 12,719
61005 | WITV | 1,002,380 | 1,002,380 | 6,614
7780 | WIVB-TV | 1,911,934 | 1,834,562 | 12,104
11260 | WIVT | 831,941 | 612,317 | 4,040
60571 | WIWN | 3,387,206 | 3,370,697 | 22,240
62207 | WIYC | 673,128 | 670,480 | 4,424
73120 | WJAC-TV | 2,152,162 | 1,855,359 | 12,242
10259 | WJAL | 9,654,785 | 9,309,845 | 61,426
50780 | WJAR | 7,602,846 | 7,447,435 | 49,138
35576 | WJAX-TV | 1,909,321 | 1,909,321 | 12,598
27140 | WJBF | 1,669,785 | 1,652,861 | 10,906
73123 | WJBK | 5,840,177 | 5,804,131 | 38,296
37174 | WJCL | 1,031,857 | 1,031,857 | 6,808
73130 | WJCT | 1,893,148 | 1,892,490 | 12,487
29719 | WJEB-TV | 1,880,192 | 1,880,192 | 12,406
65749 | WJET-TV | 711,412 | 685,375 | 4,522
7651 | WJFB | 2,745,573 | 2,734,787 | 18,044
49699 | WJFW-TV | 281,148 | 271,274 | 1,790
73136 | WJHG-TV | 912,881 | 905,531 | 5,975
57826 | WJHL-TV | 2,035,505 | 1,463,539 | 9,656
68519 | WJKT | 645,594 | 645,161 | 4,257
1051 | WJLA-TV | 9,654,785 | 9,314,754 | 61,459
86537 | WJLP | 22,694,994 | 22,426,423 | 147,970
9630 | WJMN-TV | 158,494 | 151,938 | 1,002
61008 | WJPM-TV | 587,058 | 586,836 | 3,872
58340 | WJPX 6 10 12 | 2,861,004 | 2,653,740 | 17,509
21735 | WJRT-TV | 2,831,612 | 2,583,368 | 17,045
23918 | WJSP-TV | 4,678,958 | 4,643,904 | 30,640
41210 | WJTC | 1,517,180 | 1,516,056 | 10,003
48667 | WJTV | 966,513 | 958,676 | 6,325
73150 | WJW | 3,969,148 | 3,895,876 | 25,705
61007 | WJWJ-TV | 1,180,652 | 1,180,652 | 7,790
58342 | WJWN-TV ⁶ | 1,830,695 | 1,568,858 | 2,946
53116 | WJXT | 1,899,110 | 1,899,110 | 12,530
11893 | WJXX | 1,888,910 | 1,888,113 | 12,458
32334 | WJYS | 9,820,848 | 9,820,831 | 64,798
25455 | WJZ-TV | 10,637,240 | 10,228,751 | 67,489
73152 | WJZY | 4,965,077 | 4,831,865 | 31,881
64983 | WKAQ-TV ³ | 3,259,225 | 2,914,322 | 1,101
6104 | WKAR-TV | 1,713,640 | 1,709,038 | 11,276
34171 | WKAS | 522,877 | 496,277 | 3,274
51570 | WKBD-TV | 5,180,191 | 5,179,980 | 34,178
73153 | WKBN-TV | 4,870,043 | 4,522,748 | 29,841
13929 | WKBS-TV | 1,054,914 | 914,205 | 6,032
74424 | WKBT-DT | 905,659 | 860,444 | 5,677
54176 | WKBW-TV | 2,261,221 | 2,175,654 | 14,355
53465 | WKCF | 5,109,221 | 5,107,692 | 33,701
73155 | WKEF | 3,860,944 | 3,850,405 | 25,405
34177 | WKGB-TV | 444,266 | 442,639 | 2,921
34196 | WKHA | 475,212 | 372,027 | 2,455
34207 | WKLE | 918,947 | 911,337 | 6,013
34212 | WKMA-TV | 558,464 | 558,150 | 3,683
71293 | WKMG-TV | 4,643,692 | 4,643,692 | 30,639
34195 | WKMJ-TV | 1,572,974 | 1,565,579 | 10,330
34202 | WKMR | 457,241 | 422,772 | 2,789
34174 | WKMU | 339,477 | 339,064 | 2,237
42061 | WKNO | 1,649,295 | 1,647,327 | 10,869
83931 | WKNX-TV | 1,778,483 | 1,548,751 | 10,219
34205 | WKOH | 591,189 | 584,484 | 3,856
67869 | WKOI-TV | 3,996,184 | 3,976,552 | 26,237
34211 | WKON | 1,170,361 | 1,163,470 | 7,677
18267 | WKOP-TV | 1,641,367 | 1,465,642 | 9,670
64545 | WKOW | 1,999,166 | 1,978,160 | 13,052
21432 | WKPC-TV | 1,620,977 | 1,613,304 | 10,645
65758 | WKPD | 277,245 | 276,367 | 1,823
34200 | WKPI-TV | 552,999 | 432,287 | 2,852
27504 | WKPT-TV | 1,107,992 | 876,999 | 5,786
58341 | WKPV ¹⁰ | 981,832 | 762,182 | 2,946
11289 | WKRC-TV | 3,412,677 | 3,359,970 | 22,169
73187 | WKRG-TV | 1,661,088 | 1,660,222 | 10,954
73188 | WKRN-TV | 2,843,550 | 2,823,383 | 18,629
34222 | WKSO-TV | 675,800 | 663,810 | 4,380
40902 | WKTC | 1,422,142 | 1,421,788 | 9,381
60654 | WKTV | 1,566,267 | 1,340,030 | 8,842
73195 | WKYC | 4,162,460 | 4,109,739 | 27,116
24914 | WKYT-TV | 1,263,314 | 1,247,201 | 8,229
71861 | WKYU-TV | 447,402 | 444,471 | 2,933
34181 | WKZT-TV | 1,092,295 | 1,075,603 | 7,097
18819 | WLAE-TV | 1,489,518 | 1,489,518 | 9,828
36533 | WLAJ | 4,230,811 | 4,195,529 | 27,682
2710 | WLAX | 480,917 | 455,361 | 3,004
68542 | WLBT | 930,984 | 929,897 | 6,135
39644 | WLBZ | 374,046 | 364,463 | 2,405
69328 | WLED-TV | 333,929 | 175,095 | 1,155
63046 | WLEF-TV | 201,828 | 200,259 | 1,321
73203 | WLEX-TV | 1,037,124 | 1,032,416 | 6,812
37806 | WLFB | 756,510 | 656,110 | 4,329
37808 | WLFG | 1,555,609 | 1,240,816 | 8,187
73204 | WLFI-TV | 2,422,930 | 2,397,991 | 15,822
73205 | WLFL | 4,154,373 | 4,151,842 | 27,394
19777 | WLII-DT 4 8 | 2,472,430 | 2,284,000 | 15,070
37503 | WLIO | 1,076,204 | 1,052,712 | 6,946
38336 | WLIW | 21,331,793 | 21,007,396 | 138,607
27696 | WLJC-TV | 1,433,034 | 1,317,702 | 8,694
71645 | WLJT-DT | 382,232 | 381,417 | 2,517
53939 | WLKY | 2,035,700 | 2,028,397 | 13,383
11033 | WLLA | 2,204,047 | 2,203,715 | 14,540
1222 | WLMA | 1,681,703 | 1,678,515 | 11,075
17076 | WLMB | 2,820,328 | 2,813,733 | 18,565
68518 | WLMT | 1,739,879 | 1,737,416 | 11,463
22591 | WLNE-TV | 6,880,185 | 6,815,475 | 44,969
74420 | WLNS-TV | 4,230,811 | 4,195,529 | 27,682
73206 | WLNY-TV | 7,829,527 | 7,746,153 | 51,109
84253 | WLOO | 897,764 | 896,755 | 5,917
56537 | WLOS | 3,337,211 | 2,748,224 | 18,133
37732 | WLOV-TV | 608,778 | 606,994 | 4,005
13995 | WLOX | 1,236,798 | 1,224,809 | 8,081
38586 | WLPB-TV | 1,263,410 | 1,263,379 | 8,336
73189 | WLPX-TV | 1,012,910 | 963,892 | 6,360
66358 | WLRN-TV | 6,010,422 | 6,010,422 | 39,657
73226 | WLS-TV | 10,333,090 | 10,326,952 | 68,137
73230 | WLTV-DT | 5,988,029 | 5,988,029 | 39,509
37176 | WLTX | 1,614,789 | 1,611,719 | 10,634
37179 | WLTZ | 738,023 | 734,057 | 4,843
21259 | WLUC-TV | 103,185 | 95,367 | 629
4150 | WLUK-TV | 1,237,211 | 1,236,394 | 8,158
73238 | WLVI | 7,993,816 | 7,899,325 | 52,120
36989 | WLVT-TV | 11,348,739 | 10,115,153 | 66,740
3978 | WLWC | 3,398,164 | 3,257,998 | 21,496
46979 | WLWT | 3,499,610 | 3,489,652 | 23,025
54452 | WLXI | 3,243,843 | 3,015,382 | 19,895
55350 | WLYH | 3,349,178 | 2,923,354 | 19,288
43192 | WMAB-TV | 389,089 | 384,767 | 2,539
43170 | WMAE-TV | 692,999 | 663,737 | 4,379
43197 | WMAH-TV | 1,302,245 | 1,301,790 | 8,589
43176 | WMAO-TV | 333,490 | 333,321 | 2,199
47905 | WMAQ-TV | 10,069,653 | 10,068,069 | 66,429
59442 | WMAR-TV | 10,025,750 | 9,879,744 | 65,187
43184 | WMAU-TV | 637,434 | 631,358 | 4,166
43193 | WMAV-TV | 1,018,601 | 1,018,556 | 6,720
43169 | WMAW-TV | 731,384 | 716,614 | 4,728
46991 | WMAZ-TV | 1,238,176 | 1,180,117 | 7,786
66398 | WMBB | 990,632 | 964,744 | 6,365
43952 | WMBC-TV | 22,446,503 | 21,778,765 | 143,696
42121 | WMBD-TV | 720,722 | 720,669 | 4,755
83969 | WMBF-TV | 526,232 | 526,232 | 3,472
60829 | WMCF-TV | 644,916 | 641,833 | 4,235
9739 | WMCN-TV | 10,984,166 | 10,590,279 | 69,875
19184 | WMC-TV | 2,057,112 | 2,053,563 | 13,549
189357 | WMDE | 6,933,795 | 6,802,466 | 44,883
73255 | WMDN | 259,822 | 259,616 | 1,713
16455 | WMDT | 790,315 | 790,315 | 5,214
39656 | WMEA-TV | 965,365 | 911,355 | 6,013
39648 | WMEB-TV | 411,335 | 396,677 | 2,617
70537 | WMEC | 199,187 | 198,698 | 1,311
39649 | WMED-TV | 28,850 | 27,884 | 184
39662 | WMEM-TV | 66,343 | 64,625 | 426
41893 | WMFD-TV | 1,637,011 | 1,379,386 | 9,101
41436 | WMFP | 6,230,964 | 5,959,061 | 39,318
61111 | WMGM-TV | 830,912 | 830,818 | 5,482
43847 | WMGT-TV | 614,625 | 614,040 | 4,051
73263 | WMHT | 1,729,302 | 1,559,066 | 10,287
68545 | WMLW-TV | 1,863,951 | 1,863,679 | 12,297
53819 | WMOR-TV | 6,400,456 | 6,400,333 | 42,229
81503 | WMOW | 122,110 | 106,904 | 705
65944 | WMPB | 8,059,368 | 7,940,127 | 52,389
43168 | WMPN-TV | 843,756 | 841,772 | 5,554
65942 | WMPT | 9,500,117 | 9,442,413 | 62,301
60827 | WMPV-TV | 1,565,537 | 1,564,599 | 10,323
10221 | WMSN-TV | 2,030,916 | 2,010,636 | 13,266
2174 | WMTJ ¹¹ | 2,764,573 | 2,492,464 | 16,445
6870 | WMTV | 1,628,641 | 1,625,206 | 10,723
73288 | WMTW | 2,041,342 | 1,737,673 | 11,465
23935 | WMUM-TV | 926,604 | 921,419 | 6,080
73292 | WMUR-TV | 5,652,739 | 5,453,759 | 35,984
42663 | WMVS | 3,216,887 | 3,155,770 | 20,822
42665 | WMVT | 3,216,887 | 3,155,770 | 20,822
81946 | WMWC-TV | 935,338 | 912,437 | 6,020
56548 | WMYA-TV | 1,808,659 | 1,723,755 | 11,373
74211 | WMYD | 5,840,155 | 5,839,880 | 38,532
20624 | WMYT-TV | 4,965,077 | 4,831,865 | 31,881
25544 | WMYV | 4,406,813 | 4,379,408 | 28,895
73310 | WNAB | 2,600,886 | 2,591,235 | 17,097
73311 | WNAC-TV | 7,817,084 | 7,459,610 | 49,219
47535 | WNBC | 23,283,577 | 22,722,761 | 149,925
83965 | WNBW-DT | 1,557,530 | 1,550,637 | 10,231
72307 | WNCF | 665,079 | 658,994 | 4,348
50782 | WNCN | 4,201,973 | 4,186,944 | 27,625
57838 | WNCT-TV | 2,034,787 | 1,975,930 | 13,037
41674 | WNDU-TV | 1,901,588 | 1,870,311 | 12,340
28462 | WNDY-TV | 3,141,430 | 3,093,806 | 20,413
71928 | WNED-TV | 1,408,141 | 1,390,745 | 9,176
60931 | WNEH | 1,389,794 | 1,383,193 | 9,126
41221 | WNEM-TV | 1,437,726 | 1,434,104 | 9,462
49439 | WNEO | 3,343,598 | 3,265,373 | 21,545
73318 | WNEP-TV | 3,472,501 | 2,879,994 | 19,002
18795 | WNET | 22,428,695 | 21,915,470 | 144,598
51864 | WNEU | 7,676,529 | 7,606,661 | 50,189
23942 | WNGH-TV | 6,461,522 | 6,281,764 | 41,447
67802 | WNIN | 907,713 | 891,200 | 5,880
41671 | WNIT | 1,335,767 | 1,335,767 | 8,813
48457 | WNJB | 22,145,547 | 21,374,668 | 141,030
48477 | WNJN | 22,145,547 | 21,374,668 | 141,030
48481 | WNJS | 7,729,626 | 7,710,589 | 50,874
48465 | WNJT | 7,729,626 | 7,710,589 | 50,874
73333 | WNJU | 23,283,577 | 22,722,761 | 149,925
73336 | WNJX-TV ² | 1,446,990 | 1,265,826 | 905
61217 | WNKY | 414,184 | 412,652 | 2,723
71905 | WNLO | 1,911,934 | 1,834,562 | 12,104
4318 | WNMU | 178,504 | 177,692 | 1,172
73344 | WNNE | 801,186 | 684,501 | 4,516
54280 | WNOL-TV | 1,730,074 | 1,730,074 | 11,415
71676 | WNPB-TV | 2,094,971 | 1,923,306 | 12,690
62137 | WNPI-DT | 159,208 | 154,143 | 1,017
41398 | WNPT | 2,692,492 | 2,657,273 | 17,533
28468 | WNPX-TV | 2,494,581 | 2,470,662 | 16,301
61009 | WNSC-TV | 2,860,897 | 2,853,300 | 18,826
61010 | WNTV | 2,775,252 | 2,572,161 | 16,971
16539 | WNTZ-TV | 328,336 | 327,661 | 2,162
7933 | WNUV | 9,944,268 | 9,735,378 | 64,234
9999 | WNVC | 867,445 | 743,025 | 4,902
10019 | WNVT | 1,894,231 | 1,892,374 | 12,486
73354 | WNWO-TV | 2,915,507 | 2,915,507 | 19,237
136751 | WNYA | 1,932,105 | 1,656,014 | 10,926
30303 | WNYB | 1,784,805 | 1,758,025 | 11,599
6048 | WNYE-TV | 20,693,079 | 20,445,674 | 134,901
34329 | WNYI | 1,609,642 | 1,329,569 | 8,772
67784 | WNYO-TV | 1,449,480 | 1,428,169 | 9,423
73363 | WNYT | 1,691,742 | 1,539,006 | 10,154
22206 | WNYW | 21,377,740 | 21,043,915 | 138,848
69618 | WOAI-TV | 3,063,753 | 3,050,610 | 20,128
66804 | WOAY-TV | 536,548 | 414,046 | 2,732
41225 | WOFL | 4,897,034 | 4,891,577 | 32,275
70651 | WOGX | 1,262,333 | 1,262,333 | 8,329
8661 | WOI-DT | 1,278,698 | 1,277,340 | 8,428
39746 | WOIO | 3,819,462 | 3,739,439 | 24,673
71725 | WOLE-DT ⁴ | 1,581,955 | 1,411,809 | 5,385
73375 | WOLF-TV | 3,025,477 | 2,531,097 | 16,700
60963 | WOLO-TV | 2,854,959 | 2,814,886 | 18,573
36838 | WOOD-TV | 2,637,147 | 2,631,110 | 17,360
67602 | WOPX-TV | 4,677,102 | 4,676,992 | 30,859
64865 | WORA-TV 3 13 | 3,172,055 | 2,933,387 | 19,354
73901 | WORO-DT | 2,847,102 | 2,661,536 | 17,561
60357 | WOST | 1,055,465 | 918,659 | 6,061
66185 | WOSU-TV | 3,073,523 | 3,013,857 | 19,885
131 | WOTF-TV | 4,204,625 | 4,204,625 | 27,742
10212 | WOTV | 2,493,328 | 2,492,908 | 16,448
50147 | WOUB-TV | 739,667 | 721,384 | 4,760
50141 | WOUC-TV | 1,680,457 | 1,618,502 | 10,679
23342 | WOWK-TV | 1,098,995 | 1,028,502 | 6,786
65528 | WOWT | 1,516,978 | 1,514,052 | 9,990
31570 | WPAN | 1,392,393 | 1,392,261 | 9,186
51988 | WPBF | 3,601,603 | 3,601,603 | 23,763
21253 | WPBN-TV | 452,157 | 440,310 | 2,905
62136 | WPBS-TV | 332,147 | 296,972 | 1,959
13456 | WPBT | 5,976,331 | 5,976,331 | 39,432
13924 | WPCB-TV | 2,920,794 | 2,802,648 | 18,492
64033 | WPCH-TV | 6,826,973 | 6,747,200 | 44,518
4354 | WPCT | 207,688 | 207,286 | 1,368
17012 | WPDE-TV | 1,845,347 | 1,838,747 | 12,132
52527 | WPEC | 6,332,850 | 6,332,850 | 41,784
84088 | WPFO | 1,390,230 | 1,272,952 | 8,399
54728 | WPGA-TV | 575,813 | 575,578 | 3,798
60820 | WPGD-TV | 2,787,190 | 2,772,517 | 18,293
73875 | WPGH-TV | 3,209,933 | 3,099,658 | 20,452
2942 | WPGX | 448,453 | 445,686 | 2,941
73879 | WPHL-TV | 10,944,731 | 10,756,717 | 70,973
73881 | WPIX | 22,259,872 | 21,818,842 | 143,961
69880 | WPKD-TV | 3,366,547 | 3,181,216 | 20,990
53113 | WPLG | 6,165,413 | 6,165,413 | 40,679
11906 | WPMI-TV | 1,609,741 | 1,609,491 | 10,619
10213 | WPMT | 2,532,625 | 2,299,838 | 15,174
18798 | WPNE-TV | 1,210,150 | 1,209,366 | 7,979
73907 | WPNT | 3,148,917 | 3,050,465 | 20,127
28480 | WPPT | 11,348,739 | 10,115,153 | 66,740
51984 | WPPX-TV | 8,429,105 | 8,212,096 | 54,183
47404 | WPRI-TV | 7,754,340 | 7,480,561 | 49,357
51991 | WPSD-TV | 852,232 | 848,332 | 5,597
12499 | WPSG | 11,342,493 | 11,068,585 | 73,031
66219 | WPSU-TV | 1,016,983 | 842,529 | 5,559
73905 | WPTA | 1,136,029 | 1,135,873 | 7,494
25067 | WPTD | 3,535,155 | 3,522,151 | 23,239
25065 | WPTO | 3,080,289 | 3,066,947 | 20,236
59443 | WPTV-TV | 6,414,108 | 6,414,108 | 42,320
57476 | WPTZ | 801,186 | 684,501 | 4,516
8616 | WPVI-TV | 11,997,071 | 11,834,791 | 78,086
48772 | WPWR-TV | 10,111,733 | 10,105,397 | 66,675
51969 | WPXA-TV | 7,486,662 | 7,341,812 | 48,441
71236 | WPXC-TV | 1,812,411 | 1,812,329 | 11,958
5800 | WPXD-TV | 5,357,614 | 5,357,504 | 35,349
37104 | WPXE-TV | 3,105,562 | 3,094,581 | 20,418
48406 | WPXG-TV | 2,760,323 | 2,697,351 | 17,797
73312 | WPXH-TV | 1,558,487 | 1,543,110 | 10,181
73910 | WPXI | 3,270,399 | 3,179,997 | 20,982
2325 | WPXJ-TV | 2,383,753 | 2,319,308 | 15,303
52628 | WPXK-TV | 1,897,932 | 1,672,850 | 11,037
21729 | WPXL-TV | 1,738,354 | 1,738,354 | 11,470
48608 | WPXM-TV | 5,673,283 | 5,673,283 | 37,432
73356 | WPXN-TV | 22,193,311 | 21,756,322 | 143,548
27290 | WPXP-TV | 6,117,297 | 6,117,297 | 40,362
50063 | WPXQ-TV | 3,398,164 | 3,257,998 | 21,496
70251 | WPXR-TV | 1,361,522 | 1,199,794 | 7,916
40861 | WPXS | 2,313,093 | 2,228,599 | 14,704
53065 | WPXT | 1,058,317 | 1,005,248 | 6,633
37971 | WPXU-TV | 764,835 | 764,835 | 5,046
67077 | WPXV-TV | 1,997,620 | 1,997,620 | 13,180
74091 | WPXW-TV | 8,918,745 | 8,866,240 | 58,499
21726 | WPXX-TV | 1,563,942 | 1,560,675 | 10,297
73319 | WQAD-TV | 1,077,293 | 1,065,179 | 7,028
65130 | WQCW | 1,234,953 | 1,165,995 | 7,693
71561 | WQEC | 177,193 | 175,191 | 1,156
41315 | WQED | 3,491,971 | 3,385,114 | 22,335
3255 | WQHA | 2,936,821 | 2,543,288 | 16,781
60556 | WQHS-DT | 3,982,203 | 3,936,334 | 25,972
53716 | WQLN | 573,688 | 553,172 | 3,650
52075 | WQMY | 403,099 | 246,363 | 1,626
64550 | WQOW | 383,460 | 372,929 | 2,461
5468 | WQPT-TV | 928,221 | 922,909 | 6,089
64690 | WQPX-TV | 1,624,976 | 1,207,503 | 7,967
52408 | WQRF-TV | 1,384,090 | 1,360,850 | 8,979
2175 | WQTO ¹¹ | 2,533,848 | 1,714,503 | 4,010
8688 | WRAL-TV | 4,258,430 | 4,255,027 | 28,075
10133 | WRAY-TV | 4,701,102 | 4,682,210 | 30,893
64611 | WRAZ | 4,206,845 | 4,204,439 | 27,741
136749 | WRBJ-TV | 1,029,422 | 1,026,759 | 6,775
3359 | WRBL | 1,573,722 | 1,534,121 | 10,122
57221 | WRBU | 2,964,043 | 2,960,986 | 19,537
54940 | WRBW | 4,929,252 | 4,926,807 | 32,507
59137 | WRCB | 1,674,932 | 1,436,942 | 9,481
47904 | WRC-TV | 9,040,003 | 8,996,367 | 59,358
54963 | WRDC | 4,380,924 | 4,374,069 | 28,860
55454 | WRDQ | 4,765,929 | 4,765,929 | 31,446
73937 | WRDW-TV | 1,630,465 | 1,580,144 | 10,426
66174 | WREG-TV | 1,645,112 | 1,638,826 | 10,813
61011 | WRET-TV | 2,775,252 | 2,572,161 | 16,971
73940 | WREX | 2,367,561 | 2,071,361 | 13,667
54443 | WRFB ¹³ | 2,361,435 | 2,105,790 | 1,101
73942 | WRGB | 1,773,206 | 1,559,637 | 10,290
411 | WRGT-TV | 3,563,572 | 3,528,799 | 23,283
74416 | WRIC-TV | 2,264,724 | 2,197,233 | 14,497
61012 | WRJA-TV | 1,227,284 | 1,220,205 | 8,051
412 | WRLH-TV | 2,215,949 | 2,152,568 | 14,203
61013 | WRLK-TV | 1,268,677 | 1,267,713 | 8,364
43870 | WRLM | 3,954,789 | 3,936,003 | 25,970
74156 | WRNN-TV | 21,146,732 | 20,904,564 | 137,928
73964 | WROC-TV | 1,210,157 | 1,192,546 | 7,868
159007 | WRPT | 108,521 | 108,009 | 713
20590 | WRPX-TV | 2,980,937 | 2,976,800 | 19,641
62009 | WRSP-TV | 1,062,091 | 1,060,251 | 6,996
40877 | WRTV | 3,148,448 | 3,125,475 | 20,622
15320 | WRUA | 2,624,204 | 2,339,222 | 15,434
71580 | WRXY-TV | 2,114,529 | 2,114,529 | 13,952
48662 | WSAV-TV | 1,094,897 | 1,094,884 | 7,224
6867 | WSAW-TV | 657,843 | 651,328 | 4,297
36912 | WSAZ-TV | 1,173,019 | 1,103,266 | 7,279
56092 | WSBE-TV | 8,044,866 | 7,776,757 | 51,311
73982 | WSBK-TV | 7,834,658 | 7,766,985 | 51,247
72053 | WSBS-TV | 47,386 | 47,386 | 313
73983 | WSBT-TV | 1,790,673 | 1,780,628 | 11,749
23960 | WSB-TV | 6,772,503 | 6,695,450 | 44,177
69446 | WSCG | 961,649 | 961,649 | 6,345
64971 | WSCV | 6,029,382 | 6,029,382 | 39,782
70536 | WSEC | 517,830 | 517,364 | 3,414
49711 | WSEE-TV | 585,062 | 562,271 | 3,710
21258 | WSES | 1,905,067 | 1,866,312 | 12,314
73988 | WSET-TV | 1,587,650 | 1,345,990 | 8,881
13993 | WSFA | 1,206,335 | 1,168,069 | 7,707
11118 | WSFJ-TV | 1,911,871 | 1,902,328 | 12,552
10203 | WSFL-TV | 5,890,244 | 5,890,244 | 38,864
72871 | WSFX-TV | 1,088,964 | 1,088,964 | 7,185
73999 | WSIL-TV | 650,734 | 647,093 | 4,270
4297 | WSIU-TV | 994,418 | 936,746 | 6,181
74007 | WSJV | 1,686,953 | 1,680,493 | 11,088
78908 | WSKA | 530,610 | 416,302 | 2,747
74034 | WSKG-TV | 866,172 | 616,130 | 4,065
76324 | WSKY-TV | 2,003,325 | 2,002,894 | 13,215
776220 | WSLN | 3,269,796 | 3,020,118 | 19,927
57840 | WSLS-TV | 1,436,974 | 1,276,869 | 8,425
21737 | WSMH | 2,350,370 | 2,335,477 | 15,409
41232 | WSMV-TV | 2,883,773 | 2,837,323 | 18,721
70119 | WSNS-TV | 10,069,653 | 10,068,069 | 66,429
74070 | WSOC-TV | 4,156,321 | 4,085,565 | 26,957
66391 | WSPA-TV | 3,717,232 | 3,549,667 | 23,421
64352 | WSPX-TV | 1,285,581 | 1,167,040 | 7,700
17611 | WSRE | 1,490,766 | 1,489,946 | 9,831
63867 | WSST-TV | 312,974 | 312,260 | 2,060
60341 | WSTE-DT | 3,284,058 | 3,220,155 | 21,247
21252 | WSTM-TV | 1,437,543 | 1,367,590 | 9,023
11204 | WSTR-TV | 3,424,743 | 3,411,973 | 22,512
19776 | WSUR-DT ⁸ | 3,276,102 | 3,182,722 | 5,385
2370 | WSVI | 41,004 | 41,004 | 271
63840 | WSVN | 6,165,386 | 6,165,386 | 40,679
73374 | WSWB | 1,516,774 | 1,088,360 | 7,181
28155 | WSWG | 389,103 | 389,030 | 2,567
71680 | WSWP-TV | 849,038 | 633,378 | 4,179
74094 | WSYM-TV | 1,607,593 | 1,607,277 | 10,605
73113 | WSYR-TV | 1,314,500 | 1,226,575 | 8,093
40758 | WSYT | 1,962,530 | 1,731,744 | 11,426
56549 | WSYX | 2,871,413 | 2,825,664 | 18,644
65681 | WTAE-TV | 2,985,875 | 2,865,692 | 18,908
23341 | WTAJ-TV | 1,158,024 | 925,907 | 6,109
4685 | WTAP-TV | 489,083 | 469,004 | 3,094
416 | WTAT-TV | 1,284,148 | 1,284,148 | 8,473
67993 | WTBY-TV | 16,997,114 | 16,897,718 | 111,491
29715 | WTCE-TV | 2,964,583 | 2,964,583 | 19,560
65667 | WTCI | 1,276,295 | 1,159,269 | 7,649
67786 | WTCT | 590,643 | 586,819 | 3,872
28954 | WTCV 5 9 | 2,861,004 | 2,653,740 | 17,509
74422 | WTEN | 1,913,356 | 1,621,808 | 10,701
9881 | WTGL | 4,516,827 | 4,516,827 | 29,802
27245 | WTGS | 1,064,292 | 1,064,066 | 7,021
70655 | WTHI-TV | 966,268 | 914,388 | 6,033
70162 | WTHR | 3,175,603 | 3,122,761 | 20,604
147 | WTIC-TV | 5,397,501 | 4,767,795 | 31,458
26681 | WTIN-TV ⁷ | 3,277,279 | 3,162,469 | 905
66536 | WTIU | 1,690,704 | 1,689,678 | 11,148
1002 | WTJP-TV | 2,037,103 | 2,002,301 | 13,211
4593 | WTJR | 316,974 | 316,852 | 2,091
70287 | WTJX-TV | 112,125 | 104,561 | 690
47401 | WTKR | 2,242,929 | 2,242,846 | 14,798
82735 | WTLF | 883,350 | 883,326 | 5,828
23486 | WTLH | 1,082,589 | 1,082,542 | 7,143
67781 | WTLJ | 1,738,667 | 1,736,853 | 11,460
65046 | WTLV | 2,041,165 | 2,022,822 | 13,347
74098 | WTMJ-TV | 3,139,304 | 3,123,411 | 20,608
74109 | WTNH | 7,999,974 | 7,453,267 | 49,177
19200 | WTNZ | 1,790,817 | 1,598,570 | 10,547
590 | WTOC-TV | 1,061,993 | 1,061,993 | 7,007
74112 | WTOG | 6,239,245 | 6,236,871 | 41,151
4686 | WTOK-TV | 391,847 | 386,112 | 2,548
13992 | WTOL | 4,534,147 | 4,527,590 | 29,873
21254 | WTOM-TV | 120,159 | 116,524 | 769
74122 | WTOV-TV | 3,866,114 | 3,605,421 | 23,789
82574 | WTPC-TV | 2,138,494 | 2,132,635 | 14,071
86496 | WTPX-TV | 258,246 | 258,154 | 1,703
6869 | WTRF-TV | 2,938,363 | 2,562,114 | 16,905
67798 | WTSF | 879,853 | 811,994 | 5,358
11290 | WTSP | 6,538,906 | 6,515,239 | 42,988
4108 | WTTA | 6,656,303 | 6,639,930 | 43,810
74137 | WTTE | 2,926,672 | 2,885,004 | 19,035
22207 | WTTG | 8,945,253 | 8,890,093 | 58,657
56526 | WTTK | 3,074,975 | 3,055,143 | 20,158
74138 | WTTO | 1,966,252 | 1,931,949 | 12,747
56523 | WTTV | 2,752,635 | 2,749,080 | 18,138
10802 | WTTW | 9,929,487 | 9,929,071 | 65,512
74148 | WTVA | 807,017 | 794,561 | 5,243
22590 | WTVC | 1,658,814 | 1,434,931 | 9,468
8617 | WTVD | 4,201,042 | 4,188,018 | 27,633
55305 | WTVE | 5,368,807 | 5,365,301 | 35,400
36504 | WTVF | 2,816,921 | 2,798,755 | 18,466
74150 | WTVG | 4,440,934 | 4,429,742 | 29,227
74151 | WTVH | 1,375,016 | 1,313,054 | 8,664
10645 | WTVI | 3,286,073 | 3,261,428 | 21,519
63154 | WTVJ | 6,009,434 | 6,009,434 | 39,650
52280 | WTVK | 7,403,075 | 7,395,979 | 48,799
595 | WTVM | 1,577,223 | 1,471,502 | 9,709
72945 | WTVO | 1,413,778 | 1,400,377 | 9,240
28311 | WTVP | 660,258 | 660,214 | 4,356
51597 | WTVQ-DT | 1,060,102 | 1,054,409 | 6,957
57832 | WTVR-TV | 1,998,729 | 1,990,377 | 13,133
16817 | WTVS | 5,607,125 | 5,606,929 | 36,995
68569 | WTVT | 6,511,462 | 6,491,829 | 42,833
3661 | WTVW | 839,062 | 833,035 | 5,496
35575 | WTVX | 3,558,645 | 3,556,727 | 23,467
4152 | WTVY | 1,032,612 | 1,029,898 | 6,795
40759 | WTVZ-TV | 2,246,928 | 2,246,845 | 14,825
66908 | WTWC-TV | 1,078,213 | 1,078,166 | 7,114
20426 | WTWO | 716,304 | 710,680 | 4,689
81692 | WTWV | 1,529,924 | 1,528,555 | 10,085
51568 | WTXF-TV | 11,330,716 | 11,023,958 | 72,736
41065 | WTXL-TV | 1,071,056 | 1,070,908 | 7,066
8532 | WUAB | 3,819,462 | 3,739,439 | 24,673
12855 | WUCF-TV | 4,516,827 | 4,516,827 | 29,802
36395 | WUCW | 4,213,867 | 4,205,494 | 27,748
69440 | WUFT | 1,524,792 | 1,524,792 | 10,061
413 | WUHF | 1,161,377 | 1,157,795 | 7,639
8156 | WUJA | 2,449,731 | 2,192,227 | 14,464
69080 | WUNC-TV | 4,701,102 | 4,682,210 | 30,893
69292 | WUND-TV | 1,526,704 | 1,526,704 | 10,073
69114 | WUNE-TV | 3,449,284 | 2,886,515 | 19,045
69300 | WUNF-TV | 2,825,704 | 2,517,064 | 16,608
69124 | WUNG-TV | 4,065,099 | 4,049,218 | 26,717
60551 | WUNI | 7,755,236 | 7,627,170 | 50,324
69332 | WUNJ-TV | 1,224,449 | 1,224,449 | 8,079
69149 | WUNK-TV | 2,105,575 | 2,099,533 | 13,853
69360 | WUNL-TV | 3,243,843 | 3,015,382 | 19,895
69444 | WUNM-TV | 1,370,547 | 1,370,547 | 9,043
69397 | WUNP-TV | 1,488,708 | 1,474,989 | 9,732
69416 | WUNU | 1,212,006 | 1,210,875 | 7,989
83822 | WUNW | 2,012,283 | 1,476,883 | 9,744
6900 | WUPA | 6,845,271 | 6,764,030 | 44,629
13938 | WUPL | 1,833,116 | 1,833,116 | 12,095
10897 | WUPV | 2,142,407 | 2,122,016 | 14,001
19190 | WUPW | 2,136,541 | 2,135,020 | 14,087
23128 | WUPX-TV | 1,182,585 | 1,166,267 | 7,695
65593 | WUSA | 9,654,785 | 9,309,845 | 61,426
4301 | WUSI-TV | 320,658 | 320,658 | 2,116
60552 | WUTB | 9,293,641 | 9,148,848 | 60,364
30577 | WUTF-TV | 8,479,857 | 8,266,141 | 54,540
57837 | WUTR | 511,394 | 470,311 | 3,103
415 | WUTV | 1,611,128 | 1,579,265 | 10,420
16517 | WUVC-DT | 4,224,285 | 4,208,453 | 27,767
48813 | WUVG-DT | 6,908,879 | 6,834,542 | 45,094
3072 | WUVN | 1,236,426 | 1,156,397 | 7,630
60560 | WUVP-DT | 10,944,731 | 10,756,717 | 70,973
9971 | WUXP-TV | 2,749,827 | 2,737,094 | 18,059
417 | WVAH-TV | 1,295,710 | 1,222,075 | 8,063
23947 | WVAN-TV | 1,118,534 | 1,117,845 | 7,376
65387 | WVBT | 1,964,109 | 1,964,109 | 12,959
72342 | WVCY-TV | 3,149,773 | 3,140,719 | 20,722
60559 | WVEA-TV | 5,324,315 | 5,322,343 | 35,117
74167 | WVEC | 2,189,627 | 2,184,435 | 14,413
5802 | WVEN-TV | 4,749,513 | 4,749,513 | 31,337
61573 | WVEO ⁵ | 962,531 | 803,553 | 2,946
69946 | WVER | 903,858 | 770,412 | 5,083
10976 | WVFX | 688,514 | 596,278 | 3,934
47929 | WVIA-TV | 3,472,501 | 2,879,994 | 19,002
3667 | WVII-TV | 368,499 | 348,813 | 2,301
70309 | WVIR-TV | 2,140,100 | 2,107,081 | 13,903
74170 | WVIT | 5,920,252 | 5,425,459 | 35,797
18753 | WVIZ | 3,694,957 | 3,687,740 | 24,332
70021 | WVLA-TV | 1,969,063 | 1,969,000 | 12,991
81750 | WVLR | 1,483,484 | 1,376,091 | 9,079
35908 | WVLT-TV | 1,983,974 | 1,714,780 | 11,314
74169 | WVNS-TV | 889,675 | 560,472 | 3,698
11259 | WVNY | 755,448 | 673,828 | 4,446
29000 | WVOZ-TV ⁹ | 981,832 | 762,182 | 2,946
71657 | WVPB-TV | 939,383 | 910,465 | 6,007
60111 | WVPT | 995,523 | 887,449 | 5,855
70491 | WVPX-TV | 4,131,639 | 4,098,980 | 27,045
66378 | WVPY | 995,523 | 887,449 | 5,855
67190 | WVSN | 2,593,148 | 2,271,512 | 14,987
69940 | WVTB | 468,294 | 246,240 | 1,625
74173 | WVTM-TV | 2,101,947 | 2,026,895 | 13,373
74174 | WVTV | 3,130,664 | 3,122,630 | 20,603
77496 | WVUA | 2,305,621 | 2,250,337 | 14,848
4149 | WVUE-DT | 1,759,779 | 1,759,779 | 11,611
4329 | WVUT | 267,636 | 267,555 | 1,765
74176 | WVVA | 997,556 | 690,651 | 4,557
3113 | WVXF | 70,673 | 66,853 | 441
12033 | WWAY | 1,328,366 | 1,328,366 | 8,765
30833 | WWBT | 2,109,206 | 2,074,930 | 13,690
20295 | WWCP-TV | 2,798,717 | 2,540,105 | 16,760
24812 | WWCW | 1,390,908 | 1,210,482 | 7,987
23671 | WWDP | 6,230,964 | 5,959,061 | 39,318
21158 | WWHO | 2,994,400 | 2,952,760 | 19,482
14682 | WWJE-DT | 7,755,236 | 7,627,170 | 50,324
65919 | WWJS | 3,798,882 | 3,731,768 | 24,622
72123 | WWJ-TV | 5,653,566 | 5,653,219 | 37,300
166512 | WWJX | 524,625 | 524,579 | 3,461
6868 | WWLP | 3,866,407 | 3,097,621 | 20,438
74192 | WWL-TV | 1,908,335 | 1,908,335 | 12,591
3133 | WWMB | 1,596,320 | 1,591,501 | 10,501
74195 | WWMT | 2,667,986 | 2,657,016 | 17,531
68851 | WWNY-TV | 368,613 | 341,101 | 2,251
74197 | WWOR-TV | 21,146,732 | 20,904,564 | 137,928
65943 | WWPB | 3,531,585 | 3,086,500 | 20,365
23264 | WWPX-TV | 2,612,045 | 2,544,163 | 16,786
68547 | WWRS-TV | 2,376,549 | 2,354,442 | 15,535
61251 | WWSB | 3,830,838 | 3,830,838 | 25,276
23142 | WWSI | 11,821,594 | 11,646,436 | 76,843
16747 | WWTI | 195,127 | 188,538 | 1,244
998 | WWTO-TV | 6,837,732 | 6,837,732 | 45,115
26994 | WWTV | 1,047,227 | 1,032,448 | 6,812
84214 | WWTW | 1,529,924 | 1,528,555 | 10,085
26993 | WWUP-TV | 114,688 | 108,690 | 717
23338 | WXBU | 4,219,869 | 3,695,568 | 24,383
61504 | WXCW | 2,000,927 | 2,000,927 | 13,202
61084 | WXEL-TV | 5,976,331 | 5,976,331 | 39,432
60539 | WXFT-DT | 10,333,090 | 10,326,952 | 68,137
23929 | WXGA-TV | 618,176 | 616,843 | 4,070
51163 | WXIA-TV | 7,067,151 | 6,920,534 | 45,662
53921 | WXII-TV | 3,895,811 | 3,546,156 | 23,398
146 | WXIN | 3,066,589 | 3,043,020 | 20,078
39738 | WXIX-TV | 3,033,449 | 3,023,049 | 19,946
414 | WXLV-TV | 4,920,177 | 4,882,710 | 32,216
68433 | WXMI | 2,110,083 | 2,109,607 | 13,919
64549 | WXOW | 433,343 | 422,605 | 2,788
6601 | WXPX-TV | 5,414,068 | 5,411,832 | 35,707
74215 | WXTV-DT | 21,842,105 | 21,428,169 | 141,383
12472 | WXTX | 745,811 | 742,438 | 4,899
11970 | WXXA-TV | 1,691,753 | 1,553,272 | 10,248
57274 | WXXI-TV | 1,192,140 | 1,176,310 | 7,761
53517 | WXXV-TV | 1,235,520 | 1,233,511 | 8,139
10267 | WXYZ-TV | 5,716,967 | 5,716,632 | 37,718
77515 | WYCI | 32,321 | 21,447 | 142
70149 | WYCW | 3,717,232 | 3,549,667 | 23,421
62219 | WYDC | 542,984 | 435,924 | 2,876
18783 | WYDN | 2,760,323 | 2,697,351 | 17,797
35582 | WYDO | 1,340,990 | 1,340,990 | 8,848
25090 | WYES-TV | 2,002,806 | 2,002,459 | 13,212
53905 | WYFF | 2,836,376 | 2,609,544 | 17,218
49803 | WYIN | 7,062,511 | 7,062,511 | 46,598
24915 | WYMT-TV | 1,144,051 | 819,069 | 5,404
17010 | WYOU | 2,912,468 | 2,246,394 | 14,822
77789 | WYOW | 94,927 | 94,486 | 623
13933 | WYPX-TV | 1,547,670 | 1,434,147 | 9,463
4693 | WYTV | 4,870,043 | 4,522,748 | 29,841
5875 | WYZZ-TV | 1,008,995 | 1,002,743 | 6,616
15507 | WZBJ | 1,603,364 | 1,421,509 | 9,379
28119 | WZDX | 1,714,034 | 1,633,019 | 10,775
70493 | WZME | 21,320,488 | 20,875,035 | 137,733
81448 | WZMQ | 73,784 | 73,510 | 485
71871 | WZPX-TV | 2,165,413 | 2,165,333 | 14,287
136750 | WZRB | 1,007,172 | 1,006,731 | 6,642
418 | WZTV | 2,743,270 | 2,733,978 | 18,039
83270 | WZVI | 64,187 | 63,279 | 418
19183 | WZVN-TV | 2,331,155 | 2,331,155 | 15,381
49713 | WZZM | 1,678,220 | 1,652,095 | 10,901
¹ Call signs WIPM and WIPR are stations in Puerto Rico that are linked together with a total fee of $20,455.
² Call signs WNJX and WAPA are stations in Puerto Rico that are linked together with a total fee of $20,455.
³ Call signs WKAQ and WORA are stations in Puerto Rico that are linked together with a total fee of $20,455.
⁴ Call signs WOLE and WLII are stations in Puerto Rico that are linked together with a total fee of $20,455.
⁵ Call signs WVEO and WTCV are stations in Puerto Rico that are linked together with a total fee of $20,455.
⁶ Call signs WJPX and WJWN are stations in Puerto Rico that are linked together with a total fee of $20,455.
⁷ Call signs WAPA and WTIN are stations in Puerto Rico that are linked together with a total fee of $20,455.
⁸ Call signs WSUR and WLII are stations in Puerto Rico that are linked together with a total fee of $20,455.
⁹ Call signs WVOZ and WTCV are stations in Puerto Rico that are linked together with a total fee of $20,455.
¹⁰ Call signs WJPX and WKPV are stations in Puerto Rico that are linked together with a total fee of $20,455.
¹¹ Call signs WMTJ and WQTO are stations in Puerto Rico that are linked together with a total fee of $20,455.
¹² Call signs WIRS and WJPX are stations in Puerto Rico that are linked together with a total fee of $20,455.
¹³ Call signs WRFB and WORA are stations in Puerto Rico that are linked together with a total fee of $20,455.

Table 9—FY 2023 Schedule of Fees—FY 2023 Schedule of Regulatory Fees
[Regulatory fees for the categories shaded in gray are collected by the Commission in advance to cover the term of the license and are submitted at the time the application is filed.]
Fee category | Annual regulatory fee (U.S. $s)
PLMRS (per license) (Exclusive Use) (47 CFR part 90) | 25.
Microwave (per license) (47 CFR part 101) | 25.
Marine (Ship) (per station) (47 CFR part 80) | 15.
Marine (Coast) (per license) (47 CFR part 80) | 40.
Rural Radio (47 CFR part 22) (previously listed under the Land Mobile category) | 10.
PLMRS (Shared Use) (per license) (47 CFR part 90) | 10.
Aviation (Aircraft) (per station) (47 CFR part 87) | 10.
Aviation (Ground) (per license) (47 CFR part 87) | 20.
CMRS Mobile/Cellular Services (per unit) (47 CFR parts 20, 22, 24, 27, 80, and 90) (Includes Non-Geographic telephone numbers) | .16.
CMRS Messaging Services (per unit) (47 CFR parts 20, 22, 24, and 90) | .08.
Broadband Radio Service (formerly MMDS/MDS) (per license) (47 CFR part 27) | 700.
Local Multipoint Distribution Service (per call sign) (47 CFR part 101) | 700.
AM Radio Construction Permits | 620.
FM Radio Construction Permits | 1,085.
AM and FM Broadcast Radio Station Fees | See Table Below.
Digital TV (47 CFR part 73) VHF and UHF Commercial Fee Factor | $.007799. See Appendix G of FY 2023 Report and Order for fee amounts due, also available at https://www.fcc.gov/licensing-databases/fees/regulatory-fees.
Digital TV Construction Permits | 5,100.
Low Power TV, Class A TV, TV/FM Translators & FM Boosters (47 CFR part 74) | 260.
CARS (47 CFR part 78) | 1,720.
Cable Television Systems (per subscriber) (47 CFR part 76), Including IPTV and Direct Broadcast Satellite (DBS) | 1.23.
Interstate Telecommunication Service Providers (per revenue dollar) | .00540.
Toll Free (per toll free subscriber) (47 CFR 52.101(f)) | .13.
Earth Stations (47 CFR part 25) | 575.
Space Stations (per operational station in geostationary orbit) (47 CFR part 25) also includes DBS Service (per operational station) (47 CFR part 100) | 117,580.
Space Stations (per operational system in non-geostationary orbit) (47 CFR part 25) (Other) | 347,755.
Space Stations (per operational system in non-geostationary orbit) (47 CFR part 25) (Less Complex) | 130,405.
Space Stations (per license/call sign in non-geostationary orbit) (47 CFR part 25) (Small Satellite) | 12,215.
International Bearer Circuits—Terrestrial/Satellites (per Gbps circuit) | $26.
Submarine Cable Landing Licenses Fee (per cable system) | See Table Below.

FY 2023 Radio Station Regulatory Fees
Population served | AM Class A | AM Class B | AM Class C | AM Class D | FM Classes A, B1 & C3 | FM Classes B, C, C0, C1 & C2
≤10,000 | $595 | $430 | $370 | $410 | $650 | $745
10,001-25,000 | 990 | 715 | 620 | 680 | 1,085 | 1,240
25,001-75,000 | 1,485 | 1,075 | 930 | 1,020 | 1,630 | 1,860
75,001-150,000 | 2,230 | 1,610 | 1,395 | 1,530 | 2,440 | 2,790
150,001-500,000 | 3,345 | 2,415 | 2,095 | 2,300 | 3,665 | 4,190
500,001-1,200,000 | 5,010 | 3,620 | 3,135 | 3,440 | 5,490 | 6,275
1,200,001-3,000,000 | 7,525 | 5,435 | 4,710 | 5,170 | 8,245 | 9,425
3,000,001-6,000,000 | 11,275 | 8,145 | 7,060 | 7,745 | 12,360 | 14,125
>6,000,000 | 16,920 | 12,220 | 10,595 | 11,620 | 18,545 | 21,190

FY 2023 International Bearer Circuits—Submarine Cable Systems
Submarine cable systems (capacity as of December 31, 2022) | Fee ratio (units) | FY 2023 regulatory fees
Less than 50 Gbps | .0625 | $7,680
50 Gbps or greater, but less than 250 Gbps | .125 | 15,355
250 Gbps or greater, but less than 1,500 Gbps | .25 | 30,705
1,500 Gbps or greater, but less than 3,500 Gbps | .5 | 61,410
3,500 Gbps or greater, but less than 6,500 Gbps | 1.0 | 122,815
6,500 Gbps or greater | 2.0 | 245,630

Final Regulatory Flexibility Analysis

As required by the Regulatory Flexibility Act of 1980, as amended (RFA) an Initial Regulatory Flexibility Analysis (IRFA) was incorporated in the FY 2024 NPRM released in June 2024. The Federal Communications Commission (Commission or FCC) sought written public comment on the proposals in the FY 2024 NPRM, including comment on the IRFA. No comments were filed addressing the IRFA. This present Final Regulatory Flexibility Analysis (FRFA) conforms to the RFA.

Need for, and Objectives of, the Report and Order

In the Report and Order, the Commission adopts a regulatory fee schedule to meet its objective of fully complying with its congressionally mandated requirement of collecting regulatory fees for fiscal year (FY) 2024. For FY 2024, the Commission is required to collect $390,192,000 in regulatory fees, an amount equal to the Commission's annual salaries and expenses appropriation, pursuant to section 9 of the Communications Act of 1934, as amended (Communications Act or Act), and the Commission's FY 2024 Further Consolidation Appropriations Act. The Commission's methodology for assessing regulatory fees must “reflect the full-time equivalent number of employees within the bureaus and offices of the Commission, adjusted to take into account factors that are reasonably related to the benefits provided to the payor of the fee by the Commission's activities.” The total amount the Commission must collect in an offsetting collection generally changes each fiscal year, and payors' regulatory fees will also typically change each fiscal year as a mathematical consequence of the changes in the total amount to be collected, the number of full-time equivalents (FTEs), and projected unit estimates for each regulatory fee category.

In 2023, the Commission eliminated the International Bureau, established a new Space Bureau and a new Office of International Affairs, and reallocated the authorities and functions of the International Bureau to the Space Bureau and the Office of International Affairs. In light of these actions, for FY 2024, the Commission reviewed the FY 2023 reallocations to determine if any changes are warranted, and proposed to slightly revise the FY 2023 reallocations to the core bureaus, including the new Space Bureau and the new Office of International Affairs.

In the FY 2024 NPRM, the Commission also sought comment on several additional regulatory fee issues, including: (i) the calculation of television broadcaster regulatory fees; (ii) how our proposals may promote or inhibit advances in diversity, equity, inclusion, and accessibility; (iii) the end of temporary relief measures we implemented in response to the COVID-19 pandemic; (iv) our proposal to discontinue the Commission's presumption that broadcast stations that are dark or were recently dark or bankrupt are experiencing financial hardship sufficient to justify waiver of their regulatory fees; and (v) ways in which the Commission might assist regulatory fee payors in meeting their annual regulatory fee obligations. For FY 2024, the Commission adopts, with modification, the regulatory fee schedule set forth in tables 3 and 4 of this document.

Summary of Significant Issues Raised by Public Comments in Response to the IRFA

There were no comments filed that specifically addressed the proposed rules and policies presented in the IRFA. However, one commenter, Iridium, contends that adopting the 60/40 allocation split between Geostationary Orbit (GSO) and Non-Geostationary Orbit (NGSO) for FY 2024 would impose a burden on smaller NGSO systems. The Commission does not agree that it would be appropriate to delay this allocation, in that it more accurately represents the FY 2024 FTE burden in the Space Bureau than the prior 80/20 allocation.

Response to Comments by Chief Counsel for Advocacy of the Small Business Administration

Pursuant to the Small Business Jobs Act of 2010, which amended the RFA, the Commission is required to respond to any comments filed by the Chief Counsel for Advocacy of the Small Business Administration (SBA), and to provide a detailed statement of any change made to the proposed rules as a result of those comments. The Chief Counsel did not file any comments in response to the proposed rules in this proceeding.

Description and Estimate of the Number of Small Entities to Which the Rules Will Apply

The RFA directs agencies to provide a description of, and, where feasible, an estimate of the number of small entities that may be affected by the rules adopted herein. The RFA generally defines the term “small entity” as having the same meaning as the terms “small business,” “small organization,” and “small governmental jurisdiction.” In addition, the term “small business” has the same meaning as the term “small business concern” under the Small Business Act. A “small business concern” is one which: (1) is independently owned and operated; (2) is not dominant in its field of operation; and (3) satisfies any additional criteria established by the SBA.

Small Businesses, Small Organizations, Small Governmental Jurisdictions. Our actions, over time, may affect small entities that are not easily categorized at present. We therefore describe, at the outset, three broad groups of small entities that could be directly affected herein. First, while there are industry specific size standards for small businesses that are used in the regulatory flexibility analysis, according to data from the Small Business Administration's (SBA) Office of Advocacy, in general a small business is an independent business having fewer than 500 employees. These types of small businesses represent 99.9% of all businesses in the United States, which translates to 33.2 million businesses.

Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2022, there were approximately 530,109 small exempt organizations in the U.S. reporting revenues of $50,000 or less according to the registration and tax data for exempt organizations available from the IRS.

Finally, the small entity described as a “small governmental jurisdiction” is defined generally as “governments of cities, counties, towns, townships, villages, school districts, or special districts, with a population of less than fifty thousand.” U.S. Census Bureau data from the 2022 Census of Governments indicate there were 90,837 local governmental jurisdictions consisting of general purpose governments and special purpose governments in the United States. Of this number, there were 36,845 general purpose governments (county, municipal, and town or township) with populations of less than 50,000 and 11,879 special purpose governments (independent school districts) with enrollment populations of less than 50,000. Accordingly, based on the 2022 U.S. Census of Governments data, we estimate that at least 48,724 entities fall into the category of “small governmental jurisdictions.”

Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers.

The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were engaged in the provision of fixed local services. Of these providers, the Commission estimates that 4,146 providers have 1,500 or fewer employees. Consequently, using the SBA's small business size standard, most of these providers can be considered small entities.

Local Exchange Carriers (LECs). Neither the Commission nor the SBA has developed a size standard for small businesses specifically applicable to local exchange services. Providers of these services include both incumbent and competitive local exchange service providers. Wired Telecommunications Carriers is the closest industry with an SBA small business size standard. Wired Telecommunications Carriers are also referred to as wireline carriers or fixed local service providers. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were fixed local exchange service providers. Of these providers, the Commission estimates that 4,146 providers have 1,500 or fewer employees. Consequently, using the SBA's small business size standard, most of these providers can be considered small entities.

Incumbent Local Exchange Carriers (Incumbent LECs). Neither the Commission nor the SBA have developed a small business size standard specifically for incumbent local exchange carriers. Wired Telecommunications Carriers is the closest industry with an SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2022 Universal Service Monitoring Report, as of December 31, 2021, there were 1,212 providers that reported they were incumbent local exchange service providers. Of these providers, the Commission estimates that 916 providers have 1,500 or fewer employees. Consequently, using the SBA's small business size standard, the Commission estimates that the majority of incumbent local exchange carriers can be considered small entities.

Competitive Local Exchange Carriers (CLECs). Neither the Commission nor the SBA has developed a size standard for small businesses specifically applicable to local exchange services. Providers of these services include several types of competitive local exchange service providers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 3,378 providers that reported they were competitive local service providers. Of these providers, the Commission estimates that 3,230 providers have 1,500 or fewer employees. Consequently, using the SBA's small business size standard, most of these providers can be considered small entities.

Interexchange Carriers (IXCs). Neither the Commission nor the SBA have developed a small business size standard specifically for Interexchange Carriers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 127 providers that reported they were engaged in the provision of interexchange services. Of these providers, the Commission estimates that 109 providers have 1,500 or fewer employees. Consequently, using the SBA's small business size standard, the Commission estimates that the majority of providers in this industry can be considered small entities.

Prepaid Calling Card Providers. Neither the Commission nor the SBA has developed a small business size standard specifically for prepaid calling card providers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 62 providers that reported they were engaged in the provision of prepaid card services. Of these providers, the Commission estimates that 61 providers have 1,500 or fewer employees. Consequently, using the SBA's small business size standard, most of these providers can be considered small entities.

Local Resellers. Neither the Commission nor the SBA have developed a small business size standard specifically for Local Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 207 providers that reported they were engaged in the provision of local resale services. Of these providers, the Commission estimates that 202 providers have 1,500 or fewer employees. Consequently, using the SBA's small business size standard, most of these providers can be considered small entities.

Toll Resellers. Neither the Commission nor the SBA have developed a small business size standard specifically for Toll Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 457 providers that reported they were engaged in the provision of toll services. Of these providers, the Commission estimates that 438 providers have 1,500 or fewer employees. Consequently, using the SBA's small business size standard, most of these providers can be considered small entities.

Other Toll Carriers. Neither the Commission nor the SBA has developed a definition for small businesses specifically applicable to Other Toll Carriers. This category includes toll carriers that do not fall within the categories of interexchange carriers, operator service providers, prepaid calling card providers, satellite service carriers, or toll resellers. Wired Telecommunications Carriers is the closest industry with a SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2022 Universal Service Monitoring Report, as of December 31, 2021, there were 90 providers that reported they were engaged in the provision of other toll services. Of these providers, the Commission estimates that 87 providers have 1,500 or fewer employees. Consequently, using the SBA's small business size standard, most of these providers can be considered small entities.

Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2022 Universal Service Monitoring Report, as of December 31, 2021, there were 594 providers that reported they were engaged in the provision of wireless services. Of these providers, the Commission estimates that 511 providers have 1,500 or fewer employees. Consequently, using the SBA's small business size standard, most of these providers can be considered small entities.

Television Broadcasting. This industry is comprised of “establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA small business size standard for this industry classifies businesses having $47 million or less in annual receipts as small. 2017 U.S. Census Bureau data indicate that 744 firms in this industry operated for the entire year. Of that number, 657 firms had revenue of less than $25,000,000. Based on this data we estimate that the majority of television broadcasters are small entities under the SBA small business size standard.

As of June 30, 2024, there were 1,384 licensed commercial television stations. Of this total, 1,307 stations (or 94.4%) had revenues of $47 million or less in 2023, according to Commission staff review of the BIA Kelsey Inc. Media Access Pro Television Database (BIA) on July 3, 2024, and therefore these licensees qualify as small entities under the SBA definition. In addition, the Commission estimates as of June 30, 2024, there were 382 licensed noncommercial educational (NCE) television stations, 379 Class A TV stations, 1,821 LPTV stations and 3,100 TV translator stations. The Commission, however, does not compile and otherwise does not have access to financial information for these television broadcast stations that would permit it to determine how many of these stations qualify as small entities under the SBA small business size standard. Nevertheless, given the SBA's large annual receipts threshold for this industry and the nature of these television station licensees, we presume that all of these entities qualify as small entities under the above SBA small business size standard.

Radio Stations. This industry is comprised of “establishments primarily engaged in broadcasting aural programs by radio to the public.” Programming may originate in their own studio, from an affiliated network, or from external sources. The SBA small business size standard for this industry classifies firms having $47 million or less in annual receipts as small. U.S. Census Bureau data for 2017 show that 2,963 firms operated in this industry during that year. Of this number, 1,879 firms operated with revenue of less than $25 million per year. Based on this data and the SBA's small business size standard, we estimate a majority of such entities are small entities.

The Commission estimates that as of June 30, 2024, there were 4,413 licensed commercial AM radio stations and 6,620 licensed commercial FM radio stations, for a combined total of 11,033 commercial radio stations. Of this total, 11,032 stations (or 99.99%) had revenues of $47 million or less in 2023, according to Commission staff review of the BIA Kelsey Inc. Media Access Pro Database (BIA) on July 3, 2024, and therefore these licensees qualify as small entities under the SBA definition. In addition, the Commission estimates that as of June 30, 2024, there were 4,356 licensed noncommercial (NCE) FM radio stations, 1,965 low power FM (LPFM) stations, and 8,906 FM translators and boosters. The Commission however does not compile, and otherwise does not have access to financial information for these radio stations that would permit it to determine how many of these stations qualify as small entities under the SBA small business size standard. Nevertheless, given the SBA's large annual receipts threshold for this industry and the nature of radio station licensees, we presume that all of these entities qualify as small entities under the above SBA small business size standard.

We note, however, that in assessing whether a business concern qualifies as “small” under the above definition, business (control) affiliations must be included. Our estimate, therefore, likely overstates the number of small entities that might be affected by our action, because the revenue figure on which it is based does not include or aggregate revenues from affiliated companies. In addition, another element of the definition of “small business” requires that an entity not be dominant in its field of operation. We are unable at this time to define or quantify the criteria that would establish whether a specific radio or television broadcast station is dominant in its field of operation. Accordingly, the estimate of small businesses to which the rules may apply does not exclude any radio or television station from the definition of a small business on this basis and is therefore possibly over-inclusive. An additional element of the definition of “small business” is that the entity must be independently owned and operated. Because it is difficult to assess these criteria in the context of media entities, the estimate of small businesses to which the rules may apply does not exclude any radio or television station from the definition of a small business on this basis and similarly may be over-inclusive.

Cable Companies and Systems (Rate Regulation). The Commission has developed its own small business size standard for the purpose of cable rate regulation. Under the Commission's rules, a “small cable company” is one serving 400,000 or fewer subscribers nationwide. Based on industry data, there are about 420 cable companies in the U.S. Of these, only seven have more than 400,000 subscribers. In addition, under the Commission's rules, a “small system” is a cable system serving 15,000 or fewer subscribers. Based on industry data, there are about 4,139 cable systems (headends) in the U.S. Of these, about 639 have more than 15,000 subscribers. Accordingly, the Commission estimates that the majority of cable companies and cable systems are small.

Cable System Operators (Telecom Act Standard). The Communications Act of 1934, as amended, contains a size standard for a “small cable operator,” which is “a cable operator that, directly or through an affiliate, serves in the aggregate fewer than one percent of all subscribers in the United States and is not affiliated with any entity or entities whose gross annual revenues in the aggregate exceed $250,000,000.” For purposes of the Telecom Act Standard, the Commission determined that a cable system operator that serves fewer than 498,000 subscribers, either directly or through affiliates, will meet the definition of a small cable operator. Based on industry data, only six cable system operators have more than 498,000 subscribers. Accordingly, the Commission estimates that the majority of cable system operators are small under this size standard. We note however, that the Commission neither requests nor collects information on whether cable system operators are affiliated with entities whose gross annual revenues exceed $250 million. Therefore, we are unable at this time to estimate with greater precision the number of cable system operators that would qualify as small cable operators under the definition in the Communications Act.

Direct Broadcast Satellite (DBS) Service. DBS service is a nationally distributed subscription service that delivers video and audio programming via satellite to a small parabolic “dish” antenna at the subscriber's location. DBS is included in the Wired Telecommunications Carriers industry which comprises establishments primarily engaged in operating and/or providing access to transmission facilities and infrastructure that they own and/or lease for the transmission of voice, data, text, sound, and video using wired telecommunications networks. Transmission facilities may be based on a single technology or combination of technologies. Establishments in this industry use the wired telecommunications network facilities that they operate to provide a variety of services, such as wired telephony services, including VoIP services, wired (cable) audio and video programming distribution; and wired broadband internet services. By exception, establishments providing satellite television distribution services using facilities and infrastructure that they operate are included in this industry.

The SBA small business size standard for Wired Telecommunications Carriers classifies firms having 1,500 or fewer employees as small. U.S. Census Bureau data for 2017 show that 3,054 firms operated in this industry for the entire year. Of this number, 2,964 firms operated with fewer than 250 employees. Based on this data, the majority of firms in this industry can be considered small under the SBA small business size standard. According to Commission data however, only two entities provide DBS service—DIRECTV (co-owned by AT&T) and DISH Network (owned by EchoStar Corp.), which require a great deal of capital for operation. DIRECTV and DISH Network both exceed the SBA size standard for classification as a small business. Therefore, we must conclude based on internally developed Commission data, in general DBS service is provided only by large firms.

Satellite Telecommunications. This industry comprises firms “primarily engaged in providing telecommunications services to other establishments in the telecommunications and broadcasting industries by forwarding and receiving communications signals via a system of satellites or reselling satellite telecommunications.” Satellite telecommunications service providers include satellite and earth station operators. The SBA small business size standard for this industry classifies a business with $44 million or less in annual receipts as small. U.S. Census Bureau data for 2017 show that 275 firms in this industry operated for the entire year. Of this number, 242 firms had revenue of less than $25 million. Additionally, based on Commission data in the 2022 Universal Service Monitoring Report, as of December 31, 2021, there were 65 providers that reported they were engaged in the provision of satellite telecommunications services. Of these providers, the Commission estimates that approximately 42 providers have 1,500 or fewer employees. Consequently, using the SBA's small business size standard, a little more than half of these providers can be considered small entities.

All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g. dial-up ISPs) or Voice over internet Protocol (VoIP) services, via client-supplied telecommunications connections are also included in this industry. The SBA small business size standard for this industry classifies firms with annual receipts of $40 million or less as small. U.S. Census Bureau data for 2017 show that there were 1,079 firms in this industry that operated for the entire year. Of those firms, 1,039 had revenue of less than $25 million. Based on this data, the Commission estimates that the majority of “All Other Telecommunications” firms can be considered small.

RespOrgs. Responsible Organizations, or RespOrgs (also referred to as Toll-Free Number (TFN) providers), are entities chosen by toll free subscribers to manage and administer the appropriate records in the toll-free Service Management System for the toll-free subscriber. Based on information on the website of SOMOS, the entity that maintains a registry of Toll-Free Number providers (SMS/800 TFN Registry) for the more than 42 million Toll-Free numbers in North America, and the TSS Registry, a centralized registry for the use of Toll-Free Numbers in text messaging and multimedia services, there were approximately 446 registered RespOrgs/Toll-Free Number providers in July 2021. RespOrgs are often wireline carriers, however they can be include non-carrier entities. Accordingly, the description below for RespOrgs include both Carrier RespOrgs and Non-Carrier RespOrgs.

Carrier RespOrgs. Neither the Commission nor the SBA have developed a small business size standard for Carrier RespOrgs. Wired Telecommunications Carriers, and Wireless Telecommunications Carriers (except Satellite) are the closest industries with a SBA small business size applicable to Carrier RespOrgs.

Wired Telecommunications Carriers are establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. The SBA small business size standard for this industry classifies a business as small if it has 1,500 or fewer employees. U.S. Census Bureau data for 2017 show that there were 3,054 firms that operated for the entire year. Of this number, 2,964 firms operated with fewer than 250 employees. Based on that data, we conclude that the majority of Carrier RespOrgs that operated with wireline-based technology are small.

Wireless Telecommunications Carriers (except Satellite) engage in operating and maintaining switching and transmission facilities to provide communications via the airwaves. Establishments in this industry have spectrum licenses and provide services using that spectrum, such as cellular services, paging services, wireless internet access, and wireless video services. The SBA small business size standard for this industry classifies a business as small if it has 1,500 or fewer employees. For this industry, U.S. Census Bureau data for 2017 show that there were 2,893 firms that operated for the entire year. Of this number, 2,837 firms employed fewer than 250 employees. Based on this data, we conclude that the majority of Carrier RespOrgs that operated with wireless-based technology are small.

Non-Carrier RespOrgs. Neither the Commission, nor the SBA have developed a small business size standard Non-Carrier RespOrgs. Other Services Related to Advertising and Other Management Consulting Services” are the closest industries with a SBA small business size applicable to Non-Carrier RespOrgs.

The Other Services Related to Advertising industry contains establishments primarily engaged in providing advertising services (except advertising agency services, public relations agency services, media buying agency services, media representative services, display advertising services, direct mail advertising services, advertising material distribution services, and marketing consulting services). The SBA small business size standard for this industry classifies a business as small that has annual receipts of $16.5 million or less. U.S. Census Bureau data for 2017 show that 5,650 firms operated in this industry for the entire year. Of that number, 3,693 firms operated with revenue of less than $10 million. Based on this data, we conclude that a majority of non-carrier RespOrgs who provide TFN-related management consulting services are small.

The Other Management Consulting Services industry contains establishments primarily engaged in providing management consulting services (except administrative and general management consulting; human resources consulting; marketing consulting; or process, physical distribution, and logistics consulting). Establishments providing telecommunications or utilities management consulting services are included in this industry. The SBA small business size standard for this industry classifies a business as small if it has annual receipts of $16.5 million or less. U.S. Census Bureau data for 2017 show that 4,696 firms operated in this industry for the entire year. Of that number, 3,700 firms had revenue of less than $10 million. Based on this data, we conclude that a majority of non-carrier RespOrgs who provide TFN-related management consulting services are small.

Description of Projected Reporting, Recordkeeping, and Other Compliance Requirements for Small Entities

The Report and Order does not adopt any changes to the Commission's current information collection, reporting, recordkeeping, or other compliance requirements for collecting regulatory fees from small entities. Small and other regulated entities are required to pay regulatory fees on an annual basis. The cost of compliance with the annual regulatory assessment for small entities is the amount assessed for their regulatory fee category and should not require small entities to hire professionals in order to comply, as they are accustomed to paying the annual fees and most should be familiar with both the Commission's current collection process as well as the process put in place prior to the COVID-19 pandemic.

However, the Report and Order does adopt changes to the current fee waiver process, which may impact small entities, by returning to normal, pre-COVID-19 pandemic operations and discontinuing temporary waiver relief from regulatory fees available in the FY 2023 Report and Order that was not codified at that time. The Commission now will require small and other entities seeking relief through a waiver, reduction, and/or deferral of fees to submit all financial documents necessary to support their hardship request at the time of filing the request. In addition, the Commission is restoring the red light rule so that entities, including small entities, must not be in red light status at the time of filing a request for waiver, reduction, deferral, or installment payments. Small entities may be able to take advantage of the streamlined waiver processes, including permitting parties to submit a single waiver request for various forms of relief electronically, instead of separate filings and for FY 2024 regulatory fees, a low interest rate and no down payment requirement for installment payment of regulatory fees.

Steps Taken To Minimize Significant Economic Impact on Small Entities, and Significant Alternatives Considered

The RFA requires an agency to provide “a description of the steps the agency has taken to minimize the significant economic impact on small entities . . . including a statement of the factual, policy, and legal reasons for selecting the alternative adopted in the final rule and why each one of the other significant alternatives to the rule considered by the agency which affect the impact on small entities was rejected.”

In response to the FY 2024 NPRM, the Commission received comments proposing alternatives to various elements of the methodology for assessing regulatory fees and the FY 2024 regulatory fee schedule, as well as other issues related to the collection of regulatory fees. After considering those alternatives, as well as those discussed amongst Commission staff, the rules adopted in the Report and Order reflect the Commission's efforts to minimize significant economic impact on small entities when practicable. Below is a discussion of some of the steps the Commission has taken in the Report and Order and alternative proposals it considered in reaching its conclusions.

Assessment of Regulatory Fees. For FY 2024, we employ the same methodology as the Commission did in FY 2023. However, we conclude that changes within the Commission's organizational structure and in additional staff resources merits a review of the FY 2023 reallocations of the FTEs located in the Office of General Counsel, the Office of Economics and Analytics, and the Public Safety and Homeland Security Bureau that were previously considered to be indirect FTEs and were allocated as direct FTEs to a core bureau. Specifically, effective on April 10, 2023, the International Bureau was eliminated by establishing a new Space Bureau and a new Office of International Affairs, We also analyzed the FTEs previously reallocated as direct to a core bureau in FY 2023 for regulatory fee purposes to determine whether there have been any shifts in work assignments such that the number of allocations to a core bureau for regulatory fee purposes should be adjusted. Also, in instances where an FTE was previously allocated to the International Bureau as direct for regulatory fee purposes, we analyzed the specific work done by the FTE to determine whether such FTE should be allocated to the new Office of International Affairs or the new Space Bureau. Based on the results of our evaluation, we conclude that certain indirect FTEs could be reassigned as direct FTEs and incorporate these into the count of FTEs of the relevant core bureau for purposes of calculating regulatory fees for FY 2024, which could reduce regulatory fee obligations for some small and other regulatory payees.

Additionally, on March 13, 2024, the Commission released the Space and Earth Station Regulatory Fees NPRM seeking comment on proposed changes to the regulatory fee methodology used for assessing space and earth station regulatory fees for FY 2024. We proposed regulatory fee rates based on the proposals set forth in the Space and Earth Station Regulatory Fees NPRM, and therefore, did not need to seek comment again on the FY 2024 NPRM.

Broadcast Regulatory Fees. In the Report and Order, we continue to assess fees for full-power broadcast television stations based on the population covered by a full-service broadcast television station's contour, which may reduce the economic impact of the regulatory fees for some small licensees. While the population-based methodology increases fees for some licensees and reduces fees for others, we believe the population-based metric better conforms with the service of broadcasting television to the American people.

In addition, entities experiencing financial hardship, including small businesses, will continue to have access to fee relief, such as waiver, reduction, deferral and/or installment payment of their regulatory fees and may be exempt from paying a regulatory fee if the assessed fee is below the de minimis threshold that the Commission has established.

Relief Measures. During the COVID-19 pandemic and through FY 2023, the Commission provided certain temporary relief to regulatory fee payors experiencing financial hardship caused or exacerbated by the COVID-19 pandemic through a combination of partial rule waivers and direction to the Office of the Managing Director in exercising its delegated authority. In the Report and Order, the Commission eliminates some temporary measures for FY 2024 because the circumstances for which the measures were temporarily implemented have changed, i.e., the National Emergency COVID-19 pandemic has ended and the national economy is rebounding.

The Commission restores operation of the “red light” rule and therefore will not act on and will dismiss any requests for waiver, reduction, deferral, or for installment payments if the payor is in red light status when the request is filed. Further, the Commission, under § 1.1166 of the rules, now requires parties to submit, at the time of filing, their financial information to support any request for waiver, reduction, deferral or installment payments. Finally, in recognition of the possible hardship to certain Space Bureau fee payors caused by a significant increase in their FY 2024 regulatory fees, the Commission will, for all regulatory fee payors' installment payment plans, fix interest rates on all installment payments for payment of FY 2024 regulatory fee debt at the lowest rate permitted by statute; will not require parties to submit the customary down payment for installment payment plans.

Non-Operating Broadcast Stations. In the Report and Order, we end the policy of presuming that dark or silent stations have experienced financial hardship and therefore merit granting a request for waiver of regulatory fees on the basis of financial hardship, without requiring submission of evidence of actual financial hardship. This policy was first mentioned by the Commission in 1995, and then applied by the Commission's Office of the Managing Director in 1996. The Commission, however, has never codified this policy and it is rarely used. The policy, moreover, appears to assume that the only rationale for a dark or silent station is financial duress. There is no such limitation, however, contained in § 73.1740(a)(4) of the Commission's rules. Licensees might go dark for different reasons depending on each station's particular circumstances. Thus, drawing on the Commission's experience since establishment of the policy in 1995, the assumption that requiring financial information in a request for waiver of regulatory fees is unnecessary by the operators of a dark or silent station appears to be no longer accurate in 2024. In the Report and Order, we therefore end the assumption that stations are dark or were recently dark or bankrupt are experiencing financial distress when they file a request for waiver of regulatory fees. Instead, we require that these licensees submit supporting financial documentation with their fee requests to prove financial hardship sufficient to justify a fee waiver, just as all other regulatory fee payors are required to do under § 1.1166 of our rules. In order to give regulatory fee payors, many of which are small entities, more time to make any necessary changes to comply with this change in policy, we will make this change effective for fiscal year 2025.

Report to Congress

The Commission will send a copy of the Report and Order, including the FRFA, in a report to Congress pursuant to the Congressional Review Act. In addition, the Commission will send a copy of the Report and Order, including the FRFA, to the Chief Counsel for Advocacy of the SBA. A copy of the Report and Order, and FRFA (or summaries thereof) will also be published in the Federal Register.

Ordering Clauses

Accordingly, it is ordered that, pursuant to 47 U.S.C. 4(i), 4(j), 9, 9A, and 303(r) of the Communications Act of 1934, as amended, 47 U.S.C. 154(i), 154(j), 159, 159A, and 303(r), the Report and Order is hereby adopted.

It is further ordered that the FY 2024 section 9 regulatory fees assessment requirements are adopted as specified herein.

It is further ordered that the Commission's Office of the Secretary shall send a copy of the Report and Order, including the Final Regulatory Flexibility Analysis, to the Chief Counsel for Advocacy of the Small Business Administration.

List of Subjects in 47 CFR Part 1

Administrative practice and procedure, Communications, Reporting and recordkeeping requirements, Telecommunications, Telephone, Television.

Federal Communications Commission.
Katura Jackson,
Federal Register Liaison Officer.

Final Rules

For the reasons discussed in the preamble, the Federal Communications Commission amends 47 CFR part 1 as follows:

PART 1—PRACTICE AND PROCEDURE

1. The authority citation for part 1 continues to read as follows:

Authority: 47 U.S.C. chs. 2, 5, 9, 13; 28 U.S.C. 2461 note; 47 U.S.C. 1754, unless otherwise noted.

2. Section 1.1152 is revised to read as follows:

§ 1.1152 Schedule of annual regulatory fees for wireless radio services.

Table 1 to § 1.1152
Exclusive use services (per license) | Fee amount
1. Land Mobile (Above 470 MHz and 220 MHz Local, Base Station & SMRS) (47 CFR part 90):
(a) New, Renew/Mod (FCC 601 & 159) | $25.00
(b) New, Renew/Mod (Electronic Filing) (FCC 601 & 159) | 25.00
(c) Renewal Only (FCC 601 & 159) | 25.00
(d) Renewal Only (Electronic Filing) (FCC 601 & 159) | 25.00
220 MHz Nationwide:
(a) New, Renew/Mod (FCC 601 & 159) | 25.00
(b) New, Renew/Mod (Electronic Filing) (FCC 601 & 159) | 25.00
(c) Renewal Only (FCC 601 & 159) | 25.00
(d) Renewal Only (Electronic Filing) (FCC 601 & 159) | 25.00
2. Microwave (47 CFR part 101) (Private):
(a) New, Renew/Mod (FCC 601 & 159) | 25.00
(b) New, Renew/Mod (Electronic Filing) (FCC 601 & 159) | 25.00
(c) Renewal Only (FCC 601 & 159) | 25.00
(d) Renewal Only (Electronic Filing) (FCC 601 & 159) | 25.00
3. Shared Use Services—
Land Mobile (Frequencies Below 470 MHz—except 220 MHz):
(a) New, Renew/Mod (FCC 601 & 159) | 10.00
(b) New, Renew/Mod (Electronic Filing) (FCC 601 & 159) | 10.00
(c) Renewal Only (FCC 601 & 159) | 10.00
(d) Renewal Only (Electronic Filing) (FCC 601 & 159) | 10.00
Rural Radio (47 CFR part 22):
(a) New, Additional Facility, Major Renew/Mod (Electronic Filing) (FCC 601 & 159) | 10.00
(b) Renewal, Minor Renew/Mod (Electronic Filing) | 10.00
4. Marine Coast:
(a) New Renewal/Mod (FCC 601 & 159) | 40.00
(b) New, Renewal/Mod (Electronic Filing) (FCC 601 & 159) | 40.00
(c) Renewal Only (FCC 601 & 159) | 40.00
(d) Renewal Only (Electronic Filing) (FCC 601 & 159) | 40.00
5. Aviation Ground:
(a) New, Renewal/Mod (FCC 601 & 159) | 20.00
(b) New, Renewal/Mod (Electronic Filing) (FCC 601 & 159) | 20.00
(c) Renewal Only (FCC 601 & 159) | 20.00
(d) Renewal Only (Electronic Only) (FCC 601 & 159) | 20.00
6. Marine Ship:
(a) New, Renewal/Mod (FCC 605 & 159) | 15.00
(b) New, Renewal/Mod (Electronic Filing) (FCC 605 & 159) | 15.00
(c) Renewal Only (FCC 605 & 159) | 15.00
(d) Renewal Only (Electronic Filing) (FCC 605 & 159) | 15.00
7. Aviation Aircraft:
(a) New, Renew/Mod (FCC 605 & 159) | 10.00
(b) New, Renew/Mod (Electronic Filing) (FCC 605 & 159) | 10.00
(c) Renewal Only (FCC 605 & 159) | 10.00
(d) Renewal Only (Electronic Filing) (FCC 605 & 159) | 10.00
8. CMRS Cellular/Mobile Services (per unit) (FCC 159) | ¹ .16
9. CMRS Messaging Services (per unit) (FCC 159) | ² .08
10. Broadband Radio Service (formerly MMDS and MDS) | 725
11. Local Multipoint Distribution Service | 725
¹ These are standard fees that are to be paid in accordance with § 1.1157(b).
² These are standard fees that are to be paid in accordance with § 1.1157(b).

3. Section 1.1153 is revised to read as follows:

§ 1.1153 Schedule of annual regulatory fees and filing locations for mass media services.

Table 1 to § 1.1153
| Fee amount
Radio [AM and FM]
(47 CFR Part 73)
1. AM Class A:
≤10,000 population | $560
10,001-25,000 population | 935
25,001-75,000 population | 1,405
75,001-150,000 population | 2,105
150,001-500,000 population | 3,160
500,001-1,200,000 population | 4,730
1,200,001-3,000,000 population | 7,105
3,000,001-6,000,000 population | 10,650
>6,000,000 population | 15,980
2. AM Class B:
≤10,000 population | 405
10,001-25,000 population | 675
25,001-75,000 population | 1,015
75,001-150,000 population | 1,520
150,001-500,000 population | 2,280
500,001-1,200,000 population | 3,415
1,200,001-3,000,000 population | 5,130
3,000,001-6,000,000 population | 7,690
>6,000,000 population | 11,535
3. AM Class C:
≤10,000 population | 350
10,001-25,000 population | 585
25,001-75,000 population | 880
75,001-150,000 population | 1,315
150,001-500,000 population | 1,975
500,001-1,200,000 population | 2,960
1,200,001-3,000,000 population | 4,445
3,000,001-6,000,000 population | 6,665
>6,000,000 population | 10,000
4. AM Class D:
≤10,000 population | 385
10,001-25,000 population | 645
25,001-75,000 population | 970
75,001-150,000 population | 1,450
150,001-500,000 population | 2,180
500,001-1,200,000 population | 3,265
1,200,001-3,000,000 population | 4,900
3,000,001-6,000,000 population | 7,345
>6,000,000 population | 11,025
5. AM Construction Permit | 585
6. FM Classes A, B1 and C3:
≤10,000 population | 615
10,001-25,000 population | 1,025
25,001-75,000 population | 1,540
75,001-150,000 population | 2,305
150,001-500,000 population | 3,465
500,001-1,200,000 population | 5,185
1,200,001-3,000,000 population | 7,790
3,000,001-6,000,000 population | 11,675
>6,000,000 population | 17,515
7. FM Classes B, C, C0, C1 and C2:
≤10,000 population | 700
10,001-25,000 population | 1,170
25,001-75,000 population | 1,755
75,001-150,000 population | 2,635
150,001-500,000 population | 3,955
500,001-1,200,000 population | 5,920
1,200,001-3,000,000 population | 8,890
3,000,001-6,000,000 population | 13,325
>6,000,000 population | 19,995
8. FM Construction Permits | 1,025
TV (47 CFR part 73)
9. Digital TV (UHF and VHF Commercial Stations):
1. Digital TV Construction Permits | 5,200
2. Television Fee Factor | .006598 per pop.
10. Low Power TV, Class A TV, FM Translator, & TV/FM Booster (47 CFR part 74) | 245

4. Section 1.1154 is revised to read as follows:

§ 1.1154 Schedule of annual regulatory charges for common carrier services.

Table 1 to § 1.1154
Radio facilities | Fee amount
1. Microwave (Domestic Public Fixed) (Electronic Filing) (FCC Form 601 & 159) | $25.00.
Carriers:
1. Interstate Telephone Service Providers (per interstate and international end-user revenues (see FCC Form 499-A) | .00542.
2. Toll Free Number Fee | .12 per Toll Free Number.

5. Section 1.1155 is revised to read as follows:

§ 1.1155 Schedule of regulatory fees for cable television services.

Table 1 to § 1.1155
| Fee amount
1. Cable Television Relay Service | $1,825
2. Cable TV System, Including IPTV (per subscriber), and DBS (per subscriber) | 1.27

6. Section 1.1156 is revised to read as follows:

§ 1.1156 Schedule of regulatory fees for international services.

(a) Geostationary orbit (GSO) and non-geostationary orbit (NGSO) space stations. The following schedule applies for the listed services:

Table 1 to Paragraph (a)
Fee category | Fee amount
Space Stations (Geostationary Orbit) | $144,155
Space Stations (Non-Geostationary Orbit)—Other | 964,200
Space Stations (Non-Geostationary Orbit)—Less Complex | 441,925
2,Space Stations (per license/call sign in non-geostationary orbit) (47 CFR part 25) (Small Satellite) | 12,215
Earth Stations: Transmit/Receive & Transmit only (per authorization or registration) | 2,610

(b) International terrestrial and satellite Bearer Circuits. (1) Regulatory fees for International Bearer Circuits are to be paid by facilities-based common carriers that have active (used or leased) international bearer circuits as of December 31 of the prior year in any terrestrial or satellite transmission facility for the provision of service to an end user or resale carrier, which includes active circuits to themselves or to their affiliates. In addition, non-common carrier terrestrial and satellite operators must pay a fee for each active circuit sold or leased to any customer, including themselves or their affiliates, other than an international common carrier authorized by the Commission to provide U.S. international common carrier services. “Active circuits” for purposes of this paragraph (b) include backup and redundant circuits. In addition, whether circuits are used specifically for voice or data is not relevant in determining that they are active circuits.

(2) The fee amount, per active Gbps circuit will be determined for each fiscal year.

Table 2 to Paragraph (b)(2)
International terrestrial and satellite (capacity as of December 31, 2023) | Fee amount
Terrestrial Common Carrier and Non-Common Carrier Satellite Common Carrier and Non-Common Carrier | $17 per Gbps circuit.

(c) Submarine cable. Regulatory fees for submarine cable systems will be paid annually, per cable landing license, for all submarine cable systems operating based on their lit capacity as of December 31 of the prior year. The fee amount will be determined by the Commission for each fiscal year.

Table 3 to Paragraph (c)—FY 2024 International Bearer Circuits—Submarine Cable Systems
Submarine cable systems (lit capacity as of December 31, 2023) | Fee ratio (units) | FY 2024 regulatory fees
Less than 50 Gbps | .0625 | $5,570
50 Gbps or greater, but less than 250 Gbps | .125 | 11,140
250 Gbps or greater, but less than 1,500 Gbps | .25 | 22,275
1,500 Gbps or greater, but less than 3,500 Gbps | .5 | 44,550
3,500 Gbps or greater, but less than 6,500 Gbps | 1.0 | 89,095
6,500 Gbps or greater | 2.0 | 178,190

[FR Doc. 2024-21159 Filed 9-24-24; 8:45 am]

BILLING CODE 6712-01-P